DEPARTMENT OF COMMERCE

National Oceanic and Atmospheric Administration

[Docket No. 0907081109-91109-01]

RIN 0648-ZC10

Availability of Grant Funds for Fiscal Year 2010

AGENCY: National Oceanic and Atmospheric Administration (NOAA), Commerce.

ACTION: Notice.

SUMMARY: The National Oceanic and Atmospheric Administration publishes this notice to provide the general public with a consolidated source of program and application information related to its competitive grant and cooperative agreement (CA) award offerings for fiscal year (FY) 2010. This Omnibus notice is designed to replace the multiple Federal Register notices that traditionally advertised the availability of NOAA's discretionary funds for its various programs. It should be noted that additional program initiatives unanticipated at the time of the publication of this notice may be announced through subsequent Federal Register notices. All announcements will also be available through the Grants.gov Web site.

DATES: Proposals must be received by the date and time indicated under each program listing in the SUPPLEMENTARY INFORMATION section of this notice.

ADDRESSES: Proposals must be submitted to the addresses listed in the SUPPLEMENTARY INFORMATION section of this notice for each program. The Federal Register and Full Funding Opportunity (FFO) notices may be found on the Grants.gov Web site. The URL for Grants.gov is http://www.grants.gov.

FOR FURTHER INFORMATION CONTACT: Please contact the person listed within this notice as the information contact under each program.

SUPPLEMENTARY INFORMATION: Applicants must comply with all requirements contained in the Federal Funding Opportunity announcement for each of the programs listed in this omnibus notice. These Federal Funding Opportunities are available at http://www.grants.gov. The list of entries below describe the basic information and requirements for competitive grant/cooperative agreement programs offered by NOAA. These programs are open to any applicant who meets the eligibility criteria provided in each entry. To be considered for an award in a competitive grant/cooperative agreement program, an eligible applicant must submit a complete and responsive application to the appropriate program office. An award is made upon conclusion of the evaluation and selection process for the respective program.

Table of Contents

I. Background

II. Electronic Access

III. Evaluation Criteria and Selection Procedures

IV. NOAA Project Competitions Listed by NOAA Mission Goals

V. NOAA Project Competitions

National Marine Fisheries Service (NMFS)

1. 2010 Monkfish Research Set-Aside Program

2. 2010 Open Rivers Initiative

3. 2010 Saltonstall-Kennedy Grant Program

4. 2010 Atlantic Scallop Research Set-Aside Program

5. Cooperative Research Program

6. FY 2010 NOAA Chesapeake Bay Watershed Education and Training (B-WET) Program

7. FY 2010 Community-Based Marine Debris Removal Project Grants

8. NOAA Gulf of Mexico Bay Watershed Education and Training (B-WET) Program

9. Marine Fisheries Initiative (MARFIN)

10. NOAA Coastal and Marine Habitat Restoration National and Regional Partnership Grants

11. NOAA Coral Reef Conservation Grant Program/General Coral Reef Conservation Grants

12. NOAA Coral Reef Conservation Grant Program/Projects to Improve or Amend Coral

Reef Fishery Management Plans

13. NOAA New England Bay Watershed Education and Training (B-WET) Program

14. 2010 Prescott Marine Mammal Stranding Grant Program

15. Protected Species Cooperative Conservation

National Ocean Service (NOS)

1. 2010 NOAA Coral Reef Management Grant Program

2. 2010 NOAA Coral Reef Monitoring Grant Program

3. Coastal Hypoxia Research Program (CHRP)

4. FY 2010 Bay Watershed Education and Training (B-WET) Hawaii Program

5. FY 2010 NOAA California Bay Watershed Education and Training (B-WET) Program

6. Harmful Algal Bloom Program

7. 2010 NOAA International Coral Reef Grant Program

8. NOAA Pacific Northwest Bay Watershed Education and Training (B-WET) Program

9. National Estuarine Research Reserve Graduate Research Fellowship Program FY 2010

10. National Estuarine Research Reserve System (NERRS) Land Acquisition and Construction Program FY 2010

11. Sea Level Rise—(SLR)

12. 2010 Integrated Ocean Observing System Implementation

13. NOAA's National Height Modernization Program

National Weather Service (NWS)

1. Collaborative Science, Technology, and Applied Research (CSTAR) Program

2. Remote Community Alert Systems Program 2010

Oceanic and Atmospheric Research (OAR)

1. 2010 NMFS—Sea Grant Fellowships in Marine Resource Economics

2. 2010 NMFS—Sea Grant Fellowships in Population Dynamics

3. 2010 Sea Grant/Regional Team Climate Engagement

4. 2011 National Sea Grant College Program Dean John A. Knauss Marine Policy Fellowship

5. Climate Program Office for FY 2010

6. FY 2010 Ocean Exploration and Research Appropriation—Marine Archaeology

National Environmental Satellite Data and Information Service (NESDIS)

1. Research in Satellite Data Assimilation for Numerical Weather, Climate and Environmental Forecast Systems

2. Student Opportunity for Learning

VI. Non-Competitive Financial Assistance Project

I. Background

This notice provide the general public with a consolidated source of program and application information related to its competitive grant and cooperative agreement (CA) award offerings for fiscal year (FY) 2010. This notice provides information regarding the application submission process, and the evaluation criteria and selection procedures respectively for the grant opportunities. Each of the following grant opportunities provide: a description of the program, funding availability, statutory authority, catalog of federal domestic assistance (CFDA) number, application deadline, address for submitting proposals, information contacts, eligibility requirements, cost sharing requirements, and intergovernmental review under Executive Order 12372.

In addition, this notice announces information related to a non-competitive financial assistance project to be administered by NOAA. This project is titled “NOAA Coral Reef Conservation Grant Program—Coral Reef Ecosystem Research Grants”. The NOAA Coral Reef Conservation Grant Program announces that it is providing funding to the NOAA Undersea Research Program (NURP) Centers for: the Southeastern U.S., Florida, and Gulf of Mexico Region, the Southeast U.S. and Gulf of Mexico Center; and the Hawaii and Western Pacific Region, the Hawaii Undersea Research Laboratory, to administer two external, competitive coral reef ecosystem research grants programs. To receive an award for this project, an eligible applicant must submit a complete and responsive application to the appropriate program office. An award is made upon conclusion of the evaluation process for the prospective project.

II. Electronic Access

The full funding announcement for each program is available via the Grants.gov Web site at: http://www.grants.gov. Electronic applications for the NOAA Programs listed in this announcement may be accessed, downloaded, and submitted to that Web site.

The due dates and times for paper and electronic submissions are identical. NOAA strongly recommends that you do not wait until the application deadline to begin the application process through Grants.gov. Your application must be received and validated by Grants.gov no later than the due date and time. Please Note: Validation or rejection of your application by Grants.gov may take up to 2 business days after your submission.

Please consider the Grants.gov validation/rejection process in developing your application submission time line.

Grants.gov

Getting started with Grants.gov is easy. Users should note that there are two key features on the Web site: Find Grant Opportunities and Apply for Grants. The site is designed to support these two features and your use of them.

While you can begin searching for NOAA grant opportunities immediately, it is recommended that you complete the steps to Get Started (below) ahead of time. This will help ensure you are ready to go when you find an opportunity for which you would like to apply.

Applications From Individuals

In order for you to apply as an individual the announcement must specify that the program is open to individuals and it must be published on the Grants.gov Web site. Individuals must register with the Credential Provider (see Step 3 below) and with Grants.gov (see Step 4 below). Individuals do not need a DUNS number to register and submit their applications. The system will generate a default value in that field.

Grants.gov Application Submission and Receipt Procedures

This section provides the application submission and receipt instructions for NOAA program applications. Please read the following instructions carefully and completely.

1. Electronic Delivery. NOAA is participating in the Grants.gov Initiative that provides the Grant Community a single site to find and apply for grant funding opportunities. NOAA encourages applicants to submit their applications electronically through: http://www.grants.gov/applicants/apply_for_grants.jsp.

2. The following describes what to expect when applying online using Grants.gov/Apply:

a. Instructions. On the site, you will find step-by-step instructions which enable you to apply for NOAA funds. The Grants.gov/Apply feature includes a simple, unified application process that makes it possible for applicants to apply for grants online. There are six “Get Started” steps to complete at Grants.gov. The information applicants need to understand and execute the steps can be found at: http://www.grants.gov/applicants/get_registered.jsp. Applicants should read the Get Started steps carefully. The site also contains registration checklists to help you walk through the process. NOAA recommends that you download the checklists and prepare the information requested before beginning the registration process. Reviewing and assembling required information before beginning the registration process will make the process fast and smooth and save time.

b. DUNS Requirement. All applicants, except those filing as individuals, who are applying for funding, including renewal funding, must have a Dun and Bradstreet Universal Data Numbering System (DUNS) number. The DUNS number must be included in the data entry field labeled “Organizational Duns” on the form SF-424. Instructions for obtaining a DUNS number can be found at the following Web site: http://www.grants.gov/applicants/get_registered.jsp.

c. Central Contractor Registry. In addition to having a DUNS number, all applicants applying electronically through Grants.gov must register with the Federal Central Contractor Registry and obtain a User Name and password. The Grants.gov Web site at http://www.grants.gov/applicants/get_registered.jsp provides step-by-step instructions for registering in the Central Contractor Registry. Failure to register with the Central Contractor Registry will result in your application being rejected by the Grants.gov portal.

The registration process is a separate process from submitting an application. Applicants are, therefore, encouraged to register early. The registration process can take approximately two weeks to be completed. Therefore, registration should be done in sufficient time to ensure it does not impact your ability to meet required submission deadlines. You will be able to submit your application online anytime after you receive your e-authentication credentials.

d. Electronic Signature. Applications submitted through Grants.gov constitute submission as electronically signed applications. The registration and e-authentication process establishes the Authorized Organization Representative (AOR). The AOR is an individual who is able to make legally binding commitments for the applicant organization. When you submit the application through Grants.gov, the name of your AOR on file will be inserted into the signature line of the application.

3. Instructions on how to submit an electronic application to NOAA via Grants.gov/Apply: Grants.gov has a full set of instructions on how to apply for funds on its Web site at http://www.grants.gov/applicants/apply_for_grants.jsp. The following provides simple guidance on what you will find on the Grants.gov/Apply site. Applicants are encouraged to read through the page entitled, “Complete Application Package” before getting started.

Grants.gov allows applicants to download the application package, instructions and forms that are incorporated in the instructions, and work off line. In addition to forms that are part of the application instructions, there will be a series of electronic forms that are provided utilizing an Adobe Reader.

Note for the Adobe Reader: Grants.gov is only compatible with versions 8.1.1 and above. Please do not use lower versions of the Adobe Reader.

Mandatory Fields on Adobe Reader Forms

In the Adobe forms you will note fields that appear with a yellow background and red outline color. These fields are mandatory and must be completed to successfully submit your application.

Completion of SF-424 Fields

NOAA strongly recommends that applicants first complete the SF-424 fields in Grants.gov. The Adobe forms are designed to automatically fill in common required fields such as the applicant name and address, DUNS number, etc., on all Adobe electronic forms. To trigger this feature, an applicant must complete the SF-424 information first. Once it is completed the information will transfer to the other forms.

Customer Support

The Grants.gov Web site provides customer support via (800) 518-4726 (this is a toll-free number) or through e-mail at support@grants.gov. The Contact Center is open from 7 a.m. to 9 p.m. Eastern time, Monday through Friday, except federal holidays, to address Grants.gov technology issues. For assistance with program related questions, contact the number listed in the Program Section of the program you are applying for.

4. Timely Receipt Requirements and Proof of Timely Submission.

a. Electronic Submission. All applications must be received by http://www.grants.gov/applicants/apply_for_grants.jsp by the Time on the due date established for each program. Proof of timely submission is automatically recorded by Grants.gov. An electronic time stamp is generated within the system when the application is successfully received by Grants.gov. The applicant will receive an acknowledgment of receipt and a tracking number from Grants.gov with the successful transmission of their application. Applicants should print this receipt and save it, along with facsimile receipts for information provided by facsimile, as proof of timely submission. When NOAA successfully retrieves the application from Grants.gov, Grants.gov will provide an electronic acknowledgment of receipt to the e-mail address of the AOR. Proof of timely submission shall be the date and time that Grants.gov receives your application. Applications received by Grants.gov after the established due date for the program will be considered late and will not be considered for funding by NOAA. Please Note: Validation or rejection of your application by Grants.gov may take up to 2 business days after your submission. Please consider the Grants.gov validation/rejection process in developing your application submission time line.

NOAA suggests that applicants submit their applications during the operating hours of the Grants.gov, so that if there are questions concerning transmission, operators will be available to walk you through the process. Submitting your application during the Contact Center hours will also ensure that you have sufficient time for the application to complete its transmission prior to the application deadline. Applicants using dial-up connections should be aware that transmission of applications will take a longer time than when using high speed broadband before Grants.gov receives it. Grants.gov will provide either an error or a successfully received transmission message. Grants.gov reports that some applicants abort the transmission because they think that nothing is occurring during the transmission process. Please be patient and give the system time to process the application. Uploading and transmitting many files, particularly electronic forms with associated XML schemas, will require more time to be processed. Important: All applicants, both electronic and paper, should be aware that adequate time must be factored into applicant schedules for delivery of the application. Electronic applicants are advised that volume on Grants.gov is currently extremely heavy, and if Grants.gov is unable to accept applications electronically in a timely fashion, applicants are encouraged to exercise their option to submit applications in paper format. Paper applicants should allow adequate time to ensure a paper application will be received on time, taking into account that guaranteed overnight carriers are not always able to fulfill their guarantees.

III. Evaluation Criteria and Selection Procedures

NOAA has standardized the evaluation and selection process for its competitive assistance programs. There are two separate sets of evaluation criteria and selection procedures (see below), one for project proposals, and the other for fellowship, scholarship, and internship programs.

Project Proposals Review and Selection Process

Some project proposals may include a pre-application process that provides for feedback to applicants that responded to a call for letters of intent or pre-proposals; however, not all programs will include this pre-application. If a program has a pre-application process, it will be described in the Summary Description section of the announcement and the deadline will be specified in the Application Deadline section.

Upon receipt of a full application by NOAA, an initial administrative review will be conducted to determine compliance with requirements and completeness of the application. A merit review will also be conducted to produce a rank order of the proposals. The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

Evaluation Criteria

Each reviewer (one mail and at least three peer review panel reviewers) will individually evaluate and rank proposals using the following evaluation criteria:

1. Importance and/or relevance and applicability of a proposed project to the program goals: This ascertains whether there is intrinsic value in the proposed work and/or relevance to NOAA, Federal (other than NOAA), regional, state, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The project's budget is evaluated to determine if it is realistic and commensurate with the project needs and timeframe.

5. Outreach and education: NOAA assesses whether this project provides a focused and effective education and outreach strategy regarding its mission to protect the Nation's natural resources.

Selection Factors

The merit review ratings will be used to provide a rank order to the Selecting Official for final funding recommendations. A Program Officer may first make recommendations to the Selecting Official applying the selection factors listed below. The Selecting Official shall award in the rank order unless the proposal is justified to be selected out of rank order based upon one or more of the following factors:

1. Availability of funding.

2. Balance/distribution of funds:

a. Geographically,

b. By type of institutions,

c. By type of partners,

d. By research areas, and

e. By project types.

3. Whether the project duplicates other projects funded or considered for funding by NOAA or other federal agencies.

4. Program priorities and policy factors.

5. Applicant's prior award performance.

6. Partnerships and/or participation of targeted groups.

7. Adequacy of information necessary for NOAA to make a National Environmental Policy Act determination and draft necessary documentation before funding recommendations are made to the Grants Officer.

Fellowship, Scholarship and Internship Programs Review and Selection Process

Some fellowship, scholarship and internship programs may include a pre-application process that provides for feedback to the applicants that have responded to a call for letters of intent or pre-proposals; however, not all programs will include this pre-application. If a program has a pre-application process, the process will be described in the Summary Description section of the announcement and the deadline will be specified in the Application Deadline section.

Upon receipt of a full application by NOAA, an initial administrative review will be conducted to determine compliance with requirements and completeness of the application.

A merit review will also be conducted to produce a rank order of the proposals. The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

Evaluation Criteria

Each reviewer (one mail and at least three peer review panel reviewers) will individually evaluate and rank proposals using the following evaluation criteria.

1. Academic record and statement of career goals and objectives of the student.

2. Quality of project and applicability to program priorities.

3. Recommendations and/or endorsements of the student.

4. Additional relevant experience related to diversity of education; extra-curricular activities; honors and awards; and interpersonal, written, and oral communications skills.

5. Financial need of the student.

Selection Factors

The merit review ratings will be used to provide a rank order by the Selecting Official for final funding recommendations. A Program Officer may first make recommendations to the Selecting Official by applying the selection factors listed below. The Selecting Official shall award in the rank order unless the proposal is justified to be selected out of rank order based upon one or more of the following factors:

1. Availability of funds.

2. Balance/distribution of funds:

a. Across academic disciplines,

b. By types of institutions, and

c. Geographically.

3. Program-specific objectives.

4. Degree in scientific area and type of degree sought.

IV. NOAA Project Competitions Listed by NOAA Mission Goals

1. Understand Climate Variability and Change To Enhance Society's Ability To Plan and Respond

Summary Description: Climate shapes the environment, natural resources, economies, and social systems that people depend upon worldwide. While humanity has learned to contend with some aspects of climate's natural variability, major climatic events, combined with the stresses of population growth, economic growth, public health concerns, and land-use practices, can impose serious consequences on society. The 1997-98 El Nino, for example, had a $25 billion impact on the U.S. economy-property losses were $2.6 billion and crop losses approached $2 billion. Long-term drought leads to increased and competing demands for fresh water with related effects on terrestrial and marine ecosystems, agricultural productivity, and even the spread of infectious diseases. Decisions about mitigating climate change also can alter economic and social structures on a global scale. We can deliver reliable climate information in useful ways to help minimize risks and maximize opportunities for decisions in agriculture, public policy, natural resources, water and energy use, and public health. We continue to move toward developing a seamless suite of weather and climate products. The Goal addresses predictions on time scales of up to decades or longer.

Funded proposals should help achieve the following outcomes:

1. A predictive understanding of the global climate system on time scales of weeks to decades with quantified uncertainties sufficient for making informed and reasoned decisions

2. Climate-sensitive sectors and the climate-literate public effectively incorporating NOAA's climate products into their plans and decisions

Program Names:

1. Collaborative Science, Technology, and Applied Research (CSTAR) Program

2. Climate Program Office for FY 2010

3. FY 2010 Bay Watershed Education and Training (B-WET) Hawaii Program

4. 2011 National Sea Grant College Program Dean John A. Knauss Marine Policy Fellowship

5. Research in Satellite Data Assimilation for Numerical Weather, Climate and Environmental Forecast Systems

6. 2010 Sea Grant/Regional Team Climate Engagement

7. 2010 Integrated Ocean Observing System Implementation

2. Serve Society's Needs for Weather and Water Information

Summary Description: Floods, droughts, hurricanes, tornadoes, tsunamis, wildfires, and other severe weather events cause $11 billion in damages each year in the United States. Weather is directly linked to public health and safety, and nearly one-third of the U.S. economy (about $3 trillion) is sensitive to weather and climate. With so much at stake, NOAA's role in understanding, observing, forecasting, and warning of environmental events is expanding. With our partners, we seek to provide decision makers with key observations, analyses, predictions, and warnings for a range of weather and water conditions, including those related to water supply, air quality, space weather, and wildfires. Businesses, governments, and nongovernmental organizations are getting more sophisticated about how to use this weather and water information to improve operational efficiencies, to manage environmental resources, and to create a better quality of life. On average, hurricanes, tornadoes, tsunamis, and other severe weather events cause $11 billion in damages per year. Weather, including space weather, is directly linked to public safety and about one-third of the U.S. economy (about $3 trillion) is weather sensitive. With so much at stake, NOAA's role in observing, forecasting, and warning of environmental events is expanding, while economic sectors and its public are becoming increasingly sophisticated at using NOAA's weather, air quality, and water information to improve their operational efficiencies and their management of environmental resources, and quality of life.

Funded proposals should help achieve the following outcomes:

1. Reduced loss of life, injury, and damage to the economy

2. Better, quicker, and more valuable weather and water information to support improved decisions

3. Increased customer satisfaction with weather and water information and services

Program Names:

1. Collaborative Science, Technology, and Applied Research (CSTAR) Program

2. 2011 National Sea Grant College Program Dean John A. Knauss Marine Policy Fellowship

3. Research in Satellite Data Assimilation for Numerical Weather, Climate and Environmental Forecast Systems

4. 2010 Sea Grant/Regional Team Climate Engagement

5. Remote Community Alert Systems Program 2010

6. 2010 Integrated Ocean Observing System Implementation

3. Support the Nation's Commerce With Information for Safe, Efficient, and Environmentally Sound Transportation

Summary Description: Safe and efficient transportation systems are crucial to the U.S. economy. The U.S. marine transportation system ships over 95 percent of the tonnage and more than 20 percent by value of foreign trade through U.S. ports, including 48 percent of the oil needed to meet America's energy demands. At least $4 billion is lost annually due to economic inefficiencies resulting from weather related air-traffic delays. Improved surface weather forecasts and specific user warnings would reduce the 7,000 weather related fatalities and 800,000 injuries that occur annually from crashes on roads and highways. The injuries, loss of life, and property damage from weather-related crashes cost an average of $42 billion annually. We provide information, services, and products for transportation safety and for increased commerce on roads, rails, and waterways. We will improve the accuracy of our information for marine, aviation, and surface weather forecasts, the availability of accurate and advanced electronic navigational charts, and the delivery of real-time oceanographic information. We seek to provide consistent, accurate, and timely positioning information that is critical for air, sea, and surface transportation. We will respond to hazardous material spills and provide search and rescue routinely to save lives and money and to protect the coastal environment. We will work with port and coastal communities and with Federal and state partners to ensure that port operations and development proceed efficiently and in an environmentally sound manner. We will work with the Federal Aviation Administration and the private sector to reduce the negative impacts of weather on aviation without compromising safety. Because of increased interest by the public and private sectors, we also will expand weather information for marine and surface transportation to enhance safety and efficiency.

Funded proposals should help achieve the following outcomes:

1. Safe, secure, efficient, and seamless movement of goods and people in the U.S. transportation system

2. Environmentally sound development and use of the U.S. transportation system.

Program Names:

1. Collaborative Science, Technology, and Applied Research (CSTAR) Program

2. 2011 National Sea Grant College Program Dean John A. Knauss Marine Policy Fellowship

3. 2010 Sea Grant/Regional Team Climate Engagement

4. 2010 Integrated Ocean Observing System Implementation

4. Protect, Restore and Manage the Use of Coastal and Ocean Resources through Ecosystem-Based Management

Summary Description: Coastal areas are among the most developed in the Nation. More than half the population lives on less than one-fifth of the land in the contiguous United States. Furthermore, employment in near shore areas is growing three times faster than population. Coastal and marine waters support over 28 million jobs and provide a tourism destination for nearly 90 million Americans a year. The value of the ocean economy to the United States is over $115 billion. The value added annually to the national economy by the commercial and recreational fishing industry alone is over $48 billion. U.S. aquaculture sales total almost $1 billion annually. With its Exclusive Economic Zone of 3.4 million square miles, the United States manages the largest marine territory of any nation in the world.

Funded proposals should help achieve the following outcomes:

1. Healthy and productive coastal and marine ecosystems that benefit society

2. A well-informed public that acts as a steward of coastal and marine ecosystems

Program Names:

1. Cooperative Research Program

2. FY 2010 Chesapeake Bay Watershed Education and Training (B-WET) Program

3. John H. Prescott Marine Mammal Rescue Assistance Grant Program 2010

4. Marine Fisheries Initiative (MARFIN)

5. FY 2010 Hawaii Bay Watershed Education and Training (B-WET) Program

6. Coastal Hypoxia Research Program (CHRP)

7. Sea Level Rise—(SLR)

8. 2011 National Sea Grant College Program Dean John A. Knauss Marine Policy Fellowship

9. NOAA International Coral Reef Grant Program

10. NOAA Gulf of Mexico Bay Watershed Education and Training (B-WET) Program

11. NOAA Pacific Northwest Bay Watershed Education and Training (B-WET) Program

12. 2010 NMFS—Sea Grant Fellowships in Population Dynamics

13. 2010 NMFS—Sea Grant Fellowships in Marine Resource Economics

14. NOAA New England Bay Watershed Education and Training (B-WET) Program

15. FY 2010 California Bay Watershed Education and Training Program

16. Research in Satellite Data Assimilation for Numerical Weather, Climate and Environmental Forecast Systems

17. 2010 NOAA Coral Reef Ecosystem Monitoring Grant Program

18. 2010 NOAA Coral Reef Management Grant Program

19. Protected Species Cooperative Conservation

20. NOAA Coral Reef Conservation Grant Program/General Coral Reef Conservation Grants

21. NOAA Coral Reef Conservation Grant Program/Projects to Improve or Amend Coral Reef Fishery Management Plans

22. 2010 Atlantic Scallop Research Set-Aside Program

23. 2010 Monkfish Research Set-Aside Program

24. 2010 Sea Grant/Regional Team Climate Engagement

25. 2010 Saltonstall-Kennedy Grant Program

26. Harmful Algal Blooms Program

27. FY 2010 Community-based Marine Debris Removal Project Grants

29. FY 2010 Ocean Exploration and Research Appropriation—Marine Archaeology

30. 2010 Open Rivers Initiative

31. NOAA Coastal and Marine Habitat Restoration National and Regional Partnership Grants

32. 2010 Integrated Ocean Observing System Implementation

5. Provide Critical Support for NOAA's Mission

Summary Description: Strong, effective, and efficient support activities are necessary for us to achieve our Mission Goals. Our facilities, ships, aircraft, environmental satellites, data processing systems, computing and communication systems, and our approach to management provide the foundation of support for all of our programs. This critical foundation must adapt to evolving mission needs and, therefore, is an integral part of our strategic planning. It also must support U.S. homeland security by maintaining continuity of operations and by providing NOAA services, such as civil alert relays through NOAA Weather Radio and air dispersion forecasts, in response to National emergencies. NOAA ships, aircraft, and environmental satellites are the backbone of the global Earth observing system and provide many critical mission support services. To keep this capability strong and current with our Mission Goals, we will ensure that NOAA has adequate access to safe and efficient ships and aircraft through the use of both NOAA platforms and those of other agency, academic, and commercial partners. We will work with academia and partners in the public and private sectors to ensure that future satellite systems are designed, developed, and operated with the latest technology. Leadership development and program support are essential for achieving our Mission Goals. We must also commit to organizational excellence through management and leadership across a “corporate” NOAA. We must continue our Commitment to valuing NOAA's diverse workforce, including effective workforce planning strategies designed to attract, retain and develop competencies at all levels of our workforce. Through the use of business process re-engineering, we will strive for state-of-the-art, value-added financial and administrative processes. NOAA will ensure state-of-the-art and secure information technology and systems. By developing long-range, comprehensive facility planning processes, NOAA will be able to ensure right-sized, most-effective, and safe facilities.

Funded proposals should help achieve the following outcomes:

1. A dynamic workforce with competencies that support NOAA's mission today and in the future.

Program Names:

1. National Estuarine Research Reserve Graduate Research Fellowship Program FY 2010

2. 2011 National Sea Grant College Program Dean John A. Knauss Marine Policy Fellowship

3. National Estuarine Research Reserve System (NERRS) Land Acquisition and Construction Program FY 2010

4. Student Opportunity for Learning

V. NOAA Project Competitions

National Marine Fisheries Service (NMFS)

1. 2010 Monkfish Research Set-Aside Program

Summary Description: NOAA's National Marine Fisheries Service (NMFS) is soliciting monkfish research proposals to utilize 500 Monkfish Days-at-Sea (DAS) that have been set-aside by the New England Fishery Management and Mid-Atlantic Fishery Management Councils (Councils) to fund monkfish research endeavors through the 2010 Monkfish Research Set-Aside (RSA) Program (May 1, 2010-April 30, 2011). No Federal funds are provided for research under this notification. Rather, proceeds generated from the sale of monkfish harvested during a set-aside DAS is used to fund research activities and compensate vessels that participate in research activities and/or harvest set-aside quota.

Projects funded under the Monkfish RSA Program must enhance the knowledge of the monkfish fishery resource or contribute to the body of information on which monkfish management decisions are made. Priority will be given to monkfish research proposals that investigate research priorities identified by the Councils and which are detailed under the Program Priorities section of this announcement.

Funding Availability: DAS will be awarded to successful applicants. No Federal funds are provided for research under this notification. Funds generated from landings harvested and sold under the Monkfish RSA Program shall be used to cover the cost of research activities, including vessel costs. For example, the funds may be used to pay for gear modifications, monitoring equipment, the salaries of research personnel, or vessel operation costs. The Federal Government is not liable for any costs incurred by the researcher or vessel owner should the sale of catch not fully reimburse the researcher or vessel owner for their expenses. Any additional funds generated through the sale of set-aside landings, above the cost of the research activities, shall be retained by the vessel owner as compensation for the use of his/her vessel. The Federal Government (i.e., NMFS) may issue an Exempted Fishing Permit (EFP), if needed, that may provide special fishing privileges in response to research proposals selected under this program. For example, in previous years, some successful applicants have requested, and were granted, exemption from monkfish DAS possession limits to make compensation fishing more efficient and cost effective. In such cases, applicants were authorized to harvest a maximum amount of monkfish by weight, or fish up to the number of awarded monkfish DAS, whichever came first. To obtain such an exemption, an EFP application must be submitted to the Northeast Regional Office, NMFS. Please be aware that EFP applications are reviewed on a case by case basis, and may be disapproved. For additional information, contact Ryan Silva, Cooperative Research Liaison, at 978-281-9326, or ryan.silva@noaa.gov.

Statutory Authority: Statutory authority for this program is found under sections 303(b)(11), 402(e), and 404(c) of the Magnuson-Stevens Fishery Conservation and Management Act, 16 U.S.C. 1853(b)(11), 16 U.S.C. 1881a(e), and 16 U.S.C. 1881(c), respectively. The ability to set aside monkfish DAS for research purposes was established in the final rule implementing Amendment 2 to the Monkfish Fishery Management Plan (70 FR 21927, April 28, 2005), codified at 50 CFR 648.92(c).

Catalog of Federal Domestic Assistance (CFDA) Number: 11.454, Unallied Management Projects

Application Deadline: Applications must be received and validated by Grants.gov, postmarked, or provided to a delivery service on or before 5 p.m. EDT, August 31, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: To apply for this NOAA Federal funding opportunity, please go to http://www.grants.gov, and use the following funding opportunity #NMFS-NEFSC-2010-2001980. Applicants without Internet access may contact Cheryl Corbett, NMFS, Northeast Fisheries Science Center, 166 Water Street, Woods Hole, MA 02543, by phone 508-495-2070, fax 508-495-2004, or e-mail cheryl.corbett@noaa.gov.

Information Contacts: Information may be obtained from Paul Howard, Executive Director, New England Fishery Management Council (NEFMC), by phone 978-465-0492, or by fax 978-465-3116; Philip Haring, Senior Fishery Analyst, NEFMC, by phone 978-465-0492, or by e-mail at pharing@nefmc.org; or Cheryl Corbett, NMFS, Northeast Fisheries Science Center, phone 508-495-2070, fax 508-495-2004, or e-mail cheryl.corbett@noaa.gov, or from Ryan Silva, NMFS, Northeast Regional Office, Cooperative Research Liaison, phone (978) 281-9326, fax (978) 281-9326, e-mail ryan.silva@noaa.gov.

Eligibility: 1. Eligible applicants are institutions of higher education, hospitals, other nonprofits, commercial organizations, individuals, state, local, and Native American tribal governments. Federal agencies and institutions are not eligible to receive Federal assistance under this notice. Additionally, employees of any Federal agency or Regional Fishery Management Council (Council) are ineligible to submit an application under this program. However, Council members who are not Federal employees may submit an application.

2. DOC/NOAA supports cultural and gender diversity and encourages women and minority individuals and groups to submit applications to the RSA program. In addition, DOC/NOAA is strongly committed to broadening the participation of historically black colleges and universities, Hispanic serving institutions, tribal colleges and universities, and institutions that work in underserved areas. DOC/NOAA encourages proposals involving any of the above institutions.

3. DOC/NOAA encourages applications from members of the fishing community and applications that involve fishing community cooperation and participation.

Cost Sharing Requirements: None required.

Intergovernmental Review: Applicants will need to determine if their State participates in the intergovernmental review process. This information can be found at the following Web site: http://www.whitehouse.gov/omb/grants/spoc.html. This information will assist applicants in providing either a Yes or No response to Item 16 of the Application Form, SF-424, entitled “Application for Federal Assistance.”

2. 2010 Open Rivers Initiative

Summary Description: The NOAA Open Rivers Initiative (ORI) provides funding and technical assistance to catalyze the implementation of locally-driven projects to remove dams and other river barriers, in order to benefit living marine and coastal resources, particularly diadromous fish. Projects funded through the Open Rivers Initiative must feature strong on-the-ground habitat restoration components that foster economic, educational, and social benefits for citizens and their communities in addition to long-term ecological habitat improvements for NOAA trust resources. Proposals selected for funding through this solicitation will be implemented through a cooperative agreement. Funding of up to $6,000,000 is expected to be available for ORI Project Grants in FY 2010. The NOAA Restoration Center within the Office of Habitat Conservation will administer this grant initiative, and anticipates that typical awards will range from $200,000 to $750,000. Although a select few may fall outside of this range, project proposals requesting less than $100,000 or greater than $3,000,000 will not be accepted or reviewed.

Funding Availability: This solicitation announces that funding of up to $6,000,000 is expected to be available for Open Rivers Initiative Project Grants in FY 2010. Actual funding availability for this program is contingent upon Fiscal Year 2010 Congressional appropriations. NOAA anticipates that typical project awards will range from $200,000 to $750,000; proposals requesting less than $100,000 or more than $3,000,000 will not be accepted under this solicitation. NOAA does not guarantee that sufficient funds will be available to make awards for all proposals. The number of awards to be made as a result of this solicitation will depend on the number of eligible applications received, the amount of funds requested by the applicants, the merit and ranking of the proposals, and the amount of funds made available to the ORI by Congress.

NOAA anticipates that between 10 and 15 awards will be made as a result of this solicitation. The exact amount of funds that may be awarded will be determined in pre-award negotiations between the applicant and NOAA representatives. Publication of this document does not obligate NOAA to award any specific project or obligate all or any parts of any available funds.

Statutory Authority: The Secretary of Commerce is authorized under the Fish and Wildlife Coordination Act, 16 U.S.C. 661, as amended by the Reorganization Plan No. 4 of 1970, to provide grants or cooperative agreements for fisheries habitat restoration. The Secretary of Commerce is also authorized under the Magnuson-Stevens Fishery Conservation and Management Reauthorization Act of 2006 (H.R. 5946) to provide funding and technical expertise for fisheries and coastal habitat restoration and to promote significant community support and volunteer participation in such activities.

Catalog of Federal Domestic Assistance (CFDA) Number: 11.463, Habitat Conservation.

Application Deadline: Applications must be received and validated by Grants.gov, postmarked, or provided to a delivery service by 11:59 EST on November 16, 2009. Please note: Validation or rejection of your application by Grants.gov may take up to 2 business days after submission. Please consider this process in developing your submission timeline. Use of U.S. mail or another delivery service must be documented with a receipt. No facsimile or electronic mail applications will be accepted.

Address for Submitting Proposals: Applicants may submit their applications through Grants.gov. If Grants.gov cannot reasonably be used, a hard copy application with the SF424 signed in ink (blue ink is preferred) must be postmarked or provided to a delivery service and documented with a receipt by November 16, 2009 and sent to: NOAA Restoration Center (F/HC3) Office of Habitat Conservation, NOAA Fisheries, 1315 East West Highway, Rm. 15749, Silver Spring, MD 20910 Attn: Open Rivers Initiative Project Applications.

Applications postmarked or provided to a delivery service after November 16, 2009 will not be considered for funding. Applications submitted via the U.S. Postal Service must have an official postmark; private metered postmarks are not acceptable. In any event, applications received later than 15 business days following the postmark closing date will not be accepted. No facsimile or electronic mail applications will be accepted. Paper applications should be printed on one side only, on 8.5″ x 11″ paper, and should not be bound in any manner.

Information Contacts: For further information contact Tisa Shostik (Tisa.Shostik@noaa.gov) at (301) 713-0174 x184 or Cathy Bozek (Cathy.Bozek@noaa.gov) at (301) 713-0174 x150. Potential applicants are invited to contact NOAA Restoration Center staff before submitting an application to discuss the applicability of project ideas to the goals and objectives of ORI. Additional information on the ORI can be found on http://www.nmfs.noaa.gov/habitat/restoration.

Eligibility: Eligible applicants are institutions of higher education, non-profits, industry and commercial (for profit) organizations, organizations under the jurisdiction of foreign governments, international organizations, and state, local and Indian tribal governments whose projects have the potential to benefit NOAA trust resources.

Applications from federal agencies or employees of federal agencies will not be considered. Federal agencies are strongly encouraged to work with states, non-governmental organizations, national service clubs or youth corps organizations and others that are eligible to apply.

The Department of Commerce/National Oceanic and Atmospheric Administration (DOC/NOAA) is strongly committed to broadening the participation of historically black colleges and universities, Hispanic-serving institutions, tribal colleges and universities, and institutions that work in under-served areas. The ORI encourages proposals from or involving any of the above institutions.

Cost Sharing Requirements: A major goal of the ORI is to provide seed money for projects that leverage funds and other contributions from a broad public and private sector to implement locally important barrier removals to benefit living marine and coastal resources. To this end, applicants are encouraged to demonstrate a 1:1 non-federal match for ORI funds requested to conduct the proposed project. Applicants with less than 1:1 match will not be disqualified, however, applicants should note that cost sharing is an element considered in Evaluation Criterion #4 “Project Costs” (Section V.A.4. of the Full Funding Opportunity). Match to NOAA funds can come from a variety of public and private sources and can include in-kind goods and services and volunteer labor. Applicants are permitted to combine contributions from non-federal partners, as long as such contributions are not being used to match any other federal funds and are available within the project period stated in the application. Federal sources cannot be considered for matching funds, but can be described in the budget narrative to demonstrate additional leverage. Applicants are also permitted to apply federally negotiated indirect costs in excess of federal share limits as described in Section IV.E.2 of the Full Funding Opportunity, “Indirect Costs.”

Applicants whose proposals are selected for funding will be bound by the percentage of cost sharing reflected in the award document signed by the NOAA Grants Officer. Successful applicants should be prepared to carefully document matching contributions, including the overall number of volunteers and in-kind participation hours devoted to individual barrier removal projects. Letters of commitment for any secured resources that will be used as match for an award under this solicitation should be submitted as an attachment to the application, see Section IV.B of the Full Funding Opportunity.

Intergovernmental Review: Applications under this initiative are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOC's are listed on the Office of Management and Budget's home page at: http://www.whitehouse.gov/omb/grants/spoc.html.

3. 2010 Saltonstall-Kennedy Grant Program

Summary Description: The Saltonstall-Kennedy Act established a fund (known as the S-K fund) that the Secretary of Commerce uses to provide grants or cooperative agreements for fisheries research and development projects addressed to any aspect of U.S. fisheries, including, but not limited to, harvesting, processing, marketing, and associated infrastructures. U.S. fisheries include any fishery, commercial or recreational, that is, or may be, engaged in by citizens or nationals of the United States, or citizens of the Northern Mariana Islands (NMI), the Republic of the Marshall Islands, Republic of Palau, and the Federated States of Micronesia.

Funding Availability: Funding is contingent upon availability of Federal appropriations. The S-K program has sought funding for $5 million in grant awards. We anticipate awarding 20-25 grants of approximately $100,000 to $250,000 each. Applicants are hereby given notice that funds have not yet been allocated for this program. In no event will NOAA or the Department of Commerce be responsible for proposal preparation costs if this program fails to receive funding or is cancelled because of other agency priorities. Publication of this notice does not obligate NOAA to award any specific project or to obligate any available funds. You should not initiate your project in expectation of Federal funding until you receive a grant award document signed by an authorized NOAA official. If one incurs any costs prior to receiving an award agreement signed by an authorized NOAA official, one would do so solely at one's own risk of these costs not being included under the award.

Recipients and subrecipients are subject to all Federal laws and agency policies, regulations and procedures applicable to Federal financial assistance awards.

Statutory Authority: Authority for the Saltonstall-Kennedy Grant Program is provided under the Saltonstall-Kennedy Act (S-K Act), as amended (15 U.S.C. 713c-3).

Catalog of Federal Domestic Assistance (CFDA) Number: 11.427, Fisheries Dev and Utilization Research and Dev Grants and Coop Agreements Program.

Application Deadline: Applications must be received and validated by Grants.gov on or before 5 p.m. EDT on September 1, 2009. Please note: Validation or rejection of your application by Grants.gov may take up to 2 business days after submission. Please consider this process in developing your submission timeline. Applications received after the deadline will be rejected/returned to the sender without further consideration. No facsimile or electronic mail applications will be accepted. If an applicant does not have Internet access, hard copy proposals will be accepted and the date recorded when they are received in the program office. Hard copy applications must be received by the Saltonstall-Kennedy Grant Program Office by 5 p.m. EDT on September 1, 2009.

Address for Submitting Proposals: Applications submitted in response to this announcement must be submitted electronically through the Federal grants portal— http://www.grants.gov. Electronic access to the full funding announcement for this program is also available through this Web site. If an applicant does not have Internet access, hard copy proposals (with original signatures) will be accepted and should be sent to the attention of: Mr. Daniel A. Namur, S-K Program Manager, NOAA/NMFS (F/MB); 1315 East-West Highway, Room 13358; Silver Spring, MD 20910-3282.

Information Contacts: The point of contact is: Daniel A. Namur, S-K Program Manager, NOAA/NMFS (F/MB); 1315 East-West Highway, Room 13358; Silver Spring, MD 20910-3282; or by Phone at (301) 713-1365 ext. 118, or fax at (301) 713-1464, or via e-mail at Dan.Namur@noaa.gov.

Eligibility: You are eligible to apply for a grant or a cooperative agreement under the Saltonstall-Kennedy Grant Program if:

1. You are a citizen or national of the United States;

2. You are a citizen of the Northern Mariana Islands (NMI), being an individual who qualifies as such under section 8 of the Schedule on Transitional Matters attached to the constitution of the NMI;

3. You are a citizen of the Republic of the Marshall Islands, Republic of Palau, or the Federated States of Micronesia; or

4. You represent an entity that is a corporation, partnership, association, or other non-Federal entity, non-profit or otherwise (including Indian tribes), if such entity is a citizen of the United States or NMI, within the meaning of section 2 of the Shipping Act, 1916, as amended (46 U.S.C. app. 802).

We support cultural and gender diversity in our programs and encourage women and minority individuals and groups to submit applications. Furthermore, we recognize the interest of the Secretaries of Commerce and Interior in defining appropriate fisheries policies and programs that meet the needs of the U.S. insular areas, so we also encourage applications from individuals, government entities, and businesses in U.S. insular areas. We are strongly committed to broadening the participation of Minority Serving Institutions (MSIs), which include Historically Black Colleges and Universities, Hispanic Serving Institutions, and Tribal Colleges and Universities, in our programs, including S-K. Therefore, we encourage all applicants to include meaningful participation of MSIs. We encourage applications from members of the fishing community, and applications that involve fishing community cooperation and participation. We will consider the extent of fishing community involvement when evaluating the potential benefit of funding a proposal. You are not eligible to submit an application under this program if you are an employee of any Federal agency; a Council; or an employee of a Council. However, Council members who are not Federal employees can submit an application to the S-K Program.

Cost Sharing Requirements: We are requiring cost sharing in order to leverage the limited funds available for this program and to encourage partnerships among government, industry, and academia to address the needs of fishing communities. You must provide a minimum cost share of 10 percent of total project costs, but your cost share must not exceed 50 percent of total costs. You may find this formula useful:

1. Total Project Cost (Federal and non-Federal cost share combined) × .9 = Maximum Federal Share.

2. Total Cost − Federal share = Applicant Share. For example, if the proposed total budget for your project is $100,000, the maximum Federal funding you can apply for is $90,000 ($100,000 × .9).

Your cost share in this case would be $10,000 ($100,000 − $90,000). For a total project cost of $100,000, you must contribute at least $10,000, but no more than $50,000 (10-50 percent of total project cost). Accordingly, the Federal share you apply for would range from $50,000 to $90,000.

If your application does not comply with these cost share requirements, we will return it to you and will not consider it for funding. The funds you provide as cost sharing may include funds from private sources or from state or local governments, or the value of in-kind contributions. You may not use Federal funds to meet the cost sharing requirement except as provided by Federal statute. In-kind contributions are non-cash contributions provided to you by non-Federal third parties. In-kind contributions may include, but are not limited to, personal services volunteered to perform tasks in the project, and permission to use, at no cost, real or personal property owned by others. We will determine the appropriateness of all cost sharing proposals, including the valuation of in-kind contributions, on the basis of guidance provided in 15 CFR parts 14 and 24. In general, the value of in-kind services or property you use to fulfill your cost share will be the fair market value of the services or property. Thus, the value is equivalent to the cost for you to obtain such services or property if they had not been donated. You must document the in-kind services or property you will use to fulfill your cost share. If we decide to fund your application, we will require you to account for the total amount of cost share included in the award document.

Intergovernmental Review: Applications submitted by state and local governments are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOC's are listed in the Office of Management and Budget's home page at: http://www.whitehouse.gov/omb/grants/spoc.html.

4. 2010 Atlantic Scallop Research Set-Aside Program

Summary Description: NOAA's National Marine Fisheries Service (NMFS) is soliciting Atlantic Sea Scallop (scallop) research proposals to utilize scallop Total Allowable Catch (TAC) and Days-at-Sea (DAS) that have been set-aside by the New England Fishery Management Council (Council) to fund scallop research endeavors through the 2010 Atlantic Sea Scallop Research Set-Aside (RSA) Program (March 1, 2010-February 28, 2011).

No Federal funds are provided for research under this notification. Rather, proceeds generated from the sale of scallops harvested under a set-aside quota are used to fund research activities and compensate vessels that participate in research activities and/or harvest set-aside quota. Projects funded under the Scallop RSA Program must enhance the knowledge of the scallop fishery resource or contribute to the body of information on which scallop management decisions are made. Priority will be given to scallop research proposals that investigate research priorities identified by the Council, which are detailed under the Program Priorities section of this announcement.

Funding Availability: Previous Scallop RSA Program announcements required applicants to specify which TAC and/or DAS set-aside they were requesting. In addition, applicants were required to use scallop price and catch rate estimates provided by NMFS when developing their budget. Several issues resulted from this process, including persistent grant delays, and dated price and catch rate estimates that were published in the FFO.

These issues resulted primarily from a disconnect between the timelines for Scallop FMP frameworks, which establish set aside quotas and price and catch rate estimates (among other things), and the Scallop RSA annual solicitation. Therefore, application requirements are being adjusted for the 2010 Scallop RSA Program in an attempt to rectify these issues.

TAC and DAS set-asides and scallop price and catch rate estimates will no longer be published in the FFO. Accordingly, applicants will no longer base their budget on available RSA quota or price and catch rate estimates published in the FFO. Instead, applicants must submit a budget that is based solely on monetary needs, which includes funds necessary to execute the research plan and funds necessary to compensate vessel owners harvesting set-aside quota. To facilitate the submission of relevant and timely access area research proposals, it is anticipated that the Elephant Trunk and Delmarva Access Areas will be open in the Mid-Atlantic, and the Nantucket Lightship and/or Closed Area I Access Areas will be open on Georges Bank for the 2010 scallop fishing year. This access area schedule is preliminary and subject to change. The final schedule will be established by Framework 21 to the Scallop FMP, which is currently under development. Upon project selection, NMFS will negotiate with successful applicants on the specific TAC and/or DAS award. Priority will be given primarily to the higher technically ranked proposal, although additional factors such as individual project needs and cost effectiveness may be considered during negotiations. NMFS will establish a common DAS catch rate and scallop price estimate, based on the best and most recent data available, to determine the amount of set-aside necessary to cover research and compensation fishing expenses. If a desired set-aside quota has been fully utilized by another applicant, TAC and/or DAS will be awarded from a different set-aside quota. Once all the TAC and/or DAS set-aside quotas have been awarded, or all qualified proposals have been funded, whichever comes first, the selection process will end. It is anticipated that these changes will facilitate timely grant awards and improve scallop price and catch rate estimates used to establish TAC and DAS set-aside values. No Federal funds are provided for research under this notification. Funds generated from landings harvested and sold under the Scallop RSA Program shall be used to cover the cost of research activities, including vessel costs. For example, the funds may be used to pay for gear modifications, monitoring equipment, the salaries of research personnel, or vessel operation costs. The Federal Government is not liable for any costs incurred by the researcher or vessel owner should the sale of catch not fully reimburse the researcher or vessel owner for their expenses. Any additional funds generated through the sale of set-aside landings, above the cost of the research activities, shall be retained by the vessel owner as compensation for the use of his/her vessel. The Federal government (i.e., NMFS) will issue Letters of Authorization (LOAs) to eligible vessels identified by the Project Coordinator, which authorize such vessels to take access area and DAS compensation fishing trips, and exceed the vessel's normal scallop possession limit.

Statutory Authority: Statutory authority for this program is provided under sections 303(b)(11), 402(e), and 404(c) of the Magnuson-Stevens Fishery Conservation and Management Act, 16 U.S.C. 1853(b)(11), 16 U.S.C. 1881a(e), and 16 U.S.C. 1881(c), respectively. The ability to set aside scallop TAC and DAS is authorized through the scallop FMP published in the Federal Register on June 23, 2004 (69 FR 35193).

Catalog of Federal Domestic Assistance (CFDA) Number: 11.454, Unallied Management Projects.

Application Deadline: Applications must be received and validated by Grants.gov on or before 5 p.m. EST on August 31, 2009. Please note: Validation or rejection of your application by Grants.gov may take up to 2 business days after submission. Please consider this process in developing your submission timeline. If an applicant does not have Internet access, hard copy proposals will be accepted, and date recorded when they are received in the program office. Electronic or hard copies received after the deadline will not be considered, and hard copy applications will be returned to the sender. Mark hard copy proposals “Attention—2010 Atlantic Scallop Research Set Aside Program.”

Address for Submitting Proposals: To apply for this NOAA Federal funding opportunity, please go to http://www.grants.gov, and use the following funding opportunity #NMFS-NEFSC-2010-2001979. Applicants without Internet access may contact Cheryl Corbett, NMFS, Northeast Fisheries Science Center, 166 Water Street, Woods Hole, MA 02543, by phone 508-495-2070, fax 508-495-2004, or e-mail cheryl.corbett@noaa.gov.

Information Contacts: Information may be obtained from Deirdre Boelke, New England Fishery Management Council, phone (978) 465-0492, fax (978) 465-3116, or e-mail dboelke@nefmc.org, from Cheryl Corbett, NMFS, Northeast Fisheries Science Center, phone 508-495-2070, fax 508-495-2004, or e-mail ccorbett@noaa.gov, or from Ryan Silva, NMFS, Northeast Regional Office, phone (978) 281-9326, fax (978) 281-9135, e-mail ryan.silva@noaa.gov.

Eligibility: 1. Eligible applicants are institutions of higher education, hospitals, other nonprofits, commercial organizations, individuals, state, local, and Native American tribal governments. Federal agencies and institutions are not eligible to receive Federal assistance under this notice. Additionally, employees of any Federal agency or Regional Fishery Management Council are ineligible to submit an application under this program. However, Council members who are not Federal employees may submit an application.

2. DOC/NOAA supports cultural and gender diversity and encourages women and minority individuals and groups to submit applications to the RSA program. In addition, DOC/NOAA is strongly committed to broadening the participation of historically black colleges and universities, Hispanic serving institutions, tribal colleges and universities, and institutions that work in underserved areas. DOC/NOAA encourages proposals involving any of the above institutions.

3. DOC/NOAA encourages applications from members of the fishing community and applications that involve fishing community cooperation and participation.

Cost Sharing Requirements: None Required.

Intergovernmental Review: Applicants will need to determine if their state participates in the intergovernmental review process. This information can be found at the following Web site: http://www.whitehouse.gov/omb/grants/spoc.html. This information will assist applicants in providing either a Yes or No response to Item 16 of the Application Form, SF-424, entitled “Application for Federal Assistance.”

5. Cooperative Research Program

Summary Description: The Cooperative Research Program (CRP) provides opportunity to compete for financial assistance for projects which seek to increase and improve the working relationship between fisheries researchers from NMFS, state fishery agencies, universities, and the U.S. fishing community (recreational and commercial) in the Gulf of Mexico (FL, AL, MS, LA, TX), South Atlantic (NC, SC, GA) and Caribbean (USVI and Puerto Rico). The program is a means of involving commercial and recreational fishermen in the collection of fundamental fisheries information in support of management and regulatory options. This program addresses NOAA's mission goal to “Protect, Restore, and Manage the Use of Coastal and Ocean Resources through an Ecosystem Approach to Management.”

Funding Availability: Approximately $2.0 million may be available in fiscal year (FY) 2010 for projects. Actual funding availability for this program is contingent upon FY 2010 Congressional appropriations. The NMFS Southeast Regional Office estimates awarding approximately eight projects that will range from $25,000 to $300,000. The average award is $150,000. Publication of this notice does not obligate NMFS to award any specific grant or cooperative agreement or any of the available funds.

Statutory Authority: Authority for the CRP is provided by the following: 15 U.S.C. 713c-3(d).

Catalog of Federal Domestic Assistance (CFDA) Number: 11.454, Unallied Management Projects.

Application Deadline: Applications must be received and validated by Grants.gov, postmarked, or provided to a delivery service on or before 4 p.m. ET, September 14, 2009. Please note: Validation or rejection of your application by Grants.gov may take up to 2 business days after submission. Please consider this process in developing your submission timeline.

Applications received after the deadline will be rejected/returned to the sender without further consideration. Use of U.S. mail or another delivery service must be documented with a receipt. No facsimile or electronic mail applications will be accepted.

Address for Submitting Proposals: Applications must be submitted through www.grants.gov unless an applicant does not have Internet access. In that case, hard copies with original signatures may be sent to: National Marine Fisheries Service, State/Federal Liaison Branch, 263 13th Avenue South, St. Petersburg, FL 33701.

Information Contacts: For questions regarding the application process, you may contact: Dax Ruiz, State/Federal Liaison Branch, (727) 824-5324, or Dax.Ruiz@noaa.gov.

Eligibility: Eligible applicants may be institutions of higher education, nonprofits, commercial organizations, individuals, and state, local, and Indian tribal governments. Federal agencies or institutions are not eligible. Foreign governments, organizations under the jurisdiction of foreign governments, and international organizations are excluded for purposes of this solicitation since the objective of the CRP is to optimize research and development benefits from U.S. marine fishery resources. Applicants who are not commercial or recreational fisherman must have commercial or recreational fishermen participating in their project. There must be a written agreement with a fisherman describing the involvement in the project activity.

Cost Sharing Requirements: Cost-sharing is not required for this program.

Intergovernmental Review: Applications submitted by state and local governments are subject to the provisions of executive Order 12372, Intergovernmental Review of Federal Programs. Any applicant submitting an application for funding is required to complete item 16 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

6. FY 2010 Chesapeake Bay Watershed Education and Training (B-WET) Program

Summary Description: The Chesapeake B-WET grant program is a competitively based program that supports existing environmental education programs, fosters the growth of new programs, and encourages the development of partnerships among environmental education programs throughout the entire Chesapeake Bay watershed. Funded projects assist in meeting the Stewardship and Community Engagement goals of the Chesapeake 2000 Agreement. Projects support organizations that provide students meaningful watershed educational experiences and teachers related professional development opportunities and resources related to the Chesapeake Bay watershed.

Funding Availability: This solicitation announces that approximately $3.5M may be available in FY 2010 in award amounts to be determined by the proposals and available funds. Funding is anticipated to maintain partnerships for up to 3 years duration, but is dependent on funding made available annually by Congress. Applicants are hereby given notice that funds have not yet been appropriated for this program.

1. About $2.5M will be for exemplary programs that successfully integrate teacher professional development on the Chesapeake Bay watershed with in-depth classroom study and outdoor experiences for their students.

2. About $500K will be for proposals that incorporate the Chesapeake Bay Interpretive Buoy System (CBIBS) into meaningful watershed educational experiences for students or related professional development for teachers.

3. About $250K will be for proposals that provide opportunities either for students to participate in Meaningful Watershed Educational Experiences (MWEEs-related to Chesapeake Bay or related Professional Development for teachers.

4. About $250K will be for capacity building proposals that address larger, systematic needs and/or provide resources to the educational community related to MWEES.

The NOAA Chesapeake Bay Office (CBO) anticipates that typical awards for B-WET Exemplary Programs that successfully integrate teacher professional development with in-depth classroom student and outdoor experiences for their students will range from $50,000 to $200,000. Projects focusing on the Chesapeake Bay Interpretive Buoy system will range from $25,000 to $200,000. Projects that represent either meaningful watershed educational experiences for students or teacher professional development in watershed education will range from $25,000 to $75,000. Projects addressing the capacity building needs of organizations will range from $15,000 to $75,000. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: 33 U.S.C. 893a(a), the Administrator of the National Oceanic and Atmospheric Administration is authorized to conduct, develop, support, promote, and coordinate formal and informal educational activities at all levels to enhance public awareness and understanding of ocean, coastal, Great Lakes, and atmospheric science and stewardship by the general public and other coastal stakeholders, including underrepresented groups in ocean and atmospheric science and policy careers. In conducting those activities, the Administrator shall build upon the educational programs and activities of the agency.

Catalog of Federal Domestic Assistance (CFDA) Number: 11.457, Chesapeake Bay Studies.

Application Deadline: Applications must be received and validated by Grants.gov on or before 5 p.m. EDT on October 16, 2009. Please note: Validation or rejection of your application by Grants.gov may take up to 2 business days after submission. Please consider this process in developing your submission timeline.

Address for Submitting Proposals: Applicants are strongly encouraged to submit applications electronically through http://www.grants.gov. Hard copies may be submitted by postal mail, commercial delivery service, or hand-delivery. Proposals being submitted hard copy must be received by: NOAA Chesapeake Bay Office; Education Coordinator; 410 Severn Avenue, Suite 107A, Annapolis, Maryland 21403. Facsimile transmissions and e-mail submission of proposals will not be accepted. You may access the electronic grant application for the Chesapeake Bay Watershed Education & Training Program (B-WET) at http://www.grants.gov. Users of Grants.gov will be able to download a copy of the application package, complete it off line, and then upload and submit the application via the Grants.gov site. When you enter the Grants.gov site, you will find information about submitting an application electronically through the site as well as the hours of operation.

We strongly recommend that you do not wait until the application deadline date to begin the application process through Grants.gov. To use Grants.gov, applicants must have a DUNS number and register in the Central Contractor Registry (CCR). You should allow a minimum of 5 days to complete the CCR registration. After electronic submission of the application, applicants will receive an automatic acknowledgment from Grants.gov that contains a Grants.gov tracking number. Electronic application packages are strongly encouraged and are available at: http://www.grants.gov/. Paper applications may be mailed to: Shannon Sprague, B-WET Program Manager NOAA, Chesapeake Bay Office, 410 Severn Avenue, Suite 107A, Annapolis, MD 21403.

Information Contacts: Please visit the B-WET Web site for further information at: http://noaa.chesapeakebay.net/educationgrants.aspx or contact the NOAA Chesapeake Bay Office; 410 Severn Avenue, Suite 107A, Annapolis, MD 21403, or by phone at 410-267-5660. B-WET contacts are as follows: Virginia/West Virginia: Ann Marie Chapman (annmarie.chapman@noaa.gov); Maryland's Eastern Shore/Delaware: Doug Levin (doug.levin@noaa.gov); Maryland/Washington, DC: Kevin Schabow (kevin.schabow@noaa.gov); and Pennsylvania/Other: Shannon Sprague (shannon.sprague@noaa.gov).

Eligibility: Eligible applicants are K-through-12 public and independent schools and school systems, institutions of higher education, community-based and nonprofit organizations, state or local government agencies, interstate agencies, and Indian tribal governments in the Chesapeake Bay watershed. The Department of Commerce/National Oceanic and Atmospheric Administration (DOC/NOAA) is strongly committed to broadening the participation of historically black colleges and universities, Hispanic serving institutions, tribal colleges and universities, and institutions that work in underserved areas. The NCBO encourages proposals involving any of the above institutions.

Cost Sharing Requirements: No cost sharing is required under this program, however, the NCBO strongly encourages applicants applying for either area of interest to share as much of the costs of the award as possible. Funds from other Federal awards may not be considered matching funds. The nature of the contribution (cash versus in-kind) and the amount of matching funds will be taken into consideration in the review process. Priority selection will be given to proposals that propose cash rather than in-kind contributions.

Intergovernmental Review: Applications under this program are subject to Executive Order 12372, Intergovernmental Review of Federal Programs.

7. FY 2010 Community-Based Marine Debris Removal Project Grants

Summary Description: The NOAA Marine Debris Program (MDP), authorized in the Marine Debris Research, Prevention, and Reduction Act (MDRPR Act, 33 U.S.C. 1951 et seq.), provides funding to catalyze the implementation of locally driven, community-based marine debris prevention, assessment and removal projects that will benefit coastal habitat, waterways, and NOAA trust resources. Projects funded through the MDP have strong on-the-ground habitat components involving the removal of marine debris and derelict fishing gear, as well as activities that provide social benefits for people and their communities in addition to long-term ecological habitat improvements for NOAA trust resources. Through this solicitation the MDP identifies marine debris removal projects, strengthens the development and implementation of habitat restoration through the removal of marine debris within communities, and fosters awareness of the effects of marine debris to further the conservation of living marine resource habitats across a wide geographic area. Proposals selected for funding through this solicitation will be implemented through a cooperative agreement. Funding of up to $2,000,000 is expected to be available for Community-based Marine Debris Removal Project Grants in FY 2010. The NOAA MDP anticipates that typical awards will range from $15,000 to $150,000.

Funding Availability: This solicitation announces that funding of up to $2,000,000 is expected to be available for Community-based Marine Removal Project Grants in FY 2010. Actual funding availability for this program is contingent upon Fiscal Year 2010 Congressional appropriations. The NOAA Restoration Center anticipates that typical project awards will range from $15,000 to $150,000; NOAA will not accept proposals for under $15,000 or proposals for over $250,000 under this solicitation. There is no guarantee that sufficient funds will be available to make awards for all proposals. The number of awards to be made as a result of this solicitation will depend on the number of eligible applications received, the amount of funds requested for initiating marine debris removal projects by the applicants, the merit and ranking of the proposals, and the amount of funds made available to the MDP by Congress.

The NOAA Restoration Center anticipates that between 10 and 25 awards will be made as a result of this solicitation. The exact amount of funds that may be awarded will be determined in pre-award negotiations between the applicant and NOAA representatives. Publication of this document does not obligate NOAA to award any specific project or obligate all or any part of any available funds. In FY 2008, 10 applications were recommended for funding ranging from $39,000 to $175,000, for a total grant competition funding level of approximately $900,000.

This is the fourth year of the Community-based Marine Debris Removal Project Grants, a grant partnership between the NOAA Marine Debris Program and NOAA Restoration Center. These grants are funded through the NOAA Marine Debris Program with appropriations to the Office of Response and Restoration, National Ocean Service for this purpose. The NOAA Restoration Center will administer this grants program in the same manner that the Community-based Restoration Program is conducted.

Statutory Authority: 33 U.S.C. 1951 et seq.

Catalog of Federal Domestic Assistance (CFDA) Number: 11.463, Habitat Conservation.

Application Deadline: Applications must be received and validated by Grants.gov, postmarked, or provided to a delivery service on or before 11:59 p.m. EDT, October 31, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: If the applicant does not have Internet access, a hard copy application with the SF424 bearing an original, ink signature (blue ink preferred) must be postmarked, or provided to a delivery service and documented with a receipt, by 11:59 p.m. EDT, October 31, 2009, and sent to: David Landsman, NOAA Restoration Center (F/HC3), Attn: MDP Project Applications, 1315 East West Highway, Rm. 14727, Silver Spring, MD 20910. Applications postmarked or provided to a delivery service after that date will not be considered for funding. Applications submitted via the U.S. Postal Service must have an official postmark; private metered postmarks are not acceptable. In any event, applications received later than 15 business days following the postmark closing date will not be accepted. No facsimile or electronic mail applications will be accepted. Paper applications should be printed on one side only, on 8.5″ x 11″ paper, and should not be bound in any manner.

Information Contacts: For further information contact David Landsman at 301-713-0174 or by e-mail at David.Landsman@noaa.gov.

Eligibility: Eligible applicants are institutions of higher education, other non-profits, commercial (for profit) organizations, organizations under the jurisdiction of foreign governments, international organizations, and state, local and Indian tribal governments whose projects have the potential to benefit NOAA trust resources. Applications from federal agencies or employees of Federal agencies will not be considered. Federal agencies are strongly encouraged to work with states, on-governmental organizations, national service clubs or youth corps organizations and others that are eligible to apply.

The Department of Commerce/National Oceanic and Atmospheric Administration (DOC/NOAA) is strongly committed to broadening the participation of historically black colleges and universities, Hispanic serving institutions, tribal colleges and universities, and institutions that work in under-served areas. The MDP encourages proposals involving any of the above institutions.

Cost Sharing Requirements: A major goal of the MDP is to provide seed money to projects that leverage funds and other contributions from a broad public and private sector to implement locally important marine debris removal activities to benefit living marine resources. To this end, the MDRPR Act requires applicants to demonstrate a minimum 1:1 non-Federal match for MDP funds requested to conduct the proposed project. In addition to formal match, NOAA strongly encourages applicants to leverage as much investment as possible. However, the MDRPR Act allows the Administrator to waive all or part of the matching requirement if the applicant can demonstrate that: (1) No reasonable means are available through which applicants can meet the matching requirement, and; (2) the probable benefit of such project outweighs the public interest in such matching requirement.

In addition, the MDP shall waive any requirement for matching funds to an Insular Area (Virgin Islands, Guam, American Samoa, the Trust Territory of the Pacific Islands, and the Government of the Northern Mariana Islands). Under 48 U.S.C. 10.1469a(d), any department or agency may waive any requirement for matching funds otherwise required by law to be provided by the Insular Area involved. All applicants should note that cost sharing is an element considered in Evaluation Criterion #4. “Project Costs.” Match can come from a variety of public and private sources and can include in-kind goods and services such as private boat use and volunteer labor. To meet the 1:1 match requirement, applicants are permitted to combine contributions from non-federal partners, as long as such contributions are not being used to match any other funds and are available within the project period stated in the application. Federal sources cannot be considered for matching funds, but can be described in the budget narrative to demonstrate additional leverage. Applicants are also permitted to apply federally negotiated indirect costs in excess of federal share limits as described in Section IV.E.2. “Indirect Costs” of the Full Funding Opportunity announcement. The MDRPR Act allows the Administrator to authorize, as appropriate, the non-Federal share of the cost of a project to include money paid pursuant to, or the value of any in-kind service performed under, an administrative order on consent or judicial consent decree that will remove or prevent marine debris.

Applicants whose proposals are selected for funding will be bound by the percentage of cost sharing reflected in the award document signed by the NOAA Grants Officer. Successful applicants should be prepared to carefully document matching contributions, including the names of participating volunteers and the overall number of volunteer or community participation hours devoted to individual marine debris removal projects. Letters of commitment for any secured resources expected to be used as match for an award should be submitted as an attachment to the application.

Intergovernmental Review: Applications submitted by state and local governments are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

8. Gulf of Mexico NOAA Bay Watershed Education and Training (B-WET) Program

Summary Description: The National Marine Fisheries Service (NMFS), Southeast Region, is seeking proposals under the Gulf of Mexico B-WET Program. The B-WET program is an environmental education program that promotes locally relevant, experiential learning in the K-12 environment. Funded projects provide meaningful watershed educational experiences for students, related professional development for teachers, and helps to support regional education and environmental priorities in the northern Gulf of Mexico.

This program addresses NOAA's mission goal to “Protect, Restore, and Manage the Use of Coastal and Ocean Resources through an Ecosystem Approach to Management.”

Funding Availability: It is anticipated that approximately $700,000 will be available in FY 2010 for new awards. NOAA anticipates making approximately 3 to 5 new awards during FY 2010. The total Federal amount that may be requested from NOAA shall not exceed $100,000. The minimum Federal amount that must be requested from NOAA is $25,000. Applications requesting Federal support from NOAA for more than $100,000 per year will not be considered for funding. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government.

Notwithstanding verbal or written assurance that may have been received, there is no obligation on the part of NOAA to cover pre-award costs unless approved by the Grants Officer as part of the terms when the award is made.

Statutory Authority: Authority for the Marine Fisheries Initiative Program is provided by the following: 16 U.S.C. 661.

Catalog of Federal Domestic Assistance (CFDA) Number: 11.463, Habitat Conservation.

Application Deadline: Applications must be received and validated by Grants.gov on or before 5 p.m. ET on November 13, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Applications must be submitted through www.grants.gov unless an applicant does not have Internet access. In that case, hard copies with original signatures may be sent to: National Marine Fisheries Service, State/Federal Liaison Branch, 263 13th Avenue South, St. Petersburg, FL 33701.

Information Contacts: For questions regarding the application process, you may contact: Ellie Francisco Roche, Chief, State/Federal Liaison Branch, (727) 824-5324, or Ellie.Roche@noaa.gov.

Eligibility: Eligible applicants are K-12 public and independent schools and school systems, institutions of higher education, community-based and nonprofit organizations, state or local government agencies, interstate agencies, and Indian tribal governments.

Cost Sharing Requirements: Cost-sharing is not required for this program.

Intergovernmental Review: Applications submitted by state and local governments are subject to the provisions of Executive Order 12372, Intergovernmental Review of Federal Programs. Any applicant submitting an application for funding is required to complete item 16 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

9. Marine Fisheries Initiative (MARFIN)

Summary Description: The National Marine Fisheries Service (NMFS), Southeast Region, is seeking proposals under the Marine Fisheries Initiative Program (MARFIN), for research and development projects that optimize the use of fisheries in the Gulf of Mexico and off the South Atlantic states of North Carolina, South Carolina, Georgia, and Florida involving the U.S. fishing industry (recreational and commercial), including fishery biology, resource assessment, socioeconomic assessment, management and conservation, selected harvesting methods, and fish handling and processing. This program addresses NOAA's mission goal to “Protect, Restore, and Manage the Use of Coastal and Ocean Resources Through an Ecosystem Approach to Management.”

Funding Availability: Approximately $2.0 million may be available in fiscal year (FY) 2010 for projects. This amount includes possible in-house projects. Actual funding availability for this program is contingent upon Fiscal Year 2010 Congressional appropriations. The NMFS Southeast Regional Office anticipates awarding approximately ten projects that will range from $25,000 to $175,000 per year. The total Federal amount that may be requested shall not exceed $350,000 for a two year project, and $525,000 for a three year project. Publication of this notice does not obligate NMFS to award any specific grant or cooperative agreement or any of the available funds. Project proposals accepted for funding with a project period over one year do not have to compete for the additional years of funding. However, funding for the additional years is contingent upon the availability of funds and satisfactory performance and is at the sole discretion of the agency.

Statutory Authority: Authority for the Marine Fisheries Initiative Program is provided by the following: 15 U.S.C. 713c-3(d).

Catalog of Federal Domestic Assistance (CFDA) Number: 11.433, Marine Fisheries Initiative.

Application Deadline: Applications must be received and validated by Grants.gov on or before 5 p.m. EDT on August 17, 2009. Please note: Validation or rejection of your application by Grants.gov may take up to 2 business days after submission. Please consider this process in developing your submission timeline. Applications received after the deadline will be rejected/returned to the sender without further consideration.

Address for Submitting Proposals: Applications must be submitted through www.grants.gov unless an applicant does not have Internet access. In that case, hard copies with original signatures may be sent to: National Marine Fisheries Service, State/Federal Liaison Branch, 263 13th Avenue South, St. Petersburg, FL 33701.

Information Contacts: For questions regarding the application process, you may contact: Ellie Francisco Roche, Chief, State/Federal Liaison Branch, (727) 824-5324, or Ellie.Roche@noaa.gov.

Eligibility: Eligible applicants may be institutions of higher education, nonprofits, commercial organizations, individuals, state, local and Indian tribal governments. Federal agencies or institutions are not eligible. Foreign governments, organizations under the jurisdiction of foreign governments, and international organizations are excluded for purposes of this solicitation since the objective of the MARFIN program is to optimize research and development benefits from U.S. marine fishery resources.

Cost Sharing Requirements: Cost-sharing is not required for this program.

Intergovernmental Review: Applications submitted by state and local governments are subject to the provisions of executive Order 12372, Intergovernmental Review of Federal Programs. Any applicant submitting an application for funding is required to complete item 16 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

10. NOAA Coastal and Marine Habitat Restoration National and Regional Partnership Grants

Summary Description: NOAA delivers funding and technical expertise to restore coastal and marine habitats. These habitats support valuable fisheries and protected resources, improve the quality of our water, provide recreational opportunities for the public's use and enjoyment and buffer our coastal communities from the impacts of storms and sea level rise. Partnerships funded through NOAA have strong on-the-ground habitat restoration components that provide social and economic benefits in addition to long-term ecological habitat improvements that benefit NOAA trust resources. Through this solicitation, NOAA seeks to openly compete funding available for multi-year national and regional habitat restoration Partnerships. Partnerships will result in implementation of a wide-range of individual habitat restoration projects, from locally-driven, grass-roots projects that emphasize stewardship and hands-on restoration, to mid-scale, watershed level projects that yield significant ecological and socio-economic benefits. NOAA envisions working jointly on such Partnerships through its Community-based Restoration Program (CRP) to identify, evaluate, fund, and administer projects that offer this range of ecological, socio-economic and stewardship benefits to coastal watershed communities. This document describes the types of habitat restoration Partnerships that NOAA envisions establishing, portrays the qualities that NOAA deems desirable in such Partnerships, and describes criteria under which applications will be evaluated for funding consideration. Partnership applications selected through this announcement will be implemented through a multi-year cooperative agreement, and will ultimately involve joint selection of multiple community-based habitat restoration projects funded as sub-awards made through the Partner organization. Funding of approximately $10 million is expected to be available to establish habitat restoration Partnerships in 2010, with annual funding anticipated to maintain them for up to 3 years duration. Requests for funding to establish Partnerships typically exceed the funds available for this purpose and the selection process will be highly competitive. Typical Partnership awards will range from $500,000 to $1,000,000 per year.

Funds will be administered by the NOAA Restoration Center within NOAA Fisheries Office of Habitat Conservation. This is not a request for individual community-based habitat restoration project proposals.

Funding Availability: NOAA anticipates that approximately $10 million may be available in FY 2010 to establish national and regional Partnerships that will implement coastal and marine habitat restoration through sub awards. Funding is expected to be provided on an annual basis to maintain Partnerships for up to 3 years duration, and is dependent upon the level of funding made available by Congress. NOAA anticipates that typical awards for the initial year of restoration Partnerships will range from $500,000 to $1,000,000. NOAA will not accept proposals with a first year budget under $250,000 or over $5,000,000 under this solicitation. Applicants can request increases to continue scaling up Partnership activities in subsequent budget periods to a limit of $7,500,000 in FY 2011, and to $10,000,000 in FY 2012. Annual funding levels and any increases over FY 2010 levels for successful applicants will be at the discretion of the NOAA Restoration Center Chief (Chief). The Chief will make annual funding determinations for each Partner, in consultation with NOAA technical staff, based on Partnership performance, capacity of the Partner organization to generate quality projects with respect to funding potentially available to them under an award, the amount of prior year funding remaining to be expended, regional and Administration priorities, and other factors deemed important to the annual allocation process. For reference, in FY 2007 the NOAA Restoration Center established and funded 17 multi-year Partnerships for a total of $8.8 million in their first year, $7.1 million in FY 2008, and $9.8 million in FY 2009. There is no guarantee that sufficient funds will be available to make awards for all Partnership applications. The number of awards to be made as a result of this solicitation will depend on the number of eligible applications received, the amount of funds requested for establishing national and regional habitat restoration Partnerships by the applicants, the merit and ranking of the applications, and the amount of funds made available by Congress.

The exact amount of funds that may be awarded will be determined in pre-award negotiations between the applicant and NOAA representatives, and multi-year funding requests are expected to be funded incrementally on an annual basis.

Publication of this document does not obligate NOAA to award any specific project or obligate all or any parts of any available funds.

Statutory Authority: The Secretary of Commerce is authorized under the following statutes to provide grants and cooperative agreements for habitat restoration: Fish and Wildlife Coordination Act 16 U.S.C. 661, as amended by the Reorganization Plan No. 4 of 1970; Magnuson-Stevens Fishery Conservation and Management Reauthorization Act of 2006, 16 U.S.C. 1891a.

Catalog of Federal Domestic Assistance (CFDA) Number: 11.463, Habitat Conservation.

Application Deadline: Applications must be received and validated by Grants.gov, postmarked, or provided to a delivery service on or before 11:59 p.m. EDT on September 30, 2009. Please note: Validation or rejection of your application by Grants.gov may take up to 2 business days after submission. Please consider this process in developing your submission timeline. Use of a delivery service must be documented with a receipt. No facsimile or electronic mail applications will be accepted.

Address for Submitting Proposals: Applicants may submit their applications through Grants.gov. If an applicant does not have Internet access, a hard copy application must be postmarked, or provided to a delivery service and documented with a receipt, by September 30, 2009 and sent to: NOAA Restoration Center, NOAA Fisheries, 1315 East West Highway, Rm. 14853, Silver Spring, MD 20910. Attn: Restoration Partnership Applications. Applications postmarked or provided to a delivery service after that time will not be considered for funding.

Applications submitted via the U.S. Postal Service must have an official postmark; private metered postmarks are not acceptable. In any event, applications received later than 7 business days following the postmark closing date will not be accepted. No facsimile or electronic mail applications will be accepted. Paper applications should be printed on one side only, on 8.5″ × 11″ paper, and should not be bound in any manner. Applicants submitting paper applications must also include a full copy of the application as a single PDF file, including Federal forms, on a compact disc (CD).

Information Contacts: For further information contact Robin Bruckner or Melanie Gange at (301) 713-0174, or by e-mail at Robin.Bruckner@noaa.gov or Melanie.Gange@noaa.gov. Prospective applicants are invited to contact NOAA staff before submitting an application to discuss their partnership ideas. Additional information on habitat restoration can be found on the World Wide Web at http://www.nmfs.noaa.gov/habitat/restoration.

Eligibility: Eligible applicants are institutions of higher education, non-profits, commercial (for profit) organizations, U.S. Territories, and state, local and Indian tribal governments. Applications from Federal agencies or employees of Federal agencies will not be considered. Federal agencies are strongly encouraged to work with states, non-governmental organizations, municipal and county governments, conservation corps organizations and others that are eligible to apply.

The Department of Commerce/National Oceanic and Atmospheric Administration (DOC/NOAA) is strongly committed to broadening the participation of historically black colleges and universities, Hispanic-serving institutions, tribal colleges and universities, and institutions that work in under-served areas. NOAA encourages applications involving any of the above institutions.

Cost Sharing Requirements: The overall focus of the CRP is to implement coastal and marine habitat restoration that leverages funds and other contributions from the public and private sector to accomplish broad yet locally important habitat benefits. To this end, applicants seeking national and regional Partnerships with NOAA are encouraged to demonstrate a 1:1 non-Federal match overall for federal funds requested.

Additionally, those Partnerships that propose to provide cash match toward project implementation funds at the national/regional level (before local, project-specific contributions are included) will be likely to score higher in the evaluation of project costs. While this is not a requirement, NOAA strongly advises applicants to leverage as much investment as possible. Applicants with less than 1:1 match and those that do not have cash match for project implementation funds at the national/regional level will not be disqualified, however applicants should note that cost sharing is an element considered in evaluation criteria #4. “Project Costs” (Section V.A.4 of the Full Funding Opportunity announcement).

Similarly, proposals that limit administrative costs to 20% at the national or regional level also will be likely to score higher on this criterion. The match can come from a variety of public and private sources and can include in-kind goods and services. Federal funds may not be considered matching funds, but can be described in the budget narrative to demonstrate additional leverage. Applicants are permitted to combine non-federal contributions from additional Partners in order to meet the 1:1 match expected to establish a Partnership, as long as the matching funds are not already being used to match other funding sources and are available within the project period stated in the application. Applicants are also permitted to apply federally negotiated indirect costs in excess of federal share limits as described in Section IV.E. “Funding Restrictions” in the Full Funding Opportunity announcement.

Applicants whose proposals are selected for habitat restoration Partnership funding will be bound by the percentage of cost sharing reflected in the award document signed by the NOAA Grants Officer. Successful applicants must be prepared to carefully document matching contributions, including the number of volunteer or community participation hours devoted to individual habitat restoration projects.

Intergovernmental Review: Applications submitted by state and local governments are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOC's are listed in the Office of Management and Budget's home page at: http://www.whitehouse.gov/omb/grants/spoc.html.

11. NOAA Coral Reef Conservation Grant Program/General Coral Reef Conservation Grants

Summary Description: The NOAA Coral Reef Conservation Program/General Coral Reef Conservation Grants (GCRCGP) provides funding to institutions of higher education, non-profit organizations, commercial organizations, Freely Associated State government agencies, and local and Indian tribal governments to support coral reef conservation projects in the United States and the Freely Associated States in the Pacific, as authorized under the Coral Reef Conservation Act of 2000. Projects funded through the GCRCGP support on-the ground efforts that: (1) Help preserve, sustain and restore the condition of coral reef ecosystems, (2) promote the wise management and sustainable use of coral reef resources, (3) increase public knowledge and awareness of coral reef ecosystems and issues regarding their conservation, and (4) develop sound scientific information on the condition of coral reef ecosystems and the threats to such ecosystems. Projects should complement and fill gaps in state, territorial and commonwealth coral reef programs, emphasize community-based conservation, or address local action strategy priorities. Proposals selected for funding through this solicitation require a 1:1 match and will be implemented through a grant. Funding of up to $600,000 is expected to be available for GCRCGP in FY 2010. These funds will be divided approximately equally among the U.S. Pacific and Atlantic to maintain geographic balance, as outlined in the Coral Reef Conservation Act of 2000. Awards will range from $15,000-$50,000.

Funding Availability: NOAA announces the availability of up to $600,000 of Federal assistance may be available in FY 2010 for the GCRCGP to support financial assistance awards for coral conservation activities. Proposals can be submitted for a minimum of $15,000 to a maximum of $50,000; NOAA will not accept proposals requesting over $50,000 of Federal funds. There is no limit on the number of applications that can be submitted by the same applicant during the 2010 competitive grant cycle.

However, multiple applications submitted by the same applicant must clearly identify different projects and must be successful in the competitive review process. The number of awards made as a result of this solicitation will depend on the number of eligible applications received, the amount of funds requested for each project, the merit and ranking of the proposals, and the amount of funds made available to the Program by Congress. In addition, funding will be divided between the U.S. Pacific and U.S. Atlantic to meet requirements for geographic distribution of funds, as described in the Coral Reef Conservation Act. Attempts will also be made to fund one or more projects in each jurisdiction, provided that the project addresses priorities outlined above, it is identified as having sufficient merit, and it meets all other requirements as stipulated in this solicitation. The funds have not yet been appropriated for this program, and there is no guarantee that sufficient funds will be available to make awards for all qualified projects. Publication of this notice does not oblige NOAA to award any specific project or to obligate any available funds.

Statutory Authority: Authority for the NOAA Coral Reef Conservation Grant Program is provided by Section 6403 (Coral Reef Conservation Program) of the Coral Reef Conservation Act of 2000 (16 U.S.C. 6401 et seq.).

Catalog of Federal Domestic Assistance (CFDA) Number: 11.463, Habitat Conservation.

Application Deadline: Applications must be received and validated by Grants.gov, postmarked, or provided to a delivery service on or before 11:59 p.m. EDT on November 2, 2009. Please note: Validation or rejection of your application by Grants.gov may take up to 2 business days after submission. Please consider this process in developing your submission timeline. Use of a delivery service must be documented with a receipt. Applications postmarked or provided to a delivery service after that time will not be accepted for funding. Applications submitted via U.S. Postal Service must have an official postmark; private metered postmarks are not acceptable. In any event, applications received later than 15 business days following the postmarked closing date will not be accepted. No facsimile or electronic mail applications will be accepted. There will be no extensions beyond these dates. If an application is not submitted through grants.gov or postmarked by the deadline listed above, it will not be reviewed or considered for FY 2010 funding.

Address for Submitting Proposals: Applicants may submit their applications through Grants.gov. If Internet access is unavailable, hard copies can be submitted to: Jennifer Koss, NOAA Coral Reef Conservation Program, NOAA Fisheries, Office of Habitat Conservation (F/HC), 1315 East West Highway, Silver Spring, MD 20910. Attn: CRCGP Project Applications. Applicants submitted by mail are required to include original signed and dated copies of the Federal financial assistance forms. Electronic copies of the project narrative and budget narrative are requested with the submission of a paper application. Please submit these to Jennifer.Koss@noaa.gov. All applicants, both electronic and paper, should be aware that adequate time must be factored into applicant schedules for delivery of the application. Electronic applicants are advised that volume on Grants.gov is currently extremely heavy, and if Grants.gov is unable to accept applications electronically in a timely fashion, applicants are encouraged to exercise their option to submit applications in paper format. Paper applicants should allow adequate time to ensure a paper application will be received on time, taking into account that guaranteed overnight carriers are not always able to fulfill their guarantees.

Information Contacts: Technical point of contact for NOAA Coral Reef Conservation Grant Program/General Grants is Jennifer Koss, 301-713-4300 extension 165 or e-mail at Jennifer.Koss@noaa.gov.

Eligibility: Institutions of higher education, non-profit organizations, commercial organizations, local and Indian tribal governments and Freely Associated State Government Agencies can apply for funding under the GCRCGP. U.S. federal, state, territory, and commonwealth governments and Regional Fishery Management Councils are not eligible under this category. NOAA employees are not allowed to help in the preparation of applications or write letters of support for any application. NOAA staff are available to provide information on programmatic goals and objectives, ongoing coral reef conservation programs, Regional funding priorities, and, along with other Federal Program Officers, can provide information on application procedures and completion of required forms. For activities that involve collaboration with current NOAA programs or staff, NOAA employees must provide a letter verifying that they are collaborating with the project.

Federal employee travel and salaries are not allowable costs under this program.

Cost Sharing Requirements: As per section 6403(b)(1) of the Coral Reef Conservation Act of 2000, Federal funds for any coral conservation project funded under this Program may not exceed 50 percent of the total cost of the project. All GCRCGP projects submitted to this program require a 1:1 match obtained from non-Federal sources.

Applicants must specify in their proposal the source of the match and provide letters of commitment to confirm stated match contributions. The match can include in-kind contributions and other non-cash support. Applicants are permitted to combine contributions from additional non-Federal partners in order to meet the 1:1 match expected, as long as such contributions are not being used to match any other funds. Federal funds may not be used as matching funds. The nature of the contribution (cash versus in-kind) and the amount of matching funds will be taken into consideration in the review process, with cash being the preferred method of contribution. Applicants with less than 1:1 match will not be disqualified, if they provide justification for a lower amount of matching funds, however, applicants should note that cost sharing is an element considered in IV.E. Evaluation Criterion, 4. Project Costs in the Full Funding Opportunity. As per section 6403(b)(2) of the Coral Reef Conservation Act of 2000, the NOAA Administrator may waive all or part of the matching requirement if the Administrator determines that the project meets the following two requirements: (1) No reasonable means are available through which an applicant can meet the matching requirement; and (2) the probable benefit of such project outweighs the public interest in such matching requirement. In the case of a waiver request, the applicant must provide a detailed justification at the time the proposal is submitted explaining the need for the waiver including attempts to obtain sources of matching funds, how the benefit of the project outweighs the public interest in providing match, and any other extenuating circumstances preventing the availability of match. Notwithstanding any other provisions herein, and in accordance with 48 U.S.C. 1469a(d), the Program shall waive any requirement for local matching funds for any project under $200,000 (including in-kind contribution) to the governments of Insular Areas, defined as the jurisdictions of the U.S. Virgin Islands, Guam, American Samoa, and the Commonwealth of the Northern Mariana Islands. Eligible applicants choosing to apply 48 U.S.C. 1469a(d) must include a letter requesting a waiver that demonstrates that their project meets the requirements of 48 U.S.C. 1469a(d).

Intergovernmental Review: Applications under this Program are subject to Executive Order 12372, Intergovernmental Review of Federal Programs. Any applicant submitting an application for funding is required to complete item 16 on SF-424 regarding clearance by the State Single Point of Contact (SSPOC) established as a result of EO 12372. The SSPOC for your state can be found at: http://www.whitehouse.gov/omb/grants/spoc.html.

12. NOAA Coral Reef Conservation Grant Program/Projects To Improve or Amend Coral Reef Fishery Management Plans

Summary Description: The NOAA Coral Reef Conservation Grant Program/Projects to Improve or Amend Coral Reef Fishery Management Plans (CRFMPGP) provides funding to the Regional Fishery Management Councils for projects to conserve and manage coral reef fisheries, as authorized under the Coral Reef Conservation Act of 2000. Projects funded through the CRFMPGP are for activities that (1) provide better scientific information on the status of coral reef fisheries resources, critical habitats of importance to coral reef fishes, and the impacts of fishing on these species and habitats; (2) identify new management approaches that protect coral reef biodiversity and ecosystem function through regulation of fishing and other extractive uses; and (3) incorporate conservation and sustainable management measures into existing or new Federal fishery management plans for coral reef species. Proposals selected for funding through this solicitation will be implemented through a Cooperative Agreement. The role of NOAA in the CRFMPGP is to help identify potential projects that reduce impacts of fishing on coral reef ecosystems, strengthen the development and implementation of the projects, and assist in coordination of these efforts with Federal state, territory or commonwealth management authorities and various coral reef user groups.

Funding up to $1,050,000 is expected to be available for CRFMPGP Cooperative Agreements in FY 2010. These funds will be divided equally among the Atlantic and Pacific to maintain the geographic split required by the Act. The NOAA Coral Reef Conservation Program anticipates that awards will range from $175,000-$525,000.

Funding Availability: This solicitation announces that approximately $1,050,000 is expected to be available for cooperative agreements in support of coral reef conservation activities for Projects to Improve or Amend Coral Reef Fishery Management Plans (CRFMPGP) in fiscal year 2010. Actual funding availability for this program is contingent upon fiscal year 2010 Congressional appropriations. The NOAA Coral Reef Conservation Program anticipates that typical project awards will range from about $175,000 to $525,000; NOAA will not accept proposals for over $525,000 under this solicitation. Equal funding will be provided to the Atlantic and Pacific, up to a maximum of $525,000 for activities in the Western Pacific, and a maximum of $525,000 for activities in the South Atlantic, the Gulf of Mexico, and the Caribbean. The exact amount of funds that may be awarded will be determined in pre-award negotiations between the applicant and NOAA representatives.

Activities approved by NOAA will be awarded as new cooperative agreements through the NMFS Office of Habitat Conservation (HC). The number of awards made as a result of this solicitation will depend on the number of eligible applications received, the amount of funds requested for each project, the merit and ranking of the proposals, and the amount of funds made available to the Program by Congress. The funds have not yet been appropriated for this program, and there is no guarantee that sufficient funds will be available to make awards for all qualified projects. Publication of this notice does not oblige NOAA to award any specific project or to obligate any available funds.

Statutory Authority: Authority for the NOAA Coral Reef Conservation Grant Program is provided by Section 6403 (Coral Reef Conservation Program) of the Coral Reef Conservation Act of 2000 (16 U.S.C. 6401 et seq.).

Catalog of Federal Domestic Assistance (CFDA) Number: 11.441, Regional Fishery Management Councils.

Application Deadline: Applications must be received and validated by Grants.gov, postmarked, or provided to a delivery service on or before 5 p.m. ET, on November 2, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Federal forms should be filled out and submitted on line at www.grants.gov with the rest of the grant application. If applicants are unable to submit through www.grants.gov, an original paper copy of signed Federal financial assistance forms and the complete project narrative and budget narrative must be submitted by mail to: Jennifer Koss, NOAA Coral Reef Conservation Program, NOAA Fisheries, Office of Habitat Conservation (F/HC1), 1315 East West Highway, Silver Spring, MD 20910. Attn: CRCGP Project Applications. Electronic copies of the project narrative and budget narrative are requested when submitting by mail (liz.fairey@noaa.gov), however e-mail applications submitted without a mailed hard copy with appropriate postal date stamp will not be accepted.

Information Contacts: Technical point of contact for NOAA Coral Reef Conservation Grant Program/General Grants is Jennifer Koss, 301-713-4300 or e-mail at Jennifer.Koss@noaa.gov.

Eligibility: Eligible applicants are limited to the Western Pacific Regional Fishery Management Council, the South Atlantic Fishery Management Council, the Gulf of Mexico Fishery Management Council, and the Caribbean Fishery Management Council.

Cost Sharing Requirements: No cost sharing or matching is required under this program. The Administrator has waived the matching requirement for the Fishery Management Councils as discussed in Section VII of the Coral Reef Conservation Grant Program Implementation Guidelines (Federal Register Vol. 67, No. 76, page 19396, Friday, April 19, 2002.). This waiver is based on the fact that the Councils are funded solely by awards from the U.S. Federal Government, and therefore, do not have the ability to generate matching funds.

Intergovernmental Review: Applications under this CRFMPGP are subject to Executive Order 12372, Intergovernmental Review of Federal Programs. Specific information regarding Intergovernmental Review can be found above in Section IV. Application and Submission Information, D. Intergovernmental Review in the Full Funding Opportunity.

13. NOAA New England Bay Watershed Education and Training (B-WET) Program

Summary Description: NOAA B-WET is an environmental education program that promotes locally relevant, experiential learning in the K-12 environment. Funded projects provide meaningful watershed educational experiences for students, related professional development for teachers, and helps to support regional education and environmental priorities in New England.

Funding Availability: It is anticipated that approximately $300,000 will be available in FY 2010 for new awards. NOAA anticipates making approximately 2 to 5 new awards during FY 2010. NOAA will consider only projects with duration of 1 to 3 years. The total Federal amount that may be requested from NOAA shall not exceed $100,000 per year and $300,000 for all years of the proposed project. The minimum Federal amount that must be requested from NOAA for one year is $10,000 and for all years is $30,000.

Applications requesting Federal support from NOAA of less than $10,000 for one year or more than $100,000 per year and $300,000 total for the duration of the project will not be considered for funding. There is no guarantee that sufficient funds will be available to make awards for all qualified projects. The exact amount of funds that may be awarded will be determined in pre-award negotiations between the applicant and NOAA representatives.

Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: Under 33 U.S.C 893a(a), the Administrator of the National Oceanic and Atmospheric Administration is authorized to conduct, develop, support, promote, and coordinate formal and informal educational activities at all levels to enhance public awareness and understanding of ocean, coastal, Great Lakes, and atmospheric science and stewardship by the general public and other coastal stakeholders, including underrepresented groups in ocean and atmospheric science and policy careers. In conducting those activities, the Administrator shall build upon the educational programs and activities of the agency.

Catalog of Federal Domestic Assistance (CFDA) Number: 11.469, Congressionally Identified Awards and Projects.

Application Deadline: Applications must be received and validated by Grants.gov, postmarked, or provided to a delivery service on or before 5 p.m. EDT, October 2, 2009. Please note: Validation or rejection of your application by Grants.gov may take up to 2 business days after submission. Please consider this process in developing your submission timeline. Applications received after the deadline will be rejected/returned to the sender without further consideration. Use of U.S. mail or another delivery service must be documented with a receipt.

Address for Submitting Proposals: Applications submitted through Grants.gov will be accompanied by an automated receipt of the date and time of submission. Hard copy applications will be hand stamped with time and date when received in the NOAA Fisheries, Northeast Regional Office (Attn: New England B-WET Program). Note that late-arriving hard copy applications provided to a delivery service on or before 5 p.m., EDT October 2, 2009 will be accepted for review if the applicant can document that the application was provided to the guaranteed delivery service by the specified closing date and time, and if the proposals are received NOAA Fisheries, Northeast Regional Office by 5 p.m., EDT, no later than 2 business days following the closing date. Applicants are recommended to send hard copies via expedited shipping methods (e.g., Airborne Express, DHL, FedEx, UPS, etc.). No e-mail and/or facsimile pre-proposals and/or full applications will be accepted. Applications that are late or are received by fax or e-mail will not be considered for review. Important: All applicants, both electronic and paper, should be aware that adequate time must be factored into applicant schedules for delivery of the application. Electronic applicants are advised that volume on Grants.gov is currently extremely heavy, and if Grants.gov is unable to accept applications electronically in a timely fashion, applicants are encouraged to exercise their option to submit applications in paper format. Paper applicants should allow adequate time to ensure a paper application will be received on time, taking into account that guaranteed overnight carriers are not always able to fulfill their guarantees.

Information Contacts: Kathi Rodrigues, New England B-WET Program Manager, NOAA, 55 Great Republic Drive, Gloucester, MA 01930-2276, or via e-mail at kathi.rodrigues@noaa.gov. Questions about this opportunity may also be directed to Bronwen Rice, B-WET National Coordinator, by phone at 202-482-6797 or e-mail at bronwen.rice@noaa.gov.

Eligibility: Eligible applicants are K-12 public and independent schools and school systems, institutions of higher education, community-based and nonprofit organizations, state or local government agencies, interstate agencies, and Indian tribal governments.

The Department of Commerce/National Oceanic and Atmospheric Administration (DOC/NOAA) is strongly committed to broadening the participation of historically black colleges and universities, Hispanic serving institutions, tribal colleges and universities, and institutions that service underserved areas. While applicants do not need to be from the targeted geographical regions specified in the program objectives, they must be working with target audiences in these areas.

Cost Sharing Requirements: No cost sharing is required under this program, however, the NOAA B-WET Program strongly encourages applicants include a 25% or higher match. Funds from other Federal awards may not be considered matching funds. The nature of the contribution (cash vs. in-kind) and the amount of matching funds will be taken into consideration during the review process. Priority selection is given to proposals that propose cash rather than in-kind services.

Intergovernmental Review: Applications under this program are not subject to Executive Order 12372, “Intergovernmental Review of Federal Programs.”

14. John H. Prescott Marine Mammal Rescue Assistance Grant Program 2010

Summary Description: The Marine Mammal Health and Stranding Response Program of the National Marine Fisheries Service is charged under the Marine Mammal Protection Act with facilitating the collection and dissemination of reference data on stranded marine mammals and health trends of marine mammal populations in the wild. Through cooperation with NMFS Regional Coordinators, local organizations and state and local government officials respond to and collect valuable data from stranded marine mammals as participants in the national Marine Mammal Stranding Network. The John H. Prescott Marine Mammal Rescue Assistance Grant Program is conducted by NOAA to provide Federal assistance to eligible members of the Stranding Network to: (1) Support basic needs of organizations for response, treatment, and data collection from living and dead stranded marine mammals, (2) fund scientific research objectives designed to answer questions about marine mammal strandings, health, or rehabilitation techniques utilizing data from living and dead stranded marine mammals, and (3) support facility operations directly related to the recovery or treatment of stranded marine mammals and collection of data from living or dead stranded marine mammals.

Funding Availability: This solicitation announces that approximately $4,000,000 may be available for distribution under the FY 2010 annual competitive Prescott Grant Program.

Applicants are hereby given notice that these funds have not yet been appropriated for this program. Therefore, exact dollar amounts cannot be given. There is no guarantee that sufficient funds will be available to make awards for all qualified projects. The maximum Federal award for each grant cannot exceed $100,000, as is stated in the legislative language 16 U.S.C. 1421f-1. Funds may be set aside from the annual appropriation to provide for emergency assistance awards to eligible stranding network participants. These emergency funds will be available until expended. There is no limit on the number of proposals that can be submitted by the same stranding network participant during the 2010 competitive grant cycle. However, since there are insufficient funds to award financial assistance to every member of the network, organizations will receive no more than two awards per year as part of the competitive program. The two awards must be for projects that are clearly separate in their objectives, goals, and budget requests and must be successful in the competitive review process. The two projects should be completely independent (i.e., you will be able to carry out either proposal even if the other does not receive funding). Eligible researchers applying as Principal Investigators, but not independently authorized under MMPA Section 112(c), MMPA Section 109(h) (50 CFR 216.22), or the National Contingency Plan for Response to Marine Mammal Unusual Mortality Events, can only receive one award per year as part of the competitive cycle.

Authorized stranding network participants and researchers may be identified as Co-Investigators or collaborators on as many proposals as needed as long as no more than 100 percent of their time is funded through the Prescott Grant Program. In addition, Department of Commerce (DOC) and Department of Interior (DOI) employees may act as collaborators if they are responsible for performing analyses on data or samples collected under a Prescott award. See the section entitled Eligibility for information regarding the eligibility requirements.

There is no guarantee that sufficient funds will be available to make awards for all qualified projects. Publication of this notice does not oblige NOAA to award any specific project or to obligate any available funds. If an application for a financial assistance award is selected for funding, NOAA/NMFS has no obligation to provide any additional funding in connection with that award in subsequent years beyond the award period. If an applicant incurs any costs prior to receiving an award agreement signed by an authorized NOAA official, the applicant would do so solely at their own risk of these costs not being included under the award.

Notwithstanding any verbal or written assurance that applicants have received, pre-award costs are not allowed under the award unless the Grants Officer approves them in accordance with 15 CFR 14.28.

Statutory Authority: 16 U.S.C. 1421f-1

Catalog of Federal Domestic Assistance (CFDA) Number: 11.439, Marine Mammal Data Program.

Application Deadline: Applications must be received and validated by Grants.gov, postmarked, or provided to a delivery service on or before 11:59 p.m. EDT, October 5, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Submit your application electronically through Grants.gov at www.grants.gov. For those applicants without Internet access submit your applications to: Prescott Grant Program, NOAA/NMFS/Office of Protected Resources (F/PR), 1315 East-West Highway, Room 13620, Silver Spring, MD 20910.

Information Contacts: The point of contact is: Michelle Ordono, Prescott Grant Program, NOAA/NMFS/Office of Protected Resources (F/PR), 1315 East-West Highway, Room 13620, Silver Spring, MD 20910; Phone: (301) 713-2322; or e-mail at Michelle.Ordono@noaa.gov.

Eligibility: There are three categories of eligible stranding network participants that may apply for funds under the Prescott Grant Program: (1) Stranding Agreement (SA) holders or their designee organizations; (2) holders of researcher authorization letters issued by a NMFS Regional Administrator; and (3) eligible Federal, state, or local government personnel or tribal personnel.

All applicants must currently be: 1. Active as an authorized participant or researcher in the marine mammal stranding network; 2. “In good standing;” and 3. Not a current full or part-time employee or contractor of DOC or DOI. To be “in good standing,” you must meet all of the following criteria: 1. If the applicant is a designated Principal Investigator of an MMPA and/or Endangered Species Act (ESA) scientific research or enhancement permit holder, the applicant must have fulfilled all permit requirements including submission of all reports. The applicant must not have any pending or outstanding enforcement actions under the MMPA or ESA. 2. Have complied with the terms and responsibilities of the appropriate SA, MMPA Section 109(h) authorization, or researcher authorization letter. This includes, but is not limited to, the following reporting requirements: (a) Timely reporting of strandings to NMFS; (b) timely submission of complete reports on basic or Level A data to the Regional Coordinator (includes investigator's name, species, stranding location, number of animals, date and time of stranding and recovery, length and condition, and sex; marine mammal parts retention or transfer; annual reports); and (c) collecting information or samples as necessary and as requested. This also includes the following coordination/cooperation requirements: (a) Cooperation with state, local, and Federal officials; (b) cooperation with state and local officials in the disposition of stranded marine mammals; and (c) cooperation with other stranding network participants. 3. Have cooperated in a timely manner with NMFS in collecting and submitting Level B (supplementary information regarding sample collection related to life history and to the stranding event) and Level C (necropsy results) data and samples, when requested. 4. Have no current enforcement investigation for the take of marine mammals contrary to MMPA/ESA regulations. 5. Have no record of a pending NMFS notice of violation(s) regarding the policies governing the goals and operations of the Stranding Network and Stranding Agreement, if applicable (e.g., probation, suspension, or termination).

In addition to these general criteria, organizations and individuals must meet the following eligibility criteria specific to their category of participation: 1. SA Holder Participant or SA Designee Participant. SA participants must be holding a current (active) SA for stranding response (either live or dead animal response) or rehabilitation from a NMFS Regional Administrator or the Assistant Administrator. SA Designee participants must be holding a current (active) letter of designation from a NMFS SA holder, and designees cannot request authorization for activities beyond the scope of what is authorized by the SA to the letter holder. 2. Researcher Participant. Researcher participants must be holding a current (active) authorizing letter for the proposed award period from the NMFS Regional Administrator or the Assistant Administrator to salvage stranded marine mammal specimens and parts or samples therefrom for the purpose of utilization in scientific research (50 CFR 216.22). Persons authorized to salvage dead marine mammal specimens under this section must register the salvage with the appropriate NMFS Regional Office within 30 days after the taking occurs. Researchers who are authorized under an MMPA/ESA Scientific Research Permit must still obtain an authorizing letter from the Regional Stranding Coordinator in order to use parts or specimens from stranded animals. Researcher participants that would not require an authorizing letter from the NMFS Regional Administrator (i.e., they will be working with data only and not possessing samples or specimens) must still provide a letter of eligibility from the Regional Stranding Coordinator (see IV.B.8 in the Full Funding Opportunity). Researcher participants must also have designated Co-Investigator(s) that are active NMFS authorized stranding network participants in good standing, and provide documentation to this effect. 3. State, Local, Federal Government Employees or Tribal Participants, State and local government officials or employees participating pursuant to MMPA Section 109(h) (16 U.S.C. 1379(h)) for marine mammal species not listed under the ESA must fulfill reporting obligations outlined in 50 CFR 216.22. Government officials must be involved in areas of geographic need (i.e., municipality or larger region with no existing SA holder responder). Applicants must submit the required documentation in their proposal (see Section IV, Application and Submission Information in the Full Funding Opportunity) as evidence that they are an SA holder or designee participant, researcher participant, or a Federal, state, or local government employee, or tribal participant at the time of the submission and during the award period. All eligibility criteria specified for the participant's category must be met in order for a proposal to be considered for funding.

We support cultural and gender diversity in our programs and encourage eligible women and minority individuals and groups to submit proposals. Furthermore, we recognize the interest of the Secretaries of Commerce and Interior in defining appropriate marine management policies and programs that meet the needs of the U.S. insular areas. We encourage proposals from eligible individuals, government entities, universities, colleges, and businesses in U.S. insular areas as defined by the MMPA (Section 3(14), 16 U.S.C. 1362). This includes the Commonwealth of Puerto Rico, the U. S. Virgin Islands, American Samoa, Guam, and the Commonwealth of the Northern Mariana Islands. We are strongly committed to broadening the participation of Minority Serving Institutions (MSIs), which include Historically Black Colleges and Universities, Hispanic Serving Institutions, Tribal Colleges and Universities, and institutions that work in underserved areas in our programs. The DOC/NOAA/NMFS vision, mission, and goals are: To achieve full participation by MSIs; to advance the development of human potential; to strengthen the Nation's capacity to provide high-quality education; and to increase opportunities for MSIs to participate in, and benefit from, Federal financial assistance programs. The Prescott Grant Program encourages all eligible applicants to include meaningful participation of MSIs whenever practicable.

Applicants are not eligible to submit a proposal under this program if they are an employee of the DOC or DOI. NOAA/NMFS employees (whether full-time, part-time, or intermittent) are not allowed to help in the preparation of proposals, except for providing information on data or sample analyses as an identified collaborator/Co-Investigator in the proposal. Since this is a competitive program, NOAA/NMFS employees cannot provide assistance in conceptualizing, developing, or structuring proposals, or write letters of support for any proposal. However, for activities that involve collaboration with current NOAA programs that include, but are not limited to, the National Marine Mammal Tissue Bank (NMMTB) or laboratories conducting analysis of tissues for contaminants, employees of NOAA or the National Institute of Standards and Technology can write a letter verifying that they are collaborating with the project, or that the organization or individual applying is trained to participate in the NMMTB or is currently participating in the National Marine Analytical Quality Assurance Program. Proposals encompassing activities conducted under the authority of a MMPA Scientific Research Permit issued to a DOC or DOI organization (e.g., NMFS Regional Science Center) should include a copy of the permit and a letter from the Principal Investigator (DOC/DOI employee) verifying that the work is being conducted with their approval. Federal employee travel costs or salaries are not allowable costs under this program. MMHSRP staff (at the Regional and National level) are available to provide information regarding statistics on strandings; MMHSRP programmatic goals and objectives; ongoing marine mammal programs; and regional funding priorities for the current and previous Prescott solicitations. MMHSRP staff and other Federal Program Officers can provide guidance on application procedures and proper completion of required forms.

Unsatisfactory performance under prior or current Federal awards, including delinquency in submitting progress and financial reports, may result in proposals not being considered for funding under the 2010 Prescott Grant Program.

Cost Sharing Requirements: All proposals submitted must provide a minimum non-Federal cost share of 25 percent of the total budget (i.e., .25 × total project costs = total non-Federal share). Therefore, the total Federal share will be 75 percent or less of the total budget. For a proposed total Federal share of $100,000, the minimum non-Federal share is $33,334 (total budget of $133,334; .25 × $133, 334 = $33,334). For a proposed total Federal share of $80,000, the minimum non-Federal share is $26,667 (total budget of $106,667; .25 × $106,667 = $80,000). Cost share must be an integer, so please round up. The applicant can include a non-Federal cost share for more than 25 percent of the total budget, but this obligation will be binding. In order to reduce calculation error when determining the correct cost share amounts, we urge all applicants to use the cost share calculator on the Prescott Program webpage (http://www.nmfs.noaa.gov/pr/health/prescott/proposals/costshare.htm).

Legislation under which the Prescott Grant Program operates requires this cost sharing, or non-Federal match, to leverage the limited funds available for this program and to encourage partnerships among government, private organizations, non-profit organizations, the stranding network, and academia to address the needs of marine mammal health and stranding response. If a proposal does not comply with these cost share requirements, the proposal will not be returned to the applicant and it will not be considered in this annual funding cycle. Pursuant to 48 U.S.C. 1469a, match may be waived for applicants that are residents in the U.S. insular areas (Commonwealth of the Northern Mariana Islands, Guam, American Samoa, and the U. S. Virgin Islands).

The Federal Program Officer will determine the appropriateness of all non-Federal cost sharing proposals, including the valuation of in-kind contributions, according to the regulations in 15 CFR 14.23 and 24.24. An in-kind contribution is a non-cash contribution, donated or loaned, by a third party to the applicant.

In general, the value of in-kind services or property used to fulfill a non-Federal cost share will be the fair market value of the services or property. The fair market value is the cost of obtaining such services or property, had they not been donated, or of obtaining such services or property for the period of a loan. The applicant must document the in-kind services or property used to fulfill the non-Federal cost share. If we decide to fund a proposal, we will require strict accounting of the in-kind contributions within the total non-Federal cost share included in the award document. The Grants Officer is the DOC official responsible for all business management and administrative aspects of a grant and with delegated authority to award, amend, administer, close out, suspend, and/or terminate awards. The Grants Officer is the final approving authority for the award, including the budget and any cost-sharing proposals.

Intergovernmental Review: Applications submitted under this program are subject to the provisions of Executive Order (EO) 12372, “Intergovernmental Review of Federal Programs.” Any applicant submitting an application for funding is required to complete item 16 on SF-424 regarding clearance by the State Single Point of Contact (SPOC) established as a result of EO 12372. For information on a State's process under EO 12372, the SPOC's are listed in the Office of Management and Budget's home page at: http://www.whitehouse.gov/omb/grants/spoc.html.

15. Protected Species Cooperative Conservation

Summary Description: States play an essential role in the conservation and recovery of endangered and threatened species. Protected species under the National Marine Fisheries Service's (NMFS) jurisdiction may spend all or a part of their life-cycles in state waters, and success in conserving these species will depend in large part on working cooperatively with state agencies. The NMFS is authorized to provide Federal assistance to eligible States to support the development of conservation programs for marine and anadromous species that reside within that State. This assistance, provided in the form of grants through the Protected Species Cooperative Conservation program, can be used to support conservation of endangered, threatened, and candidate or proposed species, as well as post-delisting monitoring of recovered species. Funded activities may include development and implementation of management plans, scientific research, and public education and outreach; proposals should address priority actions identified in an ESA Recovery Plan, a State's ESA Section 6 Program, or a State Wildlife Action Plan. Any State agency that has entered into or applied for an agreement with the NMFS pursuant to section 6(c) of the ESA is eligible to apply under this solicitation. Proposals focusing on listed Pacific salmon will not be considered for funding under this grant program; such projects can be considered under a NMFS Pacific salmon grant program. This document describes how to submit proposals for funding in fiscal year (FY) 2010 and how the NMFS will determine which proposals will be funded; this document should be read in its entirety, as some information has changed from the previous year.

Funding Availability: NOAA anticipates that up to $12 million may be available for distribution under the FY 2010 PSCC program; awards are expected to range between $500,000 and $2,000,000 in federal funding per year. Applications requesting less than $200,000 in federal funding per year may receive lower priority. The exact amount of funds that may be awarded will be determined during pre-award negotiations between the applicant and NOAA representatives. Funds have not yet been appropriated for this program, and there is no guarantee that sufficient funds will be available to make awards for all qualified projects. Publication of this notice does not oblige NOAA to award any specific grant proposal or to obligate any available funds. NOAA will consider funding more than one project under a single application. Applicants that bundle projects into a single application should ensure that there is sufficient detail for each project as per the guidelines and information requirements listed in this document if an application is to be competitive. Bundled projects should address the same or related species (e.g. shortnose and Atlantic sturgeon) or species that share similar habitats to allow for appropriate review of the proposal. There is no limit on the number of applications that can be submitted by the same Principal Investigator, agency, or State. Multiple applications submitted by the same applicant must, however, clearly identify distinct projects. If an application for a financial assistance award is selected for funding, NOAA has no obligation to provide any additional funding in connection with that award in subsequent years. Notwithstanding verbal or written assurance that may have been received, pre-award costs are not allowed under the award unless approved by the Grants Officer.

Statutory Authority: 16 U.S.C. 661 et seq.; 16 U.S.C. 1535.

Catalog of Federal Domestic Assistance (CFDA) Number: 11.472, Unallied Science Program.

Application Deadline: Applications must be received and validated by Grants.gov, postmarked, or provided to a delivery service on or before 11:59 p.m. EDT, October 5, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Applications should be submitted electronically through the Grants.gov Web site at http://www.grants.gov. NOAA strongly recommends that applicants do not wait until the application deadline to begin the application process through Grants.gov. To use Grants.gov, applicants must have a DUNS number and register in the Central Contractor Registry (CCR). Applicants should allow at least 5 business days to complete the CCR registration; registration is only required once. Also, it may take Grants.gov up to two business days to validate or reject an application. Please keep this in mind when developing your submission timeline. Following submission of applications through Grants.gov, applicants should receive two automated responses from Grants.gov: One confirms receipt of the application; the other confirms that the application has been forwarded to NOAA. If both confirmation messages from Grants.gov are not received, applicants should contact both the Grants.gov Helpdesk and the NMFS Office of Protected Resources to confirm the application has been transmitted and received by NOAA. For applicants lacking Internet access, hard copies may be submitted (by postal mail or commercial delivery) to the NMFS Office of Protected Resources, Attn: Lisa Manning, 1315 East-West Highway, SSMC3, Silver Spring, MD 20910. Applications submitted by U.S. Postal Service must have an official postmark; private metered postmarks are not acceptable. Use of a delivery service other than U.S. mail must be documented with a receipt. Paper applications should be printed on one side only, on 8.5 inch x 11 inch paper, and not be bound in any manner. A signed (in ink) SF 424 must be included. No facsimile or electronic mail applications will be accepted.

Information Contacts: If you have any questions regarding this proposal solicitation, please contact Lisa Manning at the NOAA/NMFS/Office of Protected Resources, Endangered Species Division, 1315 East-West Highway, Silver Spring, MD 20910, by phone at 301-713-1401, or by e-mail at Lisa.Manning@noaa.gov. You may also contact one of the following people in your region for further guidance: Amanda Johnson, Northeast Regional Office Amanda.Johnson@noaa.gov, 978-282-8463); Karla Reece, Southeast Regional Office Karla.Reece@noaa.gov, 727-824-5348); Scott Rumsey, Northwest Regional Office Scott.Rumsey@noaa.gov, 503-872-2791); Scott Hill, Southwest Regional Office Scott.Hill@noaa.gov, 562-908-872-5348); Kaja Brix, Alaska Regional Office Kaja.Brix@noaa.gov, 907-586-7824); Krista Graham, Pacific Islands Regional Office, Krista.Graham@noaa.gov, 808-944-2238).

Eligibility: Eligible applicants are state agencies that have entered into an agreement with NMFS pursuant to section 6(c) of the ESA. The terms “state” and “state agency” are used as defined in section 3 of the ESA (16 U.S.C. 1532). Currently eligible state agencies are from the following states: Delaware, Florida, Georgia, Hawaii, Maine, Maryland, Massachusetts, New Jersey, New York, North Carolina, Puerto Rico, South Carolina, the U.S. Virgin Islands, and Washington. Any state agency that enters into a section 6(c) agreement with NMFS within 60 days following the grant application deadline is also eligible to apply. State agencies may apply for funding to conduct work on federally listed species that are included in their ESA section 6 agreement and any species that has become a candidate or a proposed species by the grant application deadline. State agencies may not apply for funding to conduct work on federally listed species that are not covered in their ESA section 6 agreement unless said species is added to the agreement within 60 days following the grant application deadline. Federal agencies or institutions are not eligible to receive Federal assistance under this notice. In addition, NOAA and NMFS employees shall not provide assistance in writing applications, write letters of support for any application, or otherwise confer any unfair advantage on a particular application. However, for activities involving collaboration with current NMFS programs, NMFS employees can write a letter verifying that they are collaborating with the project.

Cost Sharing Requirements: In accordance with section 6(d) of the ESA, proposals must include a minimum non-Federal cost share of 25 percent of the total budget if the proposal involves a single state. If a proposal involves collaboration of two or more states, the minimum non-Federal cost share decreases to 10 percent of the total project budget. The project proposal and budget should reflect the work and responsibilities to be carried out by each of the cooperating states. The non-Federal cost share should be identified in the project budget (and on the SF-424A) and may include in-kind contributions according to the regulations at 15 CFR part 24. Match requirements of section 6(d) of the ESA do not apply to insular areas covered by the Omnibus Insular Areas Act of 1977 (48 U.S.C. 1469a) including Guam, American Samoa, Northern Mariana Islands, and the U.S. Virgin Islands.

Intergovernmental Review: Applications under this program are subject to Executive Order 12372, “Intergovernmental Review of Federal Programs.”

National Ocean Service (NOS)

1. 2010 NOAA Coral Reef Management Grant Program

Summary Description: The NOAA Coral Reef Management Grant Program, as authorized under the Coral Reef Conservation Act of 2000, provides matching grants to the Governor appointed point of contact agencies for the jurisdictions of Puerto Rico, the U.S. Virgin Islands (USVI), Florida, Hawaii, Guam, the Commonwealth of the Northern Mariana Islands (CNMI), and American Samoa for State and Territory Coral Reef Management activities. The objective of the NOAA Coral Reef Management Grant program is to support comprehensive management programs for the conservation of coral reef ecosystems in these jurisdictions.

Funding Availability: Funding up to $2,700,000 is expected to be available from NOAA/CRCP for cooperative agreements to support priority coral reef management activities that address areas 1-10 in the Federal Funding Opportunity. There is no appropriation of funds at this time and the final funding amount will be subject to the availability of federal appropriations. Support in out-years following FY 2010 is likewise contingent upon the availability of future funding and the requirements of the Federal agency supporting the project. Each eligible jurisdiction can apply for a maximum of $600,000. A minimum of 50% of the final award amount must be dedicated to the implementation and support of the Local Action Strategy initiative and/or the outcomes of the state and territory coral reef management priority setting processes. In certain instances, when requested by the applicant, NOAA may hold back a portion of any awarded funds in order to provide specific coral reef conservation technical assistance in the form of contractual or other services. This will only be allowed where such priority technical assistance and/or the lack of sufficient means to deliver it are unavailable at the local level. Such requests proposed herein will be reviewed on a case by case basis with respect to the specific management objectives of this and the local coral reef program. If all funds that become available after Congressional appropriation are not awarded, NOAA will consult with the eligible applicants on the use of any residual funds. NOAA will work with each jurisdiction to ensure the greatest degree of success in meeting local, state, territorial and national coral reef management needs.

Statutory Authority: Authority for the NOAA Coral Reef Conservation Grant Program is provided by Section 6403 (Coral Reef Conservation Program) of the Coral Reef Conservation Act of 2000 (16 U.S.C. 6401 et seq.).

Catalog of Federal Domestic Assistance (CFDA) Number: 11.419, Coastal Zone Management Administration Awards.

Application Deadline: Pre-applications must be received no later than 5 p.m. EST on Monday, November 30, 2009. A pre-application must be submitted for review in order to submit a full application. Final applications must be received and validated by Grants.gov, postmarked, or provided to a delivery service on or before 5 p.m. ET, March 12, 2010. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: If Internet access is not available, submissions by surface mail should be sent to Jenny Waddell, 1305 East West Highway, 10th Floor, N/ORM, Silver Spring, MD 20910, or telephone 301-713-3155 extension 150. Final applications must be submitted electronically to: www.grants.gov, the Federal grants portal. If Internet access is unavailable, hard copies can be submitted to Jenny Waddell, 1305 East West Highway, 10th Floor, N/ORM, Silver Spring, MD 20910, or telephone 301-713-3155 extension 150.

Information Contacts: Technical point of contact for State and Territory Coral Reef Management is Jenny Waddell, 1305 East West Highway, 10th Floor, N/ORM, Silver Spring, MD 20910, or telephone 301-713-3155 extension 150.

Eligibility: Eligible applicants are the governor-appointed point of contact agencies for coral reef activities in each of the jurisdictions of American Samoa, Florida, the Commonwealth of the Northern Mariana Islands, Guam, Hawaii, Puerto Rico, and the U.S. Virgin Islands.

Cost Sharing Requirements: As per section 6403(b)(1) of the Coral Reef Conservation Act of 2000, Federal funds for any coral conservation project funded under this Program may not exceed 50 percent of the total cost of the projects. Therefore, any coral conservation project under this program requires a 1:1 match. Match can come from a variety of public and private sources and can include in-kind goods and services such as private boat use and volunteer labor. Federal sources cannot be considered for matching funds, but can be described in the budget narrative to demonstrate additional leverage. Applicants are permitted to combine contributions from multiple non-federal partners in order to meet the 1:1 match requirement, as long as such contributions are not being used to match any other funds.

Applicants must specify in their proposal the source(s) of match and may be asked to provide letters of commitment to confirm stated match contributions. Applicants whose proposals are selected for funding will be bound by the percentage of cost sharing reflected in the award document signed by the NOAA Grants Officer. Applicants should be prepared to carefully document matching contributions for each project selected to be funded. As per section 6403(b)(2) of the Coral Reef Conservation Act of 2000, the NOAA Administrator may waive all or part of the matching requirement if the Administrator determines that the project meets the following two requirements: 1. No reasonable means are available through which an applicant can meet the matching requirement, and, 2. The probable benefit of such project outweighs the public interest in such matching requirement. In the case of a waiver request, the applicant must provide a detailed justification explaining the need for the waiver including attempts to obtain sources of matching funds, how the benefit of the project outweighs the public interest in providing match, and any other extenuating circumstances preventing the availability of match. Match waiver requests including the appropriate justification should be submitted as part of the final application package. Notwithstanding any other provisions herein, and in accordance with 48 U.S.C. 1469a(d), the Program shall waive any requirement for local matching funds for any project under $200,000 (including in-kind contribution) to the governments of Insular Areas, defined as the jurisdictions of the U.S. Virgin Islands, Guam, American Samoa, and the Commonwealth of the Northern Mariana Islands. Please Note: eligible applicants choosing to apply 48 U.S.C. 1469a(d)should note the use of the waiver and the total amount of funds requested to be waived in the matching funds section of the respective application.

Intergovernmental Review: Applications under this program are not subject to Executive Order 12372, Intergovernmental Review of Federal Programs.

2. 2010 NOAA Coral Reef Monitoring Grant Program

Summary Description: The NOAA Coral Reef Monitoring Grant Program, as authorized under the Coral Reef Conservation Act of 2000, provides matching grants to Governor appointed point of contact agencies for the jurisdictions of Puerto Rico, the U.S. Virgin Islands (USVI), Florida, Hawaii, American Samoa, Guam, the Commonwealth of the Northern Mariana Islands (CNMI), the Republic of Palau, the Federated States of Micronesia (including Chuuk, Yap, Kosrae, and Pohnpei), and the Republic of the Marshall Islands to support State and Territory Coral Reef Monitoring activities in these jurisdictions.

Funding Availability: NCCOS may provide approximately $1,100,000 in funding for FY 2010 to support coral reef ecosystem monitoring activities under this program. FY 2010 awards to Puerto Rico, Florida, U.S. Virgin Islands, Hawaii, American Samoa, Guam, and the Commonwealth of the Northern Mariana Islands are expected to range from $50,000 to $130,000. FY 2010 awards to the Federated States of Micronesia (FSM—including Chuuk, Yap, Kosrae, and Pohnpei), Republic of Palau, and the Republic of the Marshall Islands (RMI) are expected to be approximately $30,000 per year. Funding will be subject to the availability of federal appropriations. FY 2010 grant seekers may submit proposals up to three years in duration, at funding levels specified above (i.e., up to $90,000 for three year proposals for Palau, FSM, and RMI, and up to $390,000 for three year proposals for all other eligible applicants). In certain instances, when requested by the applicant and agreed upon by NOAA, NOAA may hold back a portion of any awarded funds in order to provide specific technical assistance in the form of contractual or other services. This will only be allowed where such priority technical assistance and/or the lack of sufficient means to deliver it are unavailable at the local level. Such requests proposed herein will be reviewed on a case by case basis with respect to the specific management objectives of this and the local coral reef program. If all available funds are not awarded, NOAA will consult with the eligible applicants on the use of any residual funds. NOAA will work with each jurisdiction to ensure the greatest degree of success in meeting local, state, territorial, and national coral reef monitoring needs in support of coral reef management objectives.

Statutory Authority: Authority for the NOAA Coral Reef Monitoring Grant Program is provided by Section 6403 (Coral Reef Conservation Program) of the Coral Reef Conservation Act of 2000 (16 U.S.C. 6401 et seq.).

Catalog of Federal Domestic Assistance (CFDA) Number: 11.426, Financial Assistance for National Centers for Central Coastal Ocean Science.

Application Deadline: Pre-applications must be received no later than 5 p.m. EST on Friday, November 20, 2009. A pre-application must be submitted for review in order to submit a full application. Final applications must be received and validated by Grants.gov, postmarked, or provided to a delivery service on or before 5 p.m. EST, February 19, 2010. Please note: Validation or rejection of your application by Grants.gov may take up to 2 business days after submission. Please consider this process in developing your submission timeline. Applications received after the deadline will be rejected/returned to the sender without further consideration.

Address for Submitting Proposals: Pre-applications must be sent to coral.grants@noaa.gov or to Jenny Waddell, NOAA National Ocean Service, 1305 East-West Highway, SSMC4, N/ORM, Silver Spring, MD 20910. All invited final applications should be submitted via www.grants.gov the Federal grants portal. If the applicant does not have Internet access, the applicant may submit by surface mail, one original and two signed copies of the Federal financial assistance forms along with the final application. Applicants should consider the delivery time when submitting their applications from international or remote areas. Use of U.S. mail or another delivery service must be documented with a receipt. No facsimile or electronic mail applications will be accepted.

Information Contacts: The technical point of contact for State and Territory Coral Reef Monitoring is Jenny Waddell. She can be reached at 301-713-3155 extension 150 or by e-mail at jenny.waddell@noaa.gov.

Eligibility: Eligible applicants are limited to a natural resource management agency in each U.S. State or Territory, or an appropriate non-governmental agency in the case of the Freely Associated States, with jurisdiction over and an ability to monitor the condition of coral reefs, as designated by the respective governors or other applicable senior jurisdictional official. Applicants from the Freely Associated States must also provide a letter of support from their respective officially-designated coral reef point of contact to ensure that the proposed activities are coordinated with other ongoing coral reef conservation efforts.

NOAA is requesting proposals from Puerto Rico, Florida, U.S. Virgin Islands, Hawaii, American Samoa, Guam, the Commonwealth of the Northern Mariana Islands, the Federated States of Micronesia, the Republic of Palau, and the Republic of the Marshall Islands.

Federal agencies are not eligible for funding under this Program. Furthermore, to be eligible for FY 2010 funding, applicants previously receiving funds under this program must have made significant progress implementing those tasks and met data submission deadlines, including all performance and fiscal reporting requirements and data transfers.

Cost Sharing Requirements: As per section 6403(b)(1) of the Coral Reef Conservation Act of 2000, Federal funds for any coral conservation project funded under this Program may not exceed 50 percent of the total cost of the projects. Therefore, any coral conservation project under this program requires a 1:1 match. Federal funds from NOAA or other Federal agencies may not be considered as matching funds. Matching funds must be from non-Federal sources and can include in-kind contributions and other non-cash support.

NOAA strongly encourages applicants to leverage as much investment as possible. As per section 6403(b)(2) of the Coral Reef Conservation Act of 2000, the NOAA Administrator may waive all or part of the matching requirement if the Administrator determines that the project meets the following two requirements: 1. No reasonable means are available through which an applicant can meet the matching requirement, and, 2. The probable benefit of such project outweighs the public interest in such matching requirement. Applicants must specify in their proposal the source and may be asked to provide letters of commitment to confirm stated match contributions. In the case of a waiver request, the applicant must provide a detailed justification explaining the need for the waiver including attempts to obtain sources of matching funds, how the benefit of the project outweighs the public interest in providing match, and any other extenuating circumstances preventing the availability of match. Notwithstanding any other provisions herein, and in accordance with 48 U.S.C. 1469a(d), the Program shall waive any requirement for local matching funds for any project under $200,000 (including in-kind contribution) to the governments of Insular Areas, defined as the jurisdictions of the U.S. Virgin Islands, Guam, American Samoa, and the Commonwealth of the Northern Mariana Islands. Please Note: eligible applicants choosing to apply 48 U.S.C. 1469a(d) should note the use and amount in the matching funds section of the respective application.

Intergovernmental Review: Applications under this program are not subject to Executive Order 12372, Intergovernmental Review of Federal Programs.

3. Coastal Hypoxia Research Program (CHRP)

Summary Description: The purpose of this document is to advise the public that NOAA is soliciting proposals for projects of 2 to 5 years in duration that advance understanding, prediction, and management of the causes and ecological and economic impacts of hypoxia in representative coastal ecosystems. Funding is contingent upon the availability of Fiscal Year 2010 Federal appropriations. It is anticipated that final recommendations for funding under this announcement will be made by early Calendar Year 2010, and that projects funded under this announcement will have an August 1, 2010 start date.

Background Information about the needs and priorities for research related to hypoxia in U.S. coastal waters is available in: 1. An Assessment of Coastal Hypoxia and Eutrophication in U.S. Waters (2003), Committee on Environment and Natural Resources. (Report prepared pursuant to Harmful Algal Bloom and Hypoxia Research and Control Act): http://www.nccos.noaa.gov/publications/hypoxia.pdf; 2. A Scientific Assessment of Hypoxia in US Coastal Waters (2009) (updated version of An Assessment of Coastal Hypoxia and Eutrophication in U.S. Waters), available soon at either http://www.cop.noaa.gov/stressors/extremeevents/hab/habhrca/Report_Plans.html or http://ocean.ceq.gov/about/sup_jsost_iwgs.html; 3. Effects of Nutrient Enrichment in the Nation's Estuaries: A Decade of Change (2007): http://ccma.nos.noaa.gov/publications/eutroupdate/. 4. Priority Topics for Nutrient Pollution in Coastal Waters: An Integrated National Research Program for the United States (2003), Howarth et al. NOAA/NCCOS, in cooperation with the National Science Foundation, United States Department of Agriculture and United States Geological Survey: http://www.nccos.noaa.gov/documents/nutrientpollution.pdf; 5. Gulf of Mexico Alliance (GOMA) documents http://www.gulfofmexicoalliance.org/; and 6. CSCOR's CHRP Web site describing past and current projects and program priorities: http://www.cop.noaa.gov/stressors/pollution/current/chrp.html.

Funding Availability: Funding is contingent upon availability of Federal appropriations. NOAA is committed to continual improvement of the grants process and accelerating the award of financial assistance to qualified recipients in accordance with the recommendations of the Business Process Reengineering Team. In order to fulfill these responsibilities, this solicitation announces that award amounts will not exceed $350,000 per project per year with project durations from 2 to 5 years (except for the Gulf of Mexico projects which, given the timetable outlined in the GOMA framework described in the Governors' Action Plan (http://www.gulfofmexicoalliance.org/), should be completed in no more than 4 years). It is anticipated that 4 to 8 total projects will be funded, including 1 to 2 projects submitted under the Gulf of Mexico Regional Subcomponent and 3 to 6 projects from other regions. Proposals for the Gulf of Mexico Regional Subcomponent will be evaluated separately from other regions. Support in out years after FY 2010 is contingent upon the availability of funds. Applicants are hereby given notice that funds have not yet been appropriated for this program. In no event will NOAA or the Department of Commerce be responsible for proposal preparation costs if this program fails to receive funding or is cancelled because of other agency priorities. There is no guarantee that sufficient funds will be available to make awards for all qualified projects. Publication of this notice does not oblige NOAA to award any specific project or to obligate any available funds. If one incurs any costs prior to receiving an award agreement signed by an authorized NOAA official, one would do so solely at ones own risk of these costs not being included under the award. Recipients and subrecipients are subject to all Federal laws and agency policies, regulations and procedures applicable to Federal financial assistance awards.

Statutory Authority: 33 U.S.C. 1442 and Public Law 105-383 title VI, Nov. 13, 1998, 112 Stat. 3447.

Catalog of Federal Domestic Assistance (CFDA) Number: 11.478, Center for Sponsored Coastal Ocean Research—Coastal Ocean Program.

Application Deadline: Applications must be received and validated by Grants.gov, postmarked, or provided to a delivery service on or before 3 p.m. ET, October 14, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Applications must be submitted through www.grants.gov, unless an applicant does not have Internet access. In that case, hard copies with original signatures may be sent to: Laura J. Golden, 1305 East West Hwy., Routing Code: N/SCI2, Building: SSMC4, Silver Spring, MD 20910-3278.

Information Contacts: Technical Information: Libby Jewett Program Manager, 301-713-3338 ext 121, Internet: Libby.Jewett@noaa.gov. Business Management Information: Laurie Golden, NCCOS/CSCOR Grants Administrator, 301-713-3338/ext 151, Internet: Laurie.Golden@noaa.gov.

Eligibility: Eligible applicants are institutions of higher education, other non-profits, state, local, Indian Tribal Governments, commercial organizations and Federal agencies that possess the statutory authority to receive financial assistance. Please note that: (1) NCCOS/CSCOR will not fund any Federal Full Time Employee (FTE) salaries, but will fund travel, equipment, supplies, and contractual personnel costs associated with the proposed work. (2) Researchers must be employees of an eligible entity listed above; and proposals must be submitted through that entity. Non-Federal researchers should comply with their institutional requirements for proposal submission. (3) Non-NOAA Federal applicants will be required to submit certifications or documentation showing that they have specific legal authority to receive funds from the Department of Commerce (DOC) for this research. (4) NCCOS/CSCOR will accept proposals that include foreign researchers as collaborators with a researcher who has met the above stated eligibility requirements. (5) Non-Federal researchers affiliated with NOAA-University Cooperative/Joint Institutes should comply with joint institutional requirements; they will be funded through grants either to their institutions or to joint institutes.

Cost Sharing Requirements: None Required.

Intergovernmental Review: Applications under this program are not subject to Executive Order 12372, Intergovernmental Review of Federal Programs.

4. FY 2010 Bay Watershed Education and Training (B-WET) Hawaii Program

Summary Description: This federal funding opportunity meets NOAA's mission goals to: (1) Protect, restore and manage the use of coastal and ocean resources through ecosystems-based management, and (2) understand climate variability and change to enhance society's ability to plan and respond. The purpose for this financial assistance will support NOAA's goal by developing a well-informed citizenry involved in decision-making that positively impacts our coastal, marine and watershed ecosystems in the State of Hawaii.

This opportunity is a competitively-based grant that provides funding to assist in the development of new programs, encourage innovative partnerships among environmental education programs and support geographically targeted programs to advance environmental education efforts that complement national and state school requirements. The B-WET Hawaii Program is an environmental education program that promotes locally relevant, experiential learning in the K-12 environment on priority topics, such understanding climate change, earth sciences and community resilience to hazards. Funded projects provide meaningful watershed educational experiences for students, related professional development for teachers, and support regional education and environmental priorities.

Funding Availability: This solicitation announces that approximately $1,000,000 may be available in FY 2010 in award amounts to be determined by the proposals and available funds. The NOAA Pacific Services Center anticipates that approximately 5 to 15 grants will be awarded with these funds, pending availability of funds. Applicants are hereby given notice that funds have not yet been appropriated for this program. It is anticipated that typical project awards for NOAA Mission Goals 1 and 2 will range from approximately $10,000 to $100,000. Applications requesting Federal support from NOAA of more than $100,000 total will not be considered for review or funding. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government.

Notwithstanding verbal or written assurance that may have been received, there is no obligation on the part of NOAA to cover pre-award costs unless approved by the Grants Officer as part of the terms when the award is made.

Statutory Authority: 15 U.S.C. 1540; 33 U.S.C. 892a(a).

Catalog of Federal Domestic Assistance (CFDA) Number: 11.473, Coastal Services Center.

Application Deadline: Applications must be received and validated by Grants.gov, postmarked, or provided to a delivery service on or before 5:59 p.m. Hawaii Time, August 31, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Applications must be submitted through www.grants.gov, unless an applicant does not have Internet access. In that case, application packages may be hand delivered or sent to: NOAA Pacific Services Center, 737 Bishop Street, Suite 1550, Honolulu, Hawaii 96813, ATTN: Stephanie Bennett. The postmark will be used to determine the timeliness of the proposal. Applicants submitting hard copy applications must submit one (1) hard copy of the entire application package, a CD copy of the package, including all forms with original signatures. No e-mail or fax copies will be accepted. Proposals received after the deadline will not be accepted.

Information Contacts: For administrative and technical questions, contact Stephanie Bennett, Federal Program Officer at NOAA Pacific Services Center, 737 Bishop Street, Suite 1550, Honolulu, Hawaii 96813 or by phone at (808) 522-7481, or via e-mail at Stephanie.Bennett@noaa.gov.

Eligibility: Eligible applicants are K-12 public and independent schools and school systems, institutions of higher education, commercial and nonprofit organizations, state or local government agencies, and Indian tribal governments. Individual applicants and Federal agencies are not eligible. Federal agencies are not allowed to receive funds under this announcement but may serve as collaborative project partners. The Department of Commerce/National Oceanic and Atmospheric Administration (DOC/NOAA) is strongly committed to broadening the participation of historically Black Colleges and Universities, Hispanic-serving institutions, Tribal colleges and universities, Alaskan Native and Native Hawaiian institutions, and institutions that service undeserved areas.

Cost Sharing Requirements: No cost sharing is required under this program, however, the NOAA Pacific Services Center strongly encourages applicants to share as much of the costs of the award as possible. Funds from other Federal sources may not be considered matching funds. The nature of the contribution (cash versus in-kind) and the amount of matching funds will be taken into consideration in the review process with cash being the preferred method of contribution.

Intergovernmental Review: Funding applications under the Center are subject to Executive Order 12372, Intergovernmental Review of Federal Programs. It is the state agency's responsibility to contact their state's Single Point of Contact (SPCO) to find out about and comply with the state's process under EO 12372. To assist the applicant, the names and addresses of the SPOCs are listed on the Office of Management and Budget's Web site http://www.whitehouse.gov/omb/grants/spoc.html.

5. FY 2010 California Bay Watershed Education and Training Program

Summary Description: The California B-WET grant program is a competitively based program that supports existing environmental education programs, fosters the growth of new programs, and encourages the development of partnerships among environmental education programs throughout the San Francisco Bay, Monterey Bay, and Santa Barbara Channel watersheds. Projects support organizations that provide students “meaningful” watershed educational experiences and teachers professional development opportunities in the area of environmental education.

Funding Availability: This solicitation announces that approximately $2,000,000 may be available in FY 2010 in award amounts to be determined by the proposals and available funds. About $850,000 will be made available to the San Francisco Bay area, about $700,000 will be made available to the Monterey Bay area, and about $450,000 will be made available to the Santa Barbara area. The NOAA Office of National Marine Sanctuaries anticipates that approximately 35 grants will be awarded with these funds. The California B-WET Program should not be considered a long-term source of funds; applicants must demonstrate how ongoing programs, once initiated, will be sustained. The NOAA Office of National Marine Sanctuaries anticipates that typical project awards for Meaningful Watershed Experiences and Professional Development in the Area of Environmental Education for Teachers will range from $30,000 to $60,000. Proposals will be considered for funds greater than the specified ranges if there is sufficient demonstration that the project requires additional funds and/or if the proposal includes multiple partners. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: Under 33 U.S.C 893a(a), the Administrator of the National Oceanic and Atmospheric Administration is authorized to conduct, develop, support, promote, and coordinate formal and informal educational activities at all levels to enhance public awareness and understanding of ocean, coastal, Great Lakes, and atmospheric science and stewardship by the general public and other coastal stakeholders, including underrepresented groups in ocean and atmospheric science and policy careers. In conducting those activities, the Administrator shall build upon the educational programs and activities of the agency.

Catalog of Federal Domestic Assistance (CFDA) Number: 11.429, Marine Sanctuary Program.

Application Deadline: Applications must be received and validated by Grants.gov, postmarked, or provided to a delivery service on or before 5 p.m. PDT, October 8, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Applications must be received and validated by Grants.gov. For applicants without Internet service applications should be sent to: Seaberry Nachbar, Monterey Bay National Marine Sanctuary office; 299 Foam Street, Monterey, CA 93940.

Information Contacts: Please visit the National Marine Sanctuaries CA B-WET Web site at: http://sanctuaries.noaa.gov/news/bwet/welcome.html or contact Seaberry Nachbar, Monterey Bay National Marine Sanctuary office; 299 Foam Street, Monterey, CA 93940, or by phone at 831-647-4201, or fax to 831-647-4250, or via Internet at seaberry.nachbar@noaa.gov.

Eligibility: Eligible applicants are K-through-12 public and independent schools and school systems, institutions of higher education, nonprofit organizations, state or local government agencies, and Indian tribal governments. The Department of Commerce/National Oceanic and Atmospheric Administration (DOC/NOAA) is strongly committed to broadening the participation of historically black colleges and universities, Hispanic Serving institutions, tribal colleges and universities, and institutions that service undeserved areas.

The NOAA Office of National Marine Sanctuaries encourages proposals involving any of the above institutions.

Cost Sharing Requirements: No cost sharing is required under this program; however, the NOAA Office of National Marine Sanctuaries strongly encourages applicants applying for either area of interest to share as much of the costs of the award as possible.

Funds from other Federal awards may not be considered matching funds. The nature of the contribution (cash versus in-kind) and the amount of matching funds will be taken into consideration in the review process with cash being the preferred method of contribution.

Intergovernmental Review: Applications under this program are not subject to Executive Order 12372, Intergovernmental Review of Federal Programs.

6. Harmful Algal Blooms Program

Summary Description: The purpose of this document is to advise the public that NOAA is soliciting proposals for the interagency Ecology and Oceanography of Harmful Algal Blooms Program (ECOHAB), the NOAA Monitoring and Event Response for Harmful Algal Blooms Program (MERHAB), and the NOAA Prevention, Control, and Mitigation of Harmful Algal Blooms Program (PCMHAB).

ECOHAB Objectives

ECOHAB aims to develop quantitative understanding of HABs and, where applicable, their toxins in relation to the surrounding environment with the intent of providing new information and tools, predictive models and forecasts, and prevention strategies and to develop models of trophic transfer of toxins, knowledge of biosynthesis and metabolism of toxins, and assessment of impacts of toxins on higher trophic levels. Information in these areas, in turn, supports a critical goal of the ECOHAB program, the development of reliable models to forecast bloom development, persistence, toxicity, and impacts. Research results will be used directly to guide management of coastal resources to reduce HAB development, impacts, and future threats and will feed into other HAB programs for development of tools to improve HAB management and response.

MERHAB Objectives

The principal objective of MERHAB is to build capacity of local, state, and tribal governments, and the private sector, for less costly and more precise and comprehensive monitoring of HAB cells and toxins, and for responding to HAB events. With these advances, State programs will be better able to take preventative actions (e.g. increase monitoring efforts, close shellfish beds, warn affected communities) to safeguard the public health, local economies, and fisheries. Further advancements will assist the wildlife health communities respond to HAB-related mortalities. As a result of the MERHAB Program, managers will be able to mitigate the expanding HAB problems in their coastal regions and be better positioned, especially during difficult state fiscal climates, to request long-term support from local, state, regional or Federal funding sources.

PCMHAB Objectives

The PCM HAB program will transition promising technologies and strategies for preventing, controlling, or mitigating HABs and their impacts from development through demonstration and technology transfer for field application by end-users. The technologies will arise from HAB research conducted by the two existing national HAB programs, ECOHAB and MERHAB, or other research programs which conduct some HAB research. The purpose is to develop new tools to improve HAB management and response.

Funding Availability: Funding is contingent upon availability of Federal appropriations. NOAA is committed to continual improvement of the grants process and accelerating the award of financial assistance to qualified recipients in accordance with the recommendations of the Business Process Reengineering Team. In order to fulfill these responsibilities, this solicitation announces that award amounts will be determined by the proposals and available funds. The following program-specific guidelines for budget requests are provided. (1) ECOHAB Targeted: $100,000-$250,000/yr not including ship time (2) MERHAB Targeted: $100,000-$250,000/yr not including ship time (3) ECOHAB Regional: $1,000,000/yr, not including ship time (4) MERHAB Regional: $600,000/yr, not including ship time (5) PCM HAB: $100,000-$600,000/yr, not including ship time. Budget requests that exceed the guidelines will need to be specifically justified. Project periods may be modified after review due to the availability of Federal appropriations. It is anticipated that 1-3 regional-scale ECOHAB or MERHAB projects and 4-15 targeted ECOHAB, targeted MERHAB or PCM HAB projects will be funded. Applicants are hereby given notice that funds have not yet been appropriated for this program. In no event will NOAA or the Department of Commerce be responsible for proposal preparation costs if this program fails to receive funding or is cancelled because of other agency priorities. There is no guarantee that sufficient funds will be available to make awards for all qualified projects.

Publication of this notice does not oblige NOAA to award any specific project or to obligate any available funds. If one incurs any costs prior to receiving an award agreement signed by an authorized NOAA official, one would do so solely at ones own risk of these costs not being included under the award. Publication of this notice does not obligate any agency to any specific award or to obligate any part of the entire amount of funds available. Project periods may be modified after review due to the availability of federal appropriations.

Recipients and subrecipients are subject to all Federal laws and agency policies, regulations and procedures applicable to Federal financial assistance awards.

Statutory Authority: ECOHAB: 16 U.S.C. 1456C; 33 U.S.C. 883d; 33 U.S.C. 1442; 15 U.S.C. 1540; Pub. L. 105-383, as amended by Pub. L. 108-456. MERHAB HAB: 16 U.S.C. 1456C; 33 U.S.C. 883d; 33 U.S.C. 1442; 15 U.S.C. 1540; Pub. L. 105-383, as amended by Pub. L. 108-456. PCM HAB: 16 U.S.C. 1456C; 33 U.S.C. 883d; 33 U.S.C. 1442; 15 U.S.C. 1540; Pub. L. 105-383, as amended by Pub. L. 108-456.

Catalog of Federal Domestic Assistance (CFDA) Number: 11.478, Center for Sponsored Coastal Ocean Research—Coastal Ocean Program.

Application Deadline: Applications must be received and validated by Grants.gov on or before 3 p.m. ET on October 14, 2009. Please note: Validation or rejection of your application by Grants.gov may take up to 2 business days after submission. Please consider this process in developing your submission timeline. Letters of Intent (LOI) for all Competitions, although not required, should be received by 5 p.m. Eastern Time, August 17, 2009.

Address for Submitting Proposals: LOIs should be submitted by e-mail to the identified NOAA Program Manager listed in the Agency Contact section. If an applicant does not have Internet access, LOI hard copies may be sent to the Program Managers. Hard copies LOIs should be sent to NOAA Center for Sponsored Coastal Ocean Research, 1305 East-West Highway, SSMC4, Mail Station 8218, 8th floor, Silver Spring, MD 20910 or faxed to 301-713-04044. Please allow two weeks after receipt for a response.

Applications must be received and validated by Grants.gov. For applicants without Internet service applications should be sent to: NOAA Center for Sponsored Coastal Ocean Research, 1305 East-West Highway, SSMC4, Mail Station 8218, 8th floor, Silver Spring, MD 20910.

Information Contacts: Technical Information—ECOHAB: Quay Dortch, ECOHAB Coordinator, 301/713-3338 ext 157, Quay.Dortch@noaa.gov. MERHAB: Marc Suddleson, MERHAB Program Manager, 301/713-3338 ext 162, Marc.Suddleson@noaa.gov. PCM: Quay Dortch, Acting PCM Program Manager, 301/713-3338 ext 157, Quay.Dortch@noaa.gov. Business Management Information: Laurie Golden, NCCOS/CSCOR Grants Administrator, 301-713-3338/ext 151, Internet: Laurie.Golden@noaa.gov.

Eligibility: Eligible applicants are institutions of higher education, other non-profits, state, local, Indian Tribal Governments, commercial organizations, and Federal agencies that possess the statutory authority to receive financial assistance. Please note that: (1) NCCOS/CSCOR will not fund any Federal Full Time Employee (FTE) salaries, but will fund travel, equipment, supplies, and contractual personnel costs associated with the proposed work. (2) Researchers must be employees of an eligible entity listed above; and proposals must be submitted through that entity. Non-Federal researchers should comply with their institutional requirements for proposal submission. (3) Non-NOAA Federal applicants will be required to submit certifications or documentation showing that they have specific legal authority to receive funds from the Department of Commerce (DOC) for this research. (4) NCCOS/CSCOR will accept proposals that include foreign researchers as collaborators with a researcher who has met the above stated eligibility requirements. (5) Non-Federal researchers affiliated with NOAA-University Cooperative/Joint Institutes should comply with joint institutional requirements; they will be funded through grants either to their institutions or to joint institutes.

Cost Sharing Requirements: None required.

Intergovernmental Review: Applications under this program are not subject to Executive Order 12372, Intergovernmental Review of Federal Programs.

7. NOAA International Coral Reef Grant Program

Summary Description: The NOAA Coral Reef Conservation Grant Program, as authorized under the Coral Reef Conservation Act of 2000, provides matching grants of financial assistance for international coral reef conservation projects. The Program solicits proposals under three funding categories: (1) Support Planning for Effective Marine Protected Area Management; (2) Encourage the Development of National Networks of Marine Protected Areas in the Wider Caribbean, Bermuda, Brazil, Southeast Asia, and the South Pacific; and (3) Promote Regional Socio-Economic Training and Monitoring in Coral Reef Management in the Wider Caribbean, Brazil, Bermuda, the Western Indian Ocean, the Red Sea, the South Pacific, South Asia, and Southeast Asia. Each funding category has specific applicant and project eligibility criteria.

Funding Availability: NOAA announces the availability of up to $1,000,000 in FY 2010 to support grants and cooperative agreements under the NOAA International Coral Reef Grant Program. These funds will be used to support financial assistance awards under the program categories listed in section I.B. Program Priorities and III.C. Other Criteria that Affect Eligibility (found in the Full Funding Opportunity announcement). Applicants that are invited to submit a final application may be requested to revise award objectives, work plans, or budgets prior to submittal of the final application.

The amount of funds to be awarded and the final scope of activities will be determined in pre-award negotiations among the applicant, NOAA Grants Management Division (GMD) and relevant NOAA staff. Up to approximately $1,000,000 may be available in FY 2010 to support grants and cooperative agreements under this program. Approximately $75,000-$100,000 may be allocated to each of the four project categories listed below, with the following award ranges: 1. Planning for Effective Marine Protected Area Management: Single sites: up to $50,000; Multiple sites: up to $80,000 2. MPA National Networks: $40,000-$50,000 3. Regional Socio-Economic Monitoring projects: $20,000-$40,000 Pre- and final applications with requests over the limit of each category will NOT be accepted.

Pre-applications and final applications must be submitted under only one of the above mentioned categories. Funding will be subject to the availability of federal appropriations. Applicants should never begin a project in expectation of funds under this program. The International Program Office reserves the right to transfer any given proposal to another category within the International program if the proposal better addresses the criteria of another category.

Statutory Authority: Authority for the NOAA Coral Reef Conservation Grant Program is provided by Section 6403 (Coral Reef Conservation Program) of the Coral Reef Conservation Act of 2000 (16 U.S.C. 6401 et seq.).

Catalog of Federal Domestic Assistance (CFDA) Number: 11.463, Habitat Conservation.

Application Deadline: Pre-applications must be received by NOAA by 5 p.m., ET, on Monday, November 9, 2009. Final applications must be received and validated by Grants.gov, postmarked, or provided to a delivery service on or before 5 p.m. ET, February 17, 2010. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Pre-applications may be submitted by surface mail or e-mail by 5 p.m., ET, November 9, 2009. Submissions by e-mail are preferred to coral.grants@noaa.gov. Acceptable electronic formats for narratives, attachments, and images are limited to Adobe Acrobat (.PDF), or Microsoft Word files. If submitting by surface mail, please include an electronic copy of the pre-application on CD. Federal financial assistance forms are not required to be submitted with the pre-application. If surface mail is selected, paper pre-applications must be submitted to: Scot Frew, NOAA/NOS International Program Office, 1315 East West Highway, 5th Floor, N/IP, Room 5735, Silver Spring, MD 20910. Fax submittals will also be accepted for pre-applications only (Fax: 301-713-4263). Please note that late pre-applications cannot be considered under any circumstances including e-mail transmission malfunctions. Electronic files of pre-applications must arrive without viruses. If attachments cannot be opened due to a virus or they arrive with a virus, the pre-applications will be disqualified. You may call us at 301-713-3078 x218 before the deadline to ensure that your pre-application arrived.

Final applications will be accepted only from those applicants who are invited to submit a final application. Applicants may be required to make modifications or revisions to the project and budget narratives and must submit these narratives with a Federal financial assistance award application package (federal forms described below). Only applicants who submitted pre-applications by the deadline will be eligible to be considered for invitations to submit a final application by 5 p.m., ET, on February 17, 2010. The applicant may submit the final application (narratives, federal forms, and supporting documentation) in one of two ways: Applications must be submitted through www.grants.gov, unless an applicant does not have Internet access. In that case, hard copies with original signatures and scanned copies on a CD may be sent to: Scot Frew, NOAA/NOS International Program Office, 1315 East West Highway, 5th Floor, N/IP, Room 5735, Silver Spring, MD 20910. Applicants should consider the delivery time when submitting their pre- and final applications from international or remote areas. Late applications by any method cannot be accepted under any circumstances.

Information Contacts: Technical point of contact for International Coral Reef Conservation is Scot Frew, NOAA/NOS International Program Office, 301-713-3078, extension 220 or e-mail at scot.frew@noaa.gov.

Eligibility: Eligible applicants include institutions of higher education, U.S. and international non-profit organizations, and commercial organizations. U.S. federal agencies and individuals are not eligible. For specific country eligibility per category, please refer to individual category descriptions in Section V of the Federal Funding Opportunity. The proposed work must be conducted at a non-U.S. site. Eligible countries are defined as follows: The Wider Caribbean includes the 37 States and territories that border the marine environment of the Gulf of Mexico, the Caribbean Sea, and the areas of the Atlantic Ocean adjacent thereto, and Brazil and Bermuda, but excluding areas under U.S. jurisdiction. The South Pacific Region includes South Pacific Regional Environment Program's Pacific island countries and territories, including the Federated States of Micronesia, Republic of Palau, and the Republic of the Marshall Islands, but excluding U.S. territories and four developed country members and their territories or protectorates. South Asia includes India, Sri Lanka, the Maldives, Pakistan, and Bangladesh. Southeast Asia Region includes Brunei, Cambodia, Indonesia, Laos, Malaysia, Philippines, Singapore, Thailand, Timor-Leste, and Vietnam. The Western Indian Ocean Region includes Comoros, France (La Reunion), Kenya, Madagascar, Mauritius, Mozambique, Seychelles, the United Republic of Tanzania, and South Africa.

The Red Sea Region includes five member countries of the Regional Organization for the Conservation of the Environment of the Red Sea and Gulf of Aden (PERSGA): Djibouti, Egypt, Jordan, the Kingdom of Saudi Arabia, and Yemen.

Cost Sharing Requirements: The NOAA International Coral Reef Grant Program is subject to the matching fund requirements described below. As per section 6403(b)(1) of the Coral Reef Conservation Act of 2000, Federal funds for any coral conservation project funded under this Program may not exceed 50 percent of the total cost of the projects. Therefore, any coral conservation project under this program requires a 1:1 match. Match can come from a variety of public and private sources and can include in-kind goods and services such as private boat use and volunteer labor. Federal sources cannot be considered for matching funds, but can be described in the budget narrative to demonstrate additional leverage. Applicants are permitted to combine contributions from multiple non-federal partners in order to meet the 1:1 match recommendation, as long as such contributions are not being used to match any other funds.

Applicants must specify in their proposal the source(s) of match and may be asked to provide letters of commitment to confirm stated match contributions. Applicants whose proposals are selected for funding will be bound by the percentage of cost sharing reflected in the award document signed by the NOAA Grants Officer. Applicants should be prepared to carefully document matching contributions for each project selected to be funded. As per section 6403(b)(2) of the Coral Reef Conservation Act of 2000, the NOAA Administrator may waive all or part of the matching requirement if the Administrator determines that the project meets the following two requirements: 1. No reasonable means are available through which an applicant can meet the matching requirement, and, 2. The probable benefit of such project outweighs the public interest in such matching requirement. In the case of a waiver request, the applicant must provide a detailed justification explaining the need for the waiver including attempts to obtain sources of matching funds, how the benefit of the project outweighs the public interest in providing match, and any other extenuating circumstances preventing the availability of match. Match waiver requests including the appropriate justification should be submitted as part of the final application package. Notwithstanding any other provisions herein, and in accordance with 48 U.S.C. 1469a(d), the Program shall waive any requirement for local matching funds for any project under $200,000 including in-kind contribution to the governments of Insular Areas, defined as the jurisdictions of the U.S. Virgin Islands, Guam, American Samoa, and the Commonwealth of the Northern Mariana Islands. Please Note: eligible applicants choosing to apply 48 U.S.C. 1469a(d) should note the use of the waiver and the total amount of funds requested to be waived in the matching funds section of the respective pre- and final applications.

Intergovernmental Review: Applications under the NOAA International Coral Reef Grant program are not subject to Executive Order 12372, Intergovernmental Review of Federal Programs.

8. NOAA Pacific Northwest Bay Watershed Education and Training (B-WET) Program

Summary Description: NOAA B-WET is an environmental education program that promotes locally relevant, experiential learning in the K-12 environment. Funded projects provide meaningful watershed educational experiences for students, related professional development for teachers, and helps to support regional education and environmental priorities in the Pacific Northwest.

Funding Availability: It is anticipated that approximately $700,000 will be available in FY2010 for all Pacific Northwest projects, including projects awarded in 2008 and 2009, which were multi-year awards. NOAA anticipates making approximately five new awards during FY 2010. NOAA will consider only projects with a duration of one year. The total Federal amount that may be requested from NOAA shall not exceed $60,000 per year. The minimum Federal amount that must be requested from NOAA for all years is $25,000. Applications requesting Federal support from NOAA of less than $25,000 total or more than $60,000 per year will not be considered for funding. Proposals may be considered eligible for renewal beyond the first project period. However, funds will be made available for only a 12-month award period and any renewal of the award period will depend on submission of a successful proposal subject to panel reviews, adequate progress on previous award(s), and available funding to renew the award. No assurance for funding renewal exists; funding will be at the complete discretion of NOAA. Projects that plan on renewal must include in their first-year submission a full description of the activities and budget for the first year as described in this announcement, and a summary description of the proposed work and estimated budget for each subsequent year. If selected for funding, the applicant will be required to submit a full proposal each subsequent year by the deadline announced in the following competitive cycle. In addition to the requirements for new proposals, renewed projects should include the accomplishments to date on the previous year's grant in their subsequent grant submissions. No proposal will be considered for renewal more than two times. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government.

Notwithstanding verbal or written assurance that may have been received, there is no obligation on the part of NOAA to cover pre-award costs unless approved by the Grants Officer as part of the terms when the award is made.

Statutory Authority: Under 33 U.S.C. 893 a(a), the Administrator of the National Oceanic and Atmospheric Administration is authorized to conduct, develop, support, promote, and coordinate formal and informal educational activities at all levels to enhance public awareness and understanding of ocean, coastal, Great Lakes, and atmospheric science and stewardship by the general public and other coastal stakeholders, including underrepresented groups in ocean and atmospheric science and policy careers. In conducting those activities, the Administrator shall build upon the educational programs and activities of the agency.

Catalog of Federal Domestic Assistance (CFDA) Number: 11.429, Marine Sanctuary Program.

Application Deadline: Applications must be received and validated by Grants.gov, postmarked, or provided to a delivery service on or before 5 p.m. PDT, October 8, 2009. Please note: Validation or rejection of your application by Grants.gov may take up to 2 business days after submission. Please consider this process in developing your submission timeline. Applications received after the deadline will be rejected/returned to the sender without further consideration. Use of U.S. mail or another delivery service must be documented with a receipt. No e-mail and/or facsimile pre-proposals and/or full applications will be accepted. Applications that are late or are received by fax or e-mail will not be considered for review. Applications submitted through Grants.gov will be accompanied by an automated receipt of the date and time of submission. Hard copy applications will be hand stamped with time and date when received in the Office of Education. (Note that late-arriving hard copy applications provided to a delivery service on or before 5 p.m., PDT, October 8, 2009 will be accepted for review if the applicant can document that the application was provided to the guaranteed delivery service by the specified closing date and time, and if the application is received before 5 p.m., PDT, no later than two business days following the closing date. Applicants are recommended to send hard copies via expedited shipping methods (e.g., Airborne Express, DHL, FedEx, UPS, etc.).

Address for Submitting Proposals: Applications must be received and validated by Grants.gov. For applicants without Internet access applications should be sent to Robert Steelquist, NOAA B-WET PNW Manager, 115 E. Railroad Ave., Suite 301, Port Angeles, WA, 98362.

Information Contacts: For the Pacific Northwest, please contact Robert Steelquist, NOAA B-WET PNW Manager, 115 E. Railroad Ave., Suite 301, Port Angeles, WA, 98362; 360/457-6622 ext.19 or by e-mail at: Robert.steelquist@noaa.gov.

Eligibility: Eligible applicants are K-12 public and independent schools and school systems, institutions of higher education, community-based and nonprofit organizations, state or local government agencies, interstate agencies, and Indian tribal governments. The Department of Commerce/National Oceanic and Atmospheric Administration (DOC/NOAA) is strongly committed to broadening the participation of historically black colleges and universities, Hispanic serving institutions, tribal colleges and universities, and institutions that service underserved areas.

While applicants do not need to be from the targeted geographical regions specified in the program objectives, they must be working with target audiences in these areas.

Cost Sharing Requirements: No cost sharing is required under this program, however, the NOAA B-WET Program strongly encourages applicants include a 25% or higher match. Funds from other Federal awards may not be considered matching funds. The nature of the contribution (cash vs. in-kind) and the amount of matching funds will be taken into consideration during the review process. Priority selection is given to proposals that propose cash rather than in-kind services.

Intergovernmental Review: Applications under this program are not subject to Executive Order 12372, “Intergovernmental Review of Federal Programs.”

9. National Estuarine Research Reserve Graduate Research Fellowship Program FY 2010

Summary Description: The National Estuarine Research Reserve System (NERRS) consists of estuarine areas of the United States and its territories which are designated and managed for research and educational purposes. Each reserve within the system is chosen to reflect regional differences and to include a variety of ecosystem types in accordance with the classification scheme of the national program as presented in 15 CFR Part 921. Each reserve supports a wide range of beneficial uses of ecological, economic, recreational, and aesthetic values which are dependent upon the maintenance of a healthy ecosystem. The sites provide habitats for a wide range of ecologically and commercially important species of fish, shellfish, birds, and other aquatic and terrestrial wildlife. Each reserve has been designed to ensure its effectiveness as a conservation unit and as a site for long-term research and monitoring. As part of a national system, the reserves collectively provide an excellent opportunity to address research questions and estuarine management issues of national significance. For detailed descriptions of the sites, refer to the NERR Web site at http://www.nerrs.noaa.gov.

Funding Availability: The National Estuarine Research Reserve System of NOAA announces the availability of Graduate Research Fellowships. Based on funds available, the Estuarine Reserves Division anticipates that up to 22 Graduate Research Fellowships will be competitively awarded to provide funding to qualified graduate students whose research occurs within the boundaries of at least one National Estuarine Research Reserve. Minority students are encouraged to apply. The amount of the fellowship is $20,000; at least 30% of total project cost match is required by the student's institution. To illustrate, the total project cost for a one year Graduate Research Fellowship is $28,572. Twenty-thousand of this amount is supplied by the federal government with a minimum 30% non-federal match in the amount of $8,572 supplied by the student's eligible institution for a total 1 year project cost of $28,572.

Statutory Authority: Section 315 of the Coastal Zone Management Act of 1972, as amended CZMA, 16 U.S.C. 1461, establishes the National Estuarine Research Reserve System (NERRS). Section 1461 (e)(1)(B) authorizes the Secretary of Commerce to make grants to any coastal state or public or private person for purposes of supporting research and monitoring within a National Estuarine Research Reserve that are consistent with the research guidelines developed under subsection (c).

Catalog of Federal Domestic Assistance (CFDA) Number: 11.420, Coastal Zone Management Estuarine Research Reserves.

Application Deadline: Applications must be received and validated by Grants.gov, postmarked, or provided to a delivery service on or before 11 p.m. ET, November 2, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Applications submitted in response to this announcement are strongly encouraged to be submitted through the www.grants.gov Web site no later than November 2, 2009 at 11 p.m. ET. Electronic access to the full funding announcement for this program is available via the www.grants.gov Web site. The announcement will also be available by contacting Alison Krepp with the Estuarine Reserves Division at Alison.Krepp@noaa.gov or 301-713-3155 x 105. Applicants who do not have Internet access may submit a paper application (one signed original and two copies) to the Estuarine Reserves Division at the following address, postmarked by November 2, 2009: Attn: Alison Krepp, NOAA/Estuarine Reserves Division, 1305 East West Highway, Room 10503, Silver Spring, Maryland 20910.

Information Contacts: For questions regarding the program and application process, please contact Alison Krepp (301-713-3155 ext. 105) at NOAA/Estuarine Reserves Division, 1305 East-West Highway, N/ORM5, SSMC4, Station 10503, Silver Spring, MD 20910 or via e-mail at Alison.Krepp@noaa.gov, or fax at 301-713-4012. The program Web site can be accessed at http://www.nerrs.noaa.gov/fellowship. If the Web page does not provide sufficient information and Alison Krepp is unavailable, please contact Erica Seiden at (301) 713-3155 ext. 172 or Erica.Seiden@noaa.gov.

Eligibility: Awards are normally made to the fellow's graduate institution through the use of a grant. Therefore, students must work with their institution's authorized representatives to complete the following required standard federal forms: SF 424, CD-511, and SF 424B. Institutions eligible to receive awards include institutions of higher education, other non-profits, state and local governments. All reserve staff are ineligible to submit an application for a fellowship under this announcement. Funds are expected to be available on a competitive basis to qualified graduate students for research within a reserve(s) leading to a graduate degree. Students must be admitted to or enrolled in a full-time master's or doctoral program at a U.S. accredited university in order to be eligible to apply. Students should have completed a majority of their graduate course work at the beginning of their fellowship and have an approved thesis research program. Minority students are encouraged to apply.

Cost Sharing Requirements: Requested federal funds must be matched by at least 30 percent of the TOTAL cost, not the federal share, of the project. To illustrate, the total project cost for a one year Graduate Research Fellowship is $28,572. Twenty-thousand of this funding is supplied by the federal government with a minimum 30% non-federal match for the total project cost ($28,572) in the amount of $8,572 is supplied by the student's eligible applicant institution. Requested overhead costs under fellowship awards are limited to 10% of the federal amount and institutional fees that do not qualify as direct costs under fellowship awards are limited to 10% of the federal amount as well. Waived overhead costs may be used as match.

Intergovernmental Review: Applications under this program are subject to Executive Order 12372, “Intergovernmental Review of Federal Programs.” Applicants should contact their State Single Point of Contact (SPOC) to find out about and comply with the State's process under EO12372. The names and addresses of the SPOCs are listed in the Office of Management and Budget's Web site at http://www.whitehouse.gov/omb/grants/spoc.html.

10. National Estuarine Research Reserve System (NERRS) Land Acquisition and Construction Program FY 2010

Summary Description: The National Estuarine Research Reserve System consists of estuarine areas of the United States and its territories which are designated and managed for research and educational purposes. Each reserve within the system is chosen to represent different bio-geographic regions and to include a variety of ecosystem types in accordance with the classification scheme of the national program as presented in 15 CFR Part 921.

Through the funding of designated reserve agencies and universities to undertake land acquisition and construction projects that support the NERRS purpose, NOAA will strengthen protection of key land and water areas; enhance long-term protection of the area for research and education; and provide for facility and exhibit construction and enhancement.

Funding Availability: This funding opportunity announces that approximately $3.89 million may be available to designated reserve agencies or universities only through this announcement for fiscal year 2010. Awards will be issued as competitive grants. It is anticipated that the awards generally will run for up to two years. In the past, funding for land acquisition/construction awards has ranged in amount from approximately $50,000 to $3 million.

Statutory Authority: Authority for the NERR program is provided by 16 U.S.C. 1461(e)(1)(A)(i), (ii), and (iii).

Catalog of Federal Domestic Assistance (CFDA) Number: 11.420, Coastal Zone Management Estuarine Research Reserves.

Application Deadline: Applications must be received and validated by Grants.gov, postmarked, or provided to a delivery service on or before 11:59 p.m. ET, November 30, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Applications submitted in response to this announcement are strongly encouraged to be submitted through the www.grants.gov Web site no later than November 30, 2009 at 11:59 ET. Electronic access to the full funding announcement for this program is available via the www.grants.gov Web site. The announcement will also be available by contacting Nina Garfield with the Estuarine Reserves Division at nina.garfield@noaa.gov or 301-713-3155 x 171. Applicants who do not have Internet access may submit a paper application (one signed original and two copies) to the Estuarine Reserves Division at the following address postmarked by November 2, 2009: Attn: Nina Garfield, NOAA/Estuarine Reserves Division, 1305 East West Highway, Room 10503, Silver Spring, Maryland 20910.

Information Contacts: Administrative and Technical questions regarding the program and application process, please contact Nina Garfield, program coordinator, at NOAA/Estuarine Reserves Division, 1305 East-West Highway, N/ORM5, SSMC4, Station 10500, Silver Spring, MD 20910 or via phone: 301-713-3155 ext. 171, e-mail: nina.garfield@noaa.gov, or fax: 301-713-4012. The program Web site can be accessed at http://coastalmanagement.noaa.gov/programs/nerr.html. Other questions should be directed to Nina Garfield at 301-713-3155, extension 171, nina.garfield@noaa.gov or Laurie McGilvray at (301) 713-3155 ext. 158, laurie.mcgilvray@noaa.gov.

Eligibility: Eligible applicants are National Estuarine Research Reserve lead state agencies or universities in coastal states. Eligible applicants should have completed all requirements as stated in the NERRS regulations at Title 15, Part 921 of the Code of Federal Regulations (15 CFR part 921) http://nerrs.noaa.gov/Background_Regulations.html.

Cost Sharing Requirements: The amount of federal funds requested must be matched by the applicant: 30 percent of total project cost for construction awards and 50 percent of total project cost for land acquisition awards. Cash or in-kind contributions directly benefiting the project may be used to satisfy the matching requirements. If using Reserve land acquisition banked match, a list of the banked match must be included with the application. Applicants must identify all match sources and amounts equal to that requested above.

Intergovernmental Review: Applications under this program are subject to Executive Order 12372, “Intergovernmental Review of Federal Programs.” Applicants should contact their State Single Point of Contact (SPOC) to find out about and comply with the States process under EO12372. The names and addresses of the SPOCs are listed in the Office of Management and Budget's Web site at http://www.whitehouse.gov/omb/grants/spoc.html.

11. Sea Level Rise (SLR)

Summary Description: The purpose of this document is to advise the public that NOAA is soliciting research proposals for projects of 3 to 5 years in duration for development of modeling and mapping tools to better understand and predict the impacts of sea level rise on coastal ecosystems, including ecologically and economically valuable natural resources, to support proactive coastal management and mitigation decisions. The area of interest includes the coastal ecosystems in the northern Gulf of Mexico, ranging from the eastern boundary of the Apalachicola National Estuarine Research Reserve to the western extent of the Mississippi coast. Projects should be interdisciplinary, multiple investigator, and well integrated studies designed to develop capabilities for understanding, predicting, and mitigating the effects of long term sea level rise. Funding is contingent upon the availability of Fiscal Year 2010 Federal appropriations. It is anticipated that final recommendations for funding under this announcement will be made in early calendar year 2010, and that projects funded under this announcement will have a July 2010, start date. Electronic Access: Background information about NOAA's efforts in the Ecological Effects of Sea Level Rise Program can be found at http://www.cop.noaa.gov/stressors/climatechange/welcome.html.

Funding Availability: Funding is contingent upon availability of Federal appropriations. NOAA is committed to continual improvement of the grants process and accelerating the award of financial assistance to qualified recipients in accordance with the recommendations of the Business Process Reengineering Team. In order to fulfill these responsibilities, this solicitation announces that award amounts will be determined by the proposals and available funds. Award amount will not exceed $1 million per project per year with project durations of three to five years; total project funding will not exceed $3 million.

It is anticipated that 1 award will be funded through this solicitation. Applicants are hereby given notice that funds have not yet been appropriated for this program. In no event will NOAA or the Department of Commerce be responsible for proposal preparation costs if this program fails to receive funding or is cancelled because of other agency priorities. There is no guarantee that sufficient funds will be available to make awards for all qualified projects.

Publication of this notice does not oblige NOAA to award any specific project or to obligate any available funds. If one incurs any costs prior to receiving an award agreement signed by an authorized NOAA official, one would do so solely at one's own risk of these costs not being included under the award. Publication of this notice does not obligate any agency to any specific award or to obligate any part of the entire amount of funds available. Recipients and subrecipients are subject to all Federal laws and agency policies, regulations and procedures applicable to Federal financial assistance awards.

Statutory Authority: 16 U.S.C. 1456c.

Catalog of Federal Domestic Assistance (CFDA) Number: 11.478, Center for Sponsored Coastal Ocean Research—Coastal Ocean Program.

Application Deadline: Applications must be received and validated by Grants.gov, postmarked, or provided to a delivery service on or before 3 p.m. ET, October 14, 2009. Please note: validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Applications must be submitted through www.grants.gov, unless an applicant does not have Internet access. In that case, hard copies with original signatures may be sent to: Laura J. Golden, 1305 East-West Hwy., Routing Code: N/SCI2, Building: SSMC4, Silver Spring, MD 20910-3278.

Information Contacts: Technical Information: Carol Auer, Program Manager, 301-713-3338/ext 164, Internet: Carol.Auer@noaa.gov. Business Management Information: Laurie Golden, NCCOS/CSCOR Grants Administrator, 301-713-3338/ext 151, Internet: Laurie.Golden@noaa.gov.

Eligibility: Eligible applicants are institutions of higher education, other non-profits, state, local, Indian Tribal Governments, commercial organizations and Federal agencies that possess the statutory authority to receive financial assistance. Please note that: (1) NOAA will not fund any Federal Full Time Employee (FTE) salaries, but will fund travel, equipment, supplies, and contractual personnel costs associated with the proposed work. (2) Researchers must be employees of an eligible entity listed above; and proposals must be submitted through that entity. Non-Federal researchers should comply with their institutional requirements for proposal submission. (3) Non-NOAA Federal applicants will be required to submit certifications or documentation showing that they have specific legal authority to receive funds from the Department of Commerce (DOC) for this research. (4) NOAA will accept proposals that include foreign researchers as collaborators with a researcher who has met the above stated eligibility requirements. (5) Non-Federal researchers affiliated with NOAA-University Cooperative/Joint Institutes should comply with joint institutional requirements; they will be funded through grants either to their institution or to joint institutes.

Cost Sharing Requirements: The applicant is responsible for identifying a funding source for the annual Managers' Workshops to support 100% of the costs after Year 1.

Intergovernmental Review: Applications under this program are not subject to Executive Order 12372, “Intergovernmental Review of Federal Programs.”

12. 2010 Integrated Ocean Observing System Implementation

Summary Description: The Integrated Ocean Observing System (IOOS) is working to link national and regional observations, data management, and modeling to provide required data and information on local to global scales. IOOS Regional Coastal Ocean Observing Systems (RCOOS) complement the observing systems managed directly by federal agencies to meet national priorities. With the guidance of Regional Associations to understand regional priorities, RCOOS provide the data, information, and products needed to address estuarine and coastal issues of importance to the nation's ocean and coastal regions and the Great Lakes. NOAA views this announcement as an opportunity to enhance the regional coastal component of IOOS. In addition, NOAA views the testing and development of sensor technologies to study and monitor coastal and ocean environments as essential to a sustained and operational IOOS. Thus, this announcement includes two focus areas for proposals: (1) Regional Coastal Ocean Observing Systems by Geography and (2) Verification and validation of sensors for coastal and ocean observing systems. The program priorities for this funding opportunity support NOAA's mission goals to: Serve society's needs for weather and water information; Protect, restore, and manage the use of coastal and ocean resources through an ecosystem approach to management; Understand climate variability and change to enhance society's ability to plan and respond; and Support the Nation's commerce with information for safe, efficient, and environmentally sound transportation. For focus area one, NOAA seeks proposals for one-year cooperative agreements to continue the implementation and development of the regional component of IOOS within the following regions of the United States: Northeast (Maine to Rhode Island), Mid-Atlantic (Cape Cod to Cape Hatteras), Southern California (Point Conception to the Mexico border), Pacific Northwest (Washington, Oregon, and northern California), and Pacific Islands (Hawaii).

Proposed projects must build upon the progress already made by IOOS Regional Associations. It is expected that these efforts will result in a regional system that is optimized to provide data and products that meet regional needs and national IOOS specifications, and that are available in forms and at rates designed to meet the needs of regional decision makers. To accomplish that task, the regional systems will integrate existing observing system components, and construct products and data management processes to deliver data and information to the regional stakeholders for the benefit of the region. Proposals should demonstrate the approach and benefits of integration and implementation at the scale of the Regional Association (not sub-regional) and should address the following: (a) Regional deployment, operation and maintenance of sensors and platforms to address needs for data and information that have been clearly articulated by the IOOS Regional Associations as representative of their stakeholders. (b) Regional participation in developing a standards-based data integration framework (DIF) for data streams, quality assurance procedures, and data delivery. (c) Generation of regional or appropriately-scaled products, including data and model output, and improved interoperability of these outputs based on emerging standards and protocols, to facilitate the development of value-added, targeted products for identified users. For focus area two, NOAA seeks proposals that will provide information useful for selecting the most appropriate sensor technologies to study and monitor ocean and coastal environments, and to test, validate, and verify such technologies. NOAA anticipates making six (6) total awards in response to this announcement, five (5) awards in focus area one and one (1) award in focus area two.

Funding Availability: Total anticipated funding for all awards is subject to the availability of appropriations. The anticipated federal funding per award (min-max) is approximately $500,000 to $3,000,000 per year. The anticipated number of awards ranges from five (5) to six (6), approximately, and will be adjusted based on available funding.

Statutory Authority: Statutory authority for this program is provided under Coastal Zone Management Act, 16 U.S.C. 1456c (Technical Assistance); 33 U.S.C. 883d; and 33 U.S.C. 1442 (Research program investigating possible long-range effects of pollution, overfishing, and anthropogenically-induced changes of ocean ecosystems).

Catalog of Federal Domestic Assistance (CFDA) Number: 11.473, Coastal Services Center.

Application Deadline: Applications must be received and validated by Grants.gov, postmarked, or provided to a delivery service on or before 5 p.m. EDT, October 30, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: All proposal package materials, including any letters of support, must be submitted through Grants.gov. Applicants without Internet access may submit proposals by surface mail to Gabrielle Canonico, NOAA IOOS, 1100 Wayne Avenue, Suite 1225, Silver Spring, Maryland 20910. No e-mail or fax copies will be accepted. Please be advised that potential funding applicants must register with Grants.gov before any application materials can be submitted. An organization's one-time registration process may take up to three weeks to complete, so please allow sufficient time to ensure applications are submitted before the closing date. The Grants.gov site contains directions for submitting an application, the application package (forms), and is also where the completed application is submitted. Applicants using Grants.gov must locate the downloadable application package for this solicitation by the Funding Opportunity Number or the CFDA number (11.473). Applicants will be able to download a copy of the application package, complete it off line, and then upload and submit the application via the Grants.gov site. Grants.gov will provide information about submitting a proposal through the site as well as the hours of operation. After electronic submission of the application, the person submitting the application will receive within the next 24 to 48 hours two e-mail messages from Grants.gov updating them on the progress of their application. The first e-mail will confirm receipt of the application by the Grants.gov system, and the second will indicate that the application has either been successfully validated by the system prior to transmission to the grantor agency or has been rejected due to errors. After the application has been validated, this same person will receive another e-mail when the application has been downloaded by the federal agency. To use Grants.gov, applicants must have a Dun and Bradstreet Data Universal Numbering System (DUNS) number and be registered in the Central Contractor Registry (CCR). Allow a minimum of five days to complete the CCR registration. (Note: Your organization's Employer Identification Number (EIN) will be needed on the application form.)

Information Contacts: For questions regarding this announcement, contact: Gabrielle Canonico, NOAA IOOS; 1100 Wayne Avenue, Suite 1225, Silver Spring, Maryland 20910; or by phone at 301-427-2428, fax at 301-427-2073, or e-mail at Gabrielle.Canonico@noaa.gov.

Eligibility: Eligible applicants are institutions of higher education, non-profit and for-profit organizations, and state, local and Indian tribal governments. Federal agencies or institutions and foreign governments may not be the primary recipient of awards under this announcement, but are encouraged to partner with applicants when appropriate. If requesting funds under this award, federal partners must identify the relevant statutory authorities that will allow for the receipt of funds. If a federal partner is a NOAA office, the funds will be transferred internally. If the Federal partner is an agency other than NOAA, they must demonstrate that they have legal authority to accept funds in excess of their appropriation. Because they would be receiving funds from a non-Federal source, the Economy Act (31 U.S.C 1535) would not be an appropriate authority.

Cost Sharing Requirements: There is no requirement for cost sharing. NOAA appreciates that IOOS Regional Associations are seeking additional support (in-kind or cash) to support development of regional observing systems under the umbrella of IOOS. While a cost share of funding is not required, applicants are encouraged to provide a description of complementary funding and in-kind contributions from project partners.

Intergovernmental Review: Applications under the Center are subject to Executive Order 12372, “Intergovernmental Review of Federal Programs.” It is the state agency's responsibility to contact their state's Single Point of Contact (SPOC) to find out about and comply with the state's process under EO 12372. To assist the applicant, the names and addresses of the SPOCs are listed on the Office of Management and Budget's Web site http://www.whitehouse.gov/omb/grants/spoc.html.

13. NOAA's National Height Modernization Program

Summary Description: NOAA's National Height Modernization Program did not receive Congressional Appropriations to fund Fiscal Year 2009 grants applications. NOAA's Geodetic Survey office will be holding all proposals received in response to the Fiscal Year 2009 solicitation and use those applications for Fiscal Year 2010 funding. Funding of these applications are still contingent on the availability of funds in Fiscal Year 2010. For administrative questions please contact Sonita Tiwari, NOAA NOS, SSMC3; 1315 East-West Highway, Silver Spring MD, 20910, Phone 301-713-3231X115 or E-mail sonita.tiwari@noaa.gov.

National Weather Service (NWS)

1. Collaborative Science, Technology, and Applied Research (CSTAR) Program

Summary Description: The CSTAR Program represents an NOAA/NWS effort to create a cost-effective transition from basic and applied research to operations and services through collaborative research between operational forecasters and academic institutions that have expertise in the environmental sciences. These activities will engage researchers and students in applied research of interest to the operational meteorological community and will improve the accuracy of forecasts and warnings of environmental hazards by applying scientific knowledge and information to operational products and services. The NOAA CSTAR Program is a contributing element of the U.S. Weather Research Program (USWRP).

NOAA's program is designed to complement other agency contributions to that national effort. The CSTAR Program addresses NOAA's Mission Goal 3, Serve society's needs for weather and water information.

Funding Availability: The total funding amount available for proposals is anticipated to be approximately $750,000. However, there is no appropriation of funds at this time and no guarantee that there will be. Individual annual awards in the form of cooperative agreements are limited to a maximum of $125,000 per year for no more than three years. We anticipate making 4-6 awards.

Statutory Authority: Authority for the CSTAR program is provided by the following: 15 U.S.C. 313; 49 U.S.C. 44720(b); 33 U.S.C. 883d; 15 U.S.C. 2904; 15 U.S.C. 2934.

Catalog of Federal Domestic Assistance (CFDA) Number: 11.468, Applied Meteorological Research.

Application Deadline: Applications must be received and validated by Grants.gov, postmarked, or provided to a delivery service on or before 5 p.m. EDT, October 16, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Applications should be submitted through www.grants.gov. For those organizations without Internet access, applications may be sent to Sam Contorno, CSTAR Program Manager, NOAA/NWS, 1325 East-West Highway, Room 15330, Silver Spring, Maryland 20910.

Information Contacts: The point of contact is Sam Contorno, NOAA/NWS, 1325 East-West Highway, Room 15330, Silver Spring, Maryland 20910-3283, or by phone at 301-713-3557 ext. 150, by fax to 301-713-1253, or via e-mail at samuel.contorno@noaa.gov.

Questions concerning this announcement must be made via e-mail to samuel.contorno@noaa.gov. Questions and NOAA responses will be made public via the Web at http://www.nws.noaa.gov/ost/cstar.htm.

Eligibility: Eligible applicants are institutions of higher education and federally funded educational institutions such as the Naval Postgraduate School. This restriction is needed because the results of the collaboration are to be incorporated in academic processes which ensure academic multidisciplinary peer review as well as Federal review of scientific validity for use in operations.

Cost Sharing Requirements: No cost sharing is required under this program.

Intergovernmental Review: Applications under this program are not subject to Executive Order 12372, Intergovernmental Review of Federal Programs.

2. Remote Community Alert Systems Program 2010

Summary Description: The Remote Community Alert Systems Program 2010 represents a NOAA/NWS effort to provide for outdoor alerting technologies in remote communities effectively underserved by commercial mobile service for the purpose of enabling residents of those communities to receive emergency messages. These activities will engage the private sector, academia, county and local governments with their State Government office, U.S. Territory or Possession Government office or Tribal Community Government office in opportunities and technologies to further disseminate emergency messages. This program is a contributing element of the Warning, Alert, and Response Network (WARN) Act, and is designed to complement other agency contributions to that national effort. This program adopts the Federal Communications Commission's definition of the term “remote” which means an area consisting of a county with a population density of 100 persons per square mile or less, based on the most recently available Census data. Also, “commercial mobile service” means those services that are required to provide E911 services in accordance with Section 20.18 of the Commission's rules. “Effectively underserved” identifies “remote communities” that do not receive “commercial mobile service” as demonstrated by coverage maps, technical analysis, field tests, or any other reasonable means.

Funding Availability: The total funding amount available for proposals is anticipated to be approximately $2,000,000. We anticipate making multiple awards, approximately 20, ranging from $50,000 to $250,000.

Statutory Authority: Authority for the Remote Community Alert Systems Program is provided by: 47 U.S.C. 1204.

Catalog of Federal Domestic Assistance (CFDA) Number: 11.468, Applied Meteorological Research.

Application Deadline: Applications must be received on or before 5 p.m. EST, February 26, 2010. For applications submitted through Grants.gov, timeliness will be determined by the time and date indicator in the grants.gov submission. Please note: Validation or rejection of your application by Grants.gov may take up to 2 business days after submission. Please consider this process in developing your submission timeline. For applications submitted by hard copy, the submission date will be the time stamp on the received documents. Applications received after the date and time due will not be reviewed.

Address for Submitting Proposals: Applications must be submitted through www.grants.gov. For those organizations without Internet access, applications may be sent to Craig Hodan, NOAA/NWS, 1325 East-West Highway, Room 3348, Silver Spring, Maryland 20910. E-mail and fax submissions will not be accepted.

Information Contacts: Craig Hodan, NOAA/NWS, 1325 East-West Highway, Room 3348, Silver Spring, Maryland 20910, Phone: 301-713-9480 x 187, e-mail: craig.hodan@noaa.gov.

Eligibility: Eligible applicants are State Governments, U.S. Territories or Possessions and Tribal Communities. This restriction is needed to efficiently manage the potential number of applications. Private sector, academia, County and Local governments must collaborate with their State Government office, U.S. Territory or Possession Government office or Tribal Community Government office to have their project proposal included in an application from the State Government, U.S. Territory or Possession or Tribal Community.

Cost Sharing Requirements: No cost sharing is required under this program.

Intergovernmental Review: Applications under this program are not subject to Executive Order 12372, Intergovernmental Review of Federal Programs.

Oceanic and Atmospheric Research (OAR)

1. 2010 NMFS—Sea Grant Fellowships in Marine Resource Economics

Summary Description: The Graduate Fellowship Program generally awards two new PhD fellowships each year to students who are interested in careers related to the development and implementation of quantitative methods for assessing the economics of the conservation and management of living marine resources. Fellows will work on thesis problems of public interest and relevance to NMFS under the guidance of NMFS mentors at participating NMFS Science Centers or Laboratories. The NMFS—Sea Grant Fellowships in Marine Resource Economics meets NOAAs Mission goal to “Protect, Restore and Manage the Use of Coastal and Ocean Resources Through Ecosystem-Based Management.”

Funding Availability: The NMFS—Sea Grant Joint Graduate Fellowship Program in Marine Resource Economics expects to support two new fellowships for up to 2 years for each fellowship.

Statutory Authority: Authority for the Resource Economics Graduate Fellowship Program is provided by the following: 33 U.S.C. 1127(a).

Catalog of Federal Domestic Assistance (CFDA) Number: 11.417, Sea Grant Support.

Application Deadline: Applications must be received and validated by Grants.gov, postmarked, or provided to a delivery service on or before 4 p.m. ET, February 12, 2010. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Applications must be submitted through www.Grants.gov. For those organizations without Internet access, applications may be sent to: National Sea Grant College Program, 1315 East-West Highway, Silver Spring, MD 20910. Facsimile transmission and electronic mail submission of applications will not be accepted.

Information Contacts: Contact Terry Smith, National Sea Grant College Program, 1315 East-West Highway, Silver Spring, MD 20910; phone: (301) 734-1084; e-mail: Terry.Smith@noaa.gov.

Eligibility: Prospective Fellows must be United States citizens. At the time of application, prospective Marine Resource Economics Fellows must be admitted to a PhD degree program in natural resource economics or a related field at an institution of higher education in the United States or its territories or submit a signed letter from the institution indicating provisional acceptance to a PhD degree program conditional on obtaining financial support such as this fellowship. Applications must be submitted by the institution of higher education, which may be any such institution in the United States or its territories.

Cost Sharing Requirements: Of the $38,500 award, 50 percent ($19,250) will be contributed by NMFS, 33⅓ percent ($12,833) by the National Sea Grant Office (NSGO), and 16⅔ percent ($6,417) by the institution of higher education as the required 50 percent match of NSGO funds.

Intergovernmental Review: Applications under this program are not subject to Executive Order 12372, Intergovernmental Review of Federal Programs.

2. 2010 NMFS-Sea Grant Fellowships in Population Dynamics

Summary Description: The Graduate Fellowship Program awards at least two new PhD fellowships each year to students who are interested in careers related to the population dynamics of living marine resources and the development and implementation of quantitative methods for assessing their status. Fellows will work on thesis problems of public interest and relevance to NMFS under the guidance of NMFS mentors at participating NMFS Science Centers or Laboratories. The NMFS-Sea Grant Fellowships in Population Dynamics meets NOAA's Mission goal of “Protect, Restore and Manage the Use of Coastal and Ocean Resources Through Ecosystem-Based Management”.

Funding Availability: The Graduate Fellowship Program awards at least two new PhD fellowships each year to students who are interested in careers related to the population dynamics of living marine resources and the development and implementation of quantitative methods for assessing their status. The award for each Fellowship, contingent upon the availability of Federal funds, will be a multi-year cooperative agreement in the amount of $38,500 per year for up to three years. This involvement includes serving for 10-20 days aboard a research or commercial vessel during a scientific survey or experimental activity.

Additionally, the Fellow may work on his/her thesis research or related activity at a participating NMFS facility. The Fellow's work will be overseen by a NMFS mentor who will provide advice and guidance.

Statutory Authority: Authority for the Population Dynamics Graduate Fellowship Program is provided by the following: 33 U.S.C. 1127(a).

Catalog of Federal Domestic Assistance (CFDA) Number: 11.417, Sea Grant Support.

Application Deadline: Applications must be received and validated by Grants.gov, postmarked, or provided to a delivery service on or before 4 p.m. ET, February 12, 2010. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Applications must be submitted through www.Grants.gov. For those organizations without Internet access, applications may be sent to: National Sea Grant College Program, 1315 East-West Highway, Silver Spring, MD 20910. Facsimile transmission and electronic mail submission of applications will not be accepted.

Information Contacts: Contact Terry Smith, National Sea Grant College Program, 1315 East-West Highway, Silver Spring, MD 20910; phone: (301) 734-1084; e-mail: Terry.Smith@noaa.gov.

Eligibility: Prospective Fellows must be United States citizens. At the time of application, prospective Population Dynamics Fellows must be admitted to a PhD degree program in population dynamics or a related field such as applied mathematics, statistics, or quantitative ecology at an institution of higher education in the United States or its territories, or submit a signed letter from the institution indicating provisional acceptance to a PhD degree program conditional on obtaining financial support such as this fellowship.

Applications must be submitted by the institution of higher education, which may be any such institution in the United States or its territories.

Cost Sharing Requirements: Of the $38,500 award, 50 percent ($19,250) will be contributed by NMFS, 33⅓ percent ($12,833) by the National Sea Grant Office (NSGO), and 16⅔ percent ($6,417) by the institution of higher education as the required 50 percent match of NSGO funds.

Intergovernmental Review: Applications under this program are not subject to Executive Order 12372, Intergovernmental Review of Federal Programs.

3. 2010 Sea Grant/Regional Team Climate Engagement

Summary Description: For FY 2010, the NOAA National Sea Grant College Program and Office of Program Planning and Integration anticipate making available up to $200,000 to support projects that advance priority climate engagement strategies throughout NOAA.

The climate engagement mini-grants will be awarded only to proposals endorsed jointly by the NOAA Regional Collaboration Team Lead and the Sea Grant Liaison to the NOAA Regional Collaboration Team (selected among the Sea Grant Directors programs in the region). Awards will be made as interoffice transfers to NOAA entities and cooperative agreements to non-Federal entities, or a combination of interoffice transfers and cooperative agreements for projects that support both NOAA and non-Federal entities. Although other federal, state, tribal, Native Hawaiian, other native cultures, academic and non-profit or non-governmental organizations can act as partners, the Project Principal Investigator of the grant must be a NOAA Federal employee or a Sea Grant employee. Requests for individual projects may not exceed $25,000. Up to eight mini-grants of up to $25,000 are expected to be awarded through a competitive process, subject to the availability of funds. This competition supports four NOAA Program Goals: “Protect, Restore and Manage the Use of Coastal and Ocean Resources Through Ecosystem-Based Management”; “Understand Climate Variability and Change To Enhance Society's Ability To Plan and Respond”; Serve Society's Needs for Weather and Water Information”; and “Support the Nation's Commerce With Information for Safe, Efficient, and Environmentally Sound Transportation”.

Funding Availability: For FY 2010, the NOAA National Sea Grant College Program and Office of Program Planning and Integration anticipate making available up to $200,000 to support projects that advance priority climate engagement strategies throughout NOAA.

The climate engagement mini-grants will be awarded only to proposals endorsed jointly by the NOAA Regional Collaboration Team Lead and the Sea Grant Liaison in the region. Awards will be made as interoffice transfers to NOAA entities and cooperative agreements to non-Federal entities, or through a combination of interoffice transfers and cooperative agreements for projects that support both NOAA and non-Federal entities. Although other Federal, Sea Grant, state, tribal, Native Hawaiian, other native cultures, academic and non-profit or non-governmental organizations can act as partners, the Project PI of the grant must be either a NOAA Regional Collaboration Team member or a Sea Grant employee, and the Co-PI must be the opposite, e. g., if a Sea Grant employee is the PI, then the NOAA Regional Collaboration Team member must be the Co-PI and vice versa. A maximum of one cooperative agreement award will be made per region. All other participating Sea Grant Programs and institutions must be handled through subawards. It is expected that in each NOAA Region, the Sea Grant Programs and NOAA Regional Collaboration Team, working through their Team Lead and Sea Grant Liaison, will identify and submit only one application for that Region.

Statutory Authority: Authority for the Climate Extension Partnership mini-grants is provided by 33 U.S.C. 1121 et seq., as amended.

Catalog of Federal Domestic Assistance (CFDA) Number(s): 11.417, Sea Grant Support.

Application Deadline: Applications must be received and validated by Grants.gov, postmarked, or provided to a delivery service on or before 11:59 p.m. EDT, September 1, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

Address for Submitting Proposals: Applications must be submitted through grants.gov by the Sea Grant entity of the collaboration, unless the applicant does not have Internet access. Applicants without Internet access must submit the proposal in hardcopy (one unbound original and one copy) to Gina Barerra, National Sea Grant College Program, R/SG, Attn: Climate Extension Partnership Minigrants, Room 11841, NOAA, 1315 East-West Highway, Silver Spring, MD 20910.

If the application does not request any funding for non-Federal investigators (that is, the Sea Grant co-principal investigator is not requesting any funding), then contact Jim Murray listed in Information Contacts, below, for instructions on submitting the application.

Information Contacts: Jim Murray in NOAA's National Sea Grant Office jim.d.murray@noaa.gov, or phone 301-734-1070 or Lisa Iwahara in NOAA's Program Planning and Integration Office lisa.iwahara@noaa.gov, or phone 301-713-1622 x 181.

Eligibility: Only NOAA entities or Sea Grant institutions are eligible to apply. Only applications that include a co-signed letter of endorsement from the Regional Collaboration Team Lead and the Sea Grant Liaison are eligible. Information on the Regional Collaboration Teams is available at http://www.ppi.noaa.gov/PPI_Capabilities/regional_collaboration.html.

Cost Sharing Requirements: None required (per 33 U.S.C 1124(b), special grants).

Intergovernmental Review: Applications under this Program are not subject to Executive Order 12372, “Intergovernmental Review of Federal Programs.”

4. 2011 National Sea Grant College Program Dean John A. Knauss Marine Policy Fellowship

Summary Description: This notice announces that applications may be submitted for the Dean John A. Knauss Marine Policy Fellowship (Knauss Sea Grant Fellowship Program). The Knauss Sea Grant Fellowship Program is a program initiated by the National Oceanic and Atmospheric Administration (NOAA) National Sea Grant College Program, in fulfilling its broad educational responsibilities and legislative mandate of the Sea Grant Act, to provide educational experience in the policies and processes of the Legislative and Executive Branches of the Federal Government to graduate students in marine and aquatic-related fields. The Knauss Sea Grant Fellowship Program meets NOAA's Mission goal of Protect, Restore and Manage the Use of Coastal and Ocean Resources Through Ecosystem-Based Management.

Funding Availability: The state SGCP receives and administers the overall cooperative agreement of $46,000 per student on behalf of each Fellow selected from their program. Of this amount, the state SGCP provides $35,000 to each Fellow for stipend and living expenses (per diem). Of the total cooperative agreement amount, the state SGCP provides $9,000 to cover mandatory health insurance for the Fellow and moving expenses.

Any remaining funds of the $9,000 shall be used for the fellow during the Fellowship year, first to satisfy academic degree-related activities, and second for Fellowship-related activities. Finally, up to $2,000 from the total $46,000 can be used to cover placement week costs. Indirect costs are not allowable from the Federal funds either for the Fellowships or for any costs associated with the Fellowships, including the $2,000 budgeted for placement week. During the Fellowship, the host may provide supplemental funds for work-related travel by the Fellow. Not less than 30 applicants will be selected, of which the selected applicants assigned to the Legislative branch may be limited to 10.

Statutory Authority: 33 U.S.C. 1127(b).

Catalog of Federal Domestic Assistance (CFDA) Number: 11.417, Sea Grant Support.

Application Deadline: Applications from prospective fellows to the State Sea Grant College Programs (SGCP) are due by 5 p.m. February 19, 2010. Contact your state SGCP (see IV.A. of the Federal Funding Opportunity for program contact information) for information on application submission deadlines. Selected applications from the sponsoring state SGCP must be received and validated by Grants.gov, postmarked, or provided to a delivery service on or before 5 p.m. April 2, 2010. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted. For state SGCP applications submitted through Grants.gov, a date and time receipt indication is included and will be the basis of determining timeliness. Hard copy applications will only be accepted if a state SGCP can justify in writing that Internet access is not available to them at the time of submission. Hard copy applications will be date and time stamped when they are received.

Address for Submitting Proposals: Eligible graduate students must submit applications to the state SGCP. The addresses and contact information for each state SGCP can be found at http://www.seagrant.noaa.gov/other/programsdirectors.html. The addresses can also be received from Miguel Lugo, Knauss Sea Grant Fellowship Program Manager, National Sea Grant College Program, 1315 East-West Highway, R/SG, Rm 11828, Silver Spring, MD 20910. After completion of the state SGCP review, selected applications will be submitted through www.grants.gov to the National Sea Grant College Program. State SGCP without Internet access may send hard copy proposals to Miguel Lugo at the above address.

Information Contacts: Contact Miguel Lugo, Knauss Fellowship Program Manager, National Sea Grant College Program, 1315 East-West Highway, R/SG, Rm 11828, Silver Spring, MD 20910; phone: (301) 734-1077 x 1075.

Eligibility: Any student, regardless of citizenship, who, on February 19, 2010, is in a graduate or professional program in a marine or aquatic-related field at a United States accredited institution of higher education in the United States or U.S. Territories may apply to the state SGCP. Only state SGCP are eligible to submit applications to the National Sea Grant College Program.

Cost Sharing Requirements: None required.

Intergovernmental Review: Applications under this program are not subject to Executive Order 12372, Intergovernmental Review of Federal Programs.

5. Climate Program Office for FY 2010

Summary Description: NOAA's Climate Mission is to understand climate variability and change to enhance society's ability to plan and respond. The long-term climate efforts of NOAA are designed to develop a predictive understanding of variability and change in the global climate system, and to advance the application of this information in climate-sensitive sectors through a suite of process research, observations and modeling, and application and assessment activities. The NOAA Climate Program Office coordinates climate activities across all NOAA in fulfillment of NOAA's Climate Mission. The Program partners with Federal, academic, private, and international research institutions; the Program is also a key contributing element of the U.S. Climate Change Science Program (CCSP).

Funding Availability: In FY 2008, approximately $14M in first-year funding was available for 102 new awards. While similar funds and number of awards are anticipated in FY 2010, the number of new awards and funding levels depends upon the final FY 2010 budget appropriations. It is anticipated that awards will depend upon the program, but for the office as a whole be up to three years in length and cost between $50,000 and $200,000 per year (e.g., awards from the Sector Applications Research Program are limited to $150,000 per year). Federal funding for FY 2011 may be used to fund some awards submitted under this Competition. Current or previous grantees are eligible to apply for a new award that builds on, but does not replicate, activities covered in the current or previous award. Current grantees should not apply for supplementary funding through this announcement.

Statutory Authority: 49 U.S.C. 47720(b), 15 U.S.C. 2904, 15 U.S.C. 2931-2934.

Catalog of Federal Domestic Assistance (CFDA) Number: 11.431, Climate and Atmospheric Research.

Application Deadline: Full applications for all Competitions other than U.S. CLIVAR Climate Process Teams must be received and validated by Grants.gov, postmarked, or provided to a delivery service by 5 p.m. ET, August 31, 2009. Applications received after that time will not be considered for funding. For applications submitted through grants.gov a date and time receipt indication is included and will be the basis of determining timeliness. Hard copy submissions will be date and time stamped when they are received in the Climate Program Office. Faxed or e-mailed copies of applications will not be accepted.

Full applications for U.S. CLIVAR Climate Process Teams must be received and validated by Grants.gov, postmarked, or provided to a delivery service by 5 p.m. ET, September 15, 2009. Applications received after that time will not be considered for funding. For applications submitted through grants.gov a date and time receipt indication is included and will be the basis of determining timeliness. Hard copy submissions will be date and time stamped when they are received in the Climate Program Office. Faxed or e-mailed copies of applications will not be accepted.

Important: All applicants, both electronic and paper, should be aware that adequate time must be factored into applicant schedules for delivery of the application. Electronic applicants are advised that the volume on Grants.gov is currently extremely heavy, and if Grants.gov is unable to accept applications electronically in a timely fashion, applicants are encouraged to exercise their option to submit applications in paper format. You should contact the Grants.Gov office in the event you are having difficulty submitting an application electronically. Paper applicants should allow adequate time to ensure a paper application will be received on time, taking into account that guaranteed overnight carriers are not always able to fulfill their guarantees.

Address for Submitting Proposals: Applications are submitted through Grants.Gov “Apply for Grants”. If an applicant does not have Internet access, the CPO Grants Manager Diane Brown should be contacted by mail at NOAA Climate Program Office (R/CP1), SSMC3, Room 12112, 1315 East-West Highway, Silver Spring, MD 20910 for hard copy submission instructions. Please allow two weeks after receipt for a response.

Information Contacts: Please visit the CPO Web site for further information http://www.climate.noaa.gov/ or contact the CPO Grants Manager, Diane Brown by mail (see address above). Please allow up to two weeks after receipt for a response.

Eligibility: Eligible applicants are institutions of higher education, other nonprofits, commercial organizations, international organizations, and state, local and Indian tribal governments. Federal agencies or institutions are not eligible to receive Federal assistance under this notice.

Cost Sharing Requirements: None required.

Intergovernmental Review: Applications under this program are not subject to Executive Order 12372, Intergovernmental Review of federal programs.

6. FY 2010 Ocean Exploration and Research Appropriation—Marine Archaeology

Summary Description: Proposals for exploration and discovery of significant maritime heritage sites are the priority. Submerged, previously subaerial, landscapes, shipwrecks, and other maritime cultural sites are typical focus subjects of the program.

Proposals will emphasize the early phases of field archaeology: searching, locating, evaluating or inventorying sites. This Announcement does not invite proposals to support later phases of archaeological research, such as intensive site excavations, and major conservation projects. All applicants must convincingly describe: The potential archaeological significance of their site(s), and their importance to American or world history; how their research fits within the realm of exploration; why their methodologies are innovative and make the most economical use of current marine technology. NOAA's Office of Ocean Exploration and Research (OER) is seeking pre-proposals and full proposals to support its mission, consistent with NOAA's Strategic Plan http://www.nrc.noaa.gov, to search, investigate, and document marine archaeological resources. OER is seeking proposals for exploration and discovery of significant maritime heritage sites, including submerged, previously subaerial, landscapes, shipwrecks, aircraft, and other maritime cultural sites.

Competitive OER proposals will be bold, innovative and interdisciplinary in their approach and objectives. Proposals will emphasize the early phases of field archaeology: searching, locating, evaluating or inventorying sites. Marine Archaeology projects may be conducted in any of the world's oceans, coasts or Great Lakes regions, on any suitable platform, vessel or other charter. It is anticipated that up to a total of approximately $400,000 will be available through this announcement. Only marine archaeology proposals will be funded, any other kind of project will not be reviewed. Applicants are encouraged to visit the Ocean Explorer Web site http://www.oceanexplorer.noaa.gov to familiarize themselves with past and present OER-funded marine archaeological activities. Background on how to apply and the required proposal cover sheets are accessible through the OER Office Web site at http://www.explore.noaa.gov/opportunity/welcome.html. The program priorities for this opportunity support NOAA's mission support goal to “Protect, Restore, and Manage Use of Coastal and Ocean Resources through Ecosystem-Based Management.”

Funding Availability: In anticipation of the FY 2010 President's Budget, OER anticipates up to $400,000 will be available through this announcement for Marine Archaeology. OER anticipates supporting approximately three to four awards through this solicitation, averaging $100,000 each. The OER Director may hold over select proposals submitted for FY 2010 funding for consideration in FY 2011. The amount of funding available through this announcement is subject to the final FY 2010 appropriation for Ocean Exploration and Research. Publication of this announcement does not obligate NOAA to fund any specific project or to obligate all or any part of available funds. There is no guarantee that sufficient funds will be available to initiate or continue research activities where funding has been recommended by OER. The exact amount of funds that OER may recommend be granted will be determined in pre-award negotiations between the applicant and NOAA representatives. Future opportunities for submitting proposals may be available and will depend on OER funding levels.

Statutory Authority: 33 U.S.C. 3403(a)(4).

Catalog of Federal Domestic Assistance (CFDA) Number: 11.460, Special Oceanic and Atmospheric Projects.

Application Deadline: Completed pre-proposals are required for all categories and must be received by 5 p.m. EST August 17, 2009. A complete pre-proposal is a prerequisite for submission of a full proposal.

Full proposals must be received and validated by Grants.gov, postmarked, or provided to a delivery service on or before 5 p.m. EST, October 13, 2009. Please note: Validation or rejection of your application by Grants.gov may take up to 2 business days after submission. Please consider this process in developing your submission timeline. Applications received after the deadline will be rejected/returned to the sender without further consideration. Use of U.S. mail or another delivery service must be documented with a receipt. No facsimile or electronic mail full proposals will be accepted from non-Federal applicants.

Address for Submitting Proposals: Pre-proposal submissions can be either by e-mail (preferred, send to OAR.OE.FAQ@noaa.gov) or by hard-copy (send three copies to the mailing address below). If by e-mail, please put your last name in the subject heading along with the words OER Pre-proposal, e.g., “Smith OER Pre-proposal.” Adobe PDF format is preferred. No facsimile pre-proposals will be accepted. Full proposal submissions for non-Federal applicants must be submitted through Grants.gov. Federal applicants are ineligible to submit via grants.gov and may submit their submissions by e-mail (preferred, send to OAR.OE.FAQ@noaa.gov) or by hard-copy (send three copies to the mailing address below). Non-Federal applicants without Internet access may submit hard-copies to: Attn: Dr. Nicolas Alvarado, Ocean Exploration Proposal Manager, NOAA Office of Ocean Exploration & Research, SSMC III, 10th Floor, 1315 East-West Highway, Silver Spring, Maryland 20910. No e-mail from non-Federal applicants or facsimile full proposal submissions from Federal and non-Federal applicants will be accepted.

Information Contacts: For further information contact the NOAA Office of Ocean Exploration at (301) 734-1015 or submit inquiries via e-mail to the Frequently Asked Questions address: OAR.OE.FAQ@noaa.gov. E-mail inquiries should include the Principal Investigator's name in the subject heading. Inquiries can be mailed to ATTN: Dr. Nicolas Alvarado (Ocean Exploration Proposal Manager) NOAA Office of Ocean Exploration and Research 1315 East-West Highway SSMC3, 10th Floor, Silver Spring, Maryland, 20910.

Eligibility: Eligible applicants are institutions of higher education; other nonprofits; commercial organizations; foreign governments; organizations under the jurisdiction of foreign governments; international organizations; state, local and Indian tribal governments; and Federal agencies. Please Note: Before non-NOAA Federal applicants may be funded, they must demonstrate that they have legal authority to receive funds from another Federal agency in excess of their appropriation. Because this announcement is not proposing to procure goods or services from applicants, the Economy Act (31 U.S.C. 1535) is not an appropriate legal basis.

Cost Sharing Requirements: Cost-sharing is not required.

Intergovernmental Review: Applications under this program are subject to Executive Order 12372, “Intergovernmental Review of Federal Programs.” Applicants must contact their State's Single Point of Contact (SPOC) to find out about and comply with the State's process under EO 12372. The names and addresses of the SPOC's are listed in the Office of Management and Budget's Web site: http://www.whitehouse.gov/omb/grants/spoc.html.

National Environmental Satellite Data and Information Service (NESDIS)

1. Research in Satellite Data Assimilation for Numerical Weather, Climate and Environmental Forecast Systems

Summary Description: The NOAA/NASA/DOD Joint Center for Satellite Data Assimilation (JCSDA) is a distributed center that engages units of NASA: Goddard Space Flight Center (GSFC) Earth-Sun Exploration Division; NOAA: NESDIS Center for Satellite Applications and Research (STAR), National Weather Service (NWS), National Centers for Environmental Prediction (NCEP)/Environmental Modeling Center (EMC), and Office of Oceanic and Atmospheric Research (OAR); US Navy: Oceanographer of the Navy and the Naval Research Laboratory (NRL); and U.S. Air Force Air Weather Agency. The Joint Center's goal is to accelerate the abilities of NOAA, DOD, and NASA to ingest and effectively use the large volumes of data from current satellite-based instruments and planned satellite missions over the next 10 years. JCSDA activities are divided into infrastructure development and proposal-driven scientific projects. Infrastructure activities will focus initially on the development and maintenance of a scientific backbone for the JCSDA, including a community-based radiative transfer model, a community-based surface emissivity model, and numerical prediction systems for performing assimilation experiments with real and simulated observations from new and future satellite instruments. The proposal-driven scientific projects are the primary mechanism for accelerating the transition of research and technological advances in remote sensing and data assimilation into the operational and product driven weather, ocean, climate, and environmental prediction systems. This mechanism also aims at improving community radiative transfer models and surface emissivity models, and characterizing the error covariances related to forecast models, radiative transfer models and satellite observations.

This research is directed toward acceleration of the science of satellite data assimilation in numerical weather forecast models and in ocean and land surface models used for climate prediction and operational ocean applications. A primary measure of potential impact in this solicitation will be the acceleration of satellite data usage into NOAA, and DoD forecast systems, and the improvement of forecasts from those systems. This opportunity supports the JCSDA short-term goal to “contribute to making the forecast skill of the operational NWP systems of the JCSDA partners internationally competitive by assimilating the largest possible number of satellite observations in the most effective way.” It also supports the JCSDA partners individual missions, including NOAA's mission goal of Weather and Water—Serve Society's Needs for Weather and Water Information, as well as NASA's mission to understand and protect our home planet and DoD's Air Force and Navy respective missions.

Research supporting development of the radiative transfer models used in assimilation applications should be in fast radiative transfer codes such as those used in real-time Numerical Weather Prediction (NWP). Broader research topics in data assimilation, data impact, and improvement of radiative schemes for data assimilation applications that do not have the potential for direct application to real-time NWP or other operational environmental prediction systems are of less interest for this announcement.

Funding Availability: Total funding available for this program is anticipated to be approximately $600,000. Individual annual awards in the form of grants or cooperative agreements are expected to range from $50,000 to $150,000, although larger amounts may be awarded. It is anticipated that 4-6 awards will be made.

Statutory Authority: Authority for this program are provided under 15 U.S.C. 313, 49 U.S.C. 44720(b); 15 U.S.C. 2901.

Catalog of Federal Domestic Assistance (CFDA) Number: 11.440, Environmental Sciences, Applications, Data, and Education.

Application Deadline: Letters of Intent must be received by NOAA/NESDIS no later than 5 p.m. EDT Time August 24, 2009. For Letters of Intent received after that date, a timely response from the JCSDA may not be possible.

Full proposals must be received and validated by Grants.gov, postmarked, or provided to a delivery service on or before 5 p.m. EDT on October 13, 2009. Please note: Validation or rejection of your application by Grants.gov may take up to 2 business days after submission. Please consider this process in developing your submission timeline.

For LOIs sent by e-mail or fax, the date and time indicator on the e-mail or fax will be used. LOIs sent by hard copy will be date and time stamped when they are received. For full proposals sent through Grants.gov, the Grants.gov date and time indicator will be used. Full proposals sent by hard copy will be date and time stamped when they are received. All proposals must be submitted in accordance with the guidelines below. Failure to follow these guidelines will result in proposals being returned to the submitter.

Address for Submitting Proposals: Letters of Intent (LOIs) may be e-mailed to Sid.Boukabara@noaa.gov. Hard copies may be sent to Dr. Sid Boukabara, JCSDA, NOAA/NESDIS, 5200 Auth Rd., Rm 808, Camp Springs, MD 20746. LOIs may be faxed to 301-763-8149 and directed to Dr. Sid Boukabara. Full proposals from non-Federal organizations must be submitted through www.grants.gov, unless the organization is without Internet access. In that case, hard copy proposals may be sent to Dr. Sid Boukabara, JCSDA, NOAA/NESDIS, 5200 Auth Rd., Rm 808, Camp Springs, MD 20746. Full proposals from federal agencies must be submitted by e-mail to Sid.Boukabara@noaa.gov or sent by hard copy to Dr. Sid Boukabara, Deputy Director, JCSDA, NOAA/NESDIS, 5200 Auth Rd., Rm 808, Camp Springs, MD 20746.

Information Contacts: Administrative questions: Ms. Patty Mayo, by phone (301) 763-8127, x107, fax: 301-763-8108, or e-mail: patty.mayo@noaa.gov. Technical questions: Dr. Sid Boukabara, (NOAA Program Officer), by phone 301-763-8136, fax: 301-763-8149 or via e-mail: Sid.Boukabara@noaa.gov.

Eligibility: Eligible applicants are institutions of higher education; other nonprofit; for profits; international organizations; state, local and Indian tribal governments; and Federal agencies. Applications from non-Federal and Federal applicants will be competed against each other. Proposals selected for funding from non-Federal applicants will be funded through a grant or cooperative agreement as described in this notice. Proposals selected for funding from NOAA scientists shall be effected by an intra-agency fund transfer. Proposals select for funding from non-NOAA Federal agency will be funded through an inter-agency transfer. Please Note: Before non-NOAA Federal applicants may be funded, they must demonstrate that they have legal authority to receive funds from another Federal agency in excess of their appropriation. The only exception to this is governmental research facilities for awards issued under the authority of 49 U.S.C. 44720(b). Because this announcement is not proposing to procure goods or services from applicants, the Economy Act (31 U.S.C. 1535) is not an appropriate legal basis.

Cost Sharing Requirements: No cost sharing nor matching is required under this program.

Intergovernmental Review: Applications under this program are not subject to Executive Order 12372, “Intergovernmental Review of Federal Programs.”

7. Student Opportunity for Learning

Summary Description: The National Environmental Satellite, Data, and Information Service (NESDIS), Office of Research and Applications (ORA), announces the availability of Federal assistance for an educational institution to provide a summer enrichment program for middle school student in the area Mathematics, Science, Engineering, and Technology (MSET) for minority and economically disadvantaged students. This program responds to a need for these targeted students to receive instruction and activities that will encourage them to pursue careers in (MSET) fields.

Funding Availability: NOAA believes its Science and Technology related fields as a whole will benefit significantly from encouraging students to pursue Mathematics, Science, Engineering and Technology Degrees. Current program plans assume the total resources provided through this announcement will support the two-week enrichment program. The total amount available for proposals is anticipated to be approximately $126,000. It is anticipated that three, one-year awards will be made from this budget. Funding is available to make the award for the first of these three planned awards, however, there is no guarantee that sufficient funds will be available to make all awards.

Publication of this notice does not oblige NOAA to award any specific project or to obligate any available funds. If one incurs costs prior to receiving an award agreement signed by an authorized NOAA official, one would do so solely at one's own risk of these costs not being included under the award.

Statutory Authority: Statutory authority for this program is provided under 15 U.S.C. 1540.

Catalog of Federal Domestic Assistance (CFDA) Number: 11.440, Environmental Sciences, Applications, Data, and Education.

Application Deadline: Applications must be received and validated by Grants.gov, postmarked, or provided to a delivery service on or before 4 p.m. EDT, October 19, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted. Hard copy proposals will be date and time stamped when they are received in the program office. Proposals received after the deadline will not be considered for award.

Address for Submitting Proposals: Proposals must be submitted electronically via http://www.grants.gov. For applicants without Internet access, hard copies (by postal mail, commercial delivery service, or hand delivery) may be sent to the Wallops CDA Station, Attn: Van Crawford, NOAA/NESDIS/WCDAS; 35663 Chincoteague Road, Wallops, Virginia 23337.

Information Contacts: Administrative or technical questions: Van D. Crawford, NOAA/NESDIS/WCDAS; 35663 Chincoteague Road, Wallops, Virginia 23337. Phone: 757-824-7375. E-mail van.d.crawford@noaa.gov.

Eligibility: Eligible applications can be from any institution of higher education in the United States.

Cost Sharing Requirements: None required.

Intergovernmental Review: Applications under this program are not subject to Executive Order 12372: Intergovernmental Review of Federal Programs.

V. Non-Competitive Financial Assistance Project Announcement

1. NOAA Coral Reef Conservation Grant Program—Coral Reef Ecosystem Research Grants

Summary Description: The NOAA Coral Reef Conservation Grant Program announces that it is providing funding to the NOAA Undersea Research Program (NURP) Centers for the Southeastern U.S., Florida, and Gulf of Mexico Region, the Southeast U.S. and Gulf of Mexico Center; and the Hawaii and Western Pacific Region, the Hawaii Undersea Research Laboratory, to administer two external, competitive coral reef ecosystem research grants programs. Research supported through these programs will address priority information needs identified by coral reef ecosystem managers and scientists. Coral reef research priorities supported through these programs will focus efforts on strategic management needs and understanding and addressing the following three key priority threats: impacts of fishing, impacts of land-based sources of pollution, and impacts of climate change. Specific priorities within these broad areas, and geographic preferences, will be indicated in each NURP Center's request for proposals. The NURP Center external coral reef research grants programs are part of the NOAA Coral Reef Conservation Grants Program under the Coral Reef Conservation Act of 2000. The program priorities for this opportunity support NOAA's mission support goal of: Ecosystems—Protect, Restore, and Manage Use of Coastal and Ocean Resources through Ecosystem-Based Management.

Funding Availability: Approximately $600,000 may be available in FY 2010 to support awards under this program.

Statutory Authority: Statutory authority for this program is provided under 16 U.S.C. 6403.

Catalog of Federal Domestic Assistance (CFDA) Number: 11.430, National Undersea Research Program.

Information Contact: John Tomczuk, 301-734-1009 or e-mail at john.tomczuk@noaa.gov. Announcements requesting proposals will be announced on: http://www.uncw.edu/nurc, for the NURP Center for the Southeastern U.S. and the Gulf of Mexico; on http://www.soest.hawaii.edu/HURL, for the NURP Center for Hawaii and the Western Pacific, the Hawaii Undersea Research Laboratory.

Cost Sharing Requirements: The awards require a 1:1 federal to non-federal match.

Intergovernmental Review: Applications under this program are not subject to Executive Order 12372, “Intergovernmental Review of Federal Programs.”

Limitation of Liability

Funding for programs listed in this notice is contingent upon the availability of Fiscal Year 2010 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that, they are required to provide a Dun and Bradstreet Data Universal Numbering System (DUNS) number during the application process. See the October 30, 2002 Federal Register (67 FR 66177) for additional information. Organizations can receive a DUNS number at no cost by calling the dedicated toll-free DUNS Number request line at 1-866-705-5711 or via the Internet at http://www.dunandbradstreet.com.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216-6-TOC.pdf, NEPA Questionnaire, http://www.nepa.noaa.gov/questionnaire.pdf, and the Council on Environmental Quality implementation regulations, http://ceq.eh.doe.gov/nepa/regs/ceq/toc-ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Compliance With Department of Commerce Bureau of Industry and Security Export Administration Regulations

(a) This clause applies to the extent that this financial assistance award involves access to export-controlled information or technology.

(b) In performing this financial assistance award, the recipient may gain access to export-controlled information or technology. The recipient is responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export-controlled information and technology.

(c) Definitions

(1) Deemed export. The Export Administration Regulations (EAR) define a deemed export as any release of technology or source code subject to the EAR to a foreign national, both in the United States and abroad. Such release is “deemed” to be an export to the home country of the foreign national. 15 CFR 734.2(b)(2)(ii).

(2) Export-controlled information and technology. Export-controlled information and technology is information and technology subject to the EAR (15 CFR parts 730 et seq.), implemented by the DOC Bureau of Industry and Security, or the International Traffic I Arms Regulations (ITAR) (22 CFR parts 120-130), implemented by the Department of State, respectively. This includes, but is not limited to, dual-use items, defense articles and any related assistance, services, software or technical data as defined in the EAR and ITAR.

(d) The recipient shall control access to all export-controlled information and technology that it possesses or that comes into its possession in performance of a financial assistance award, to ensure that access is restricted, or licensed, as required by applicable Federal laws, Executive Orders, and/or regulations.

(e) Nothing in the terms of this financial assistance award is intended to change, supersede, or waive the requirements of applicable Federal laws, Executive Orders or regulations.

(f) The recipient shall include this clause, including this paragraph (f), in all lower tier transactions (subawards, contracts, and subcontracts) under the financial assistance award that may involve access to export-controlled information technology.

NOAA implementation of Homeland Security Presidential Directive-12

If the performance of a financial assistance award, if approved by NOAA, requires recipients to have physical access to Federal premises for more than 180 days or access to a Federal information system, any items or services delivered under a financial assistance award shall comply with the Department of Commerce personal identity verification procedures that implement Homeland Security Presidential Directive-12, FIPS PUB 201, and the Office of Management and Budget Memorandum M-05-24. The recipient shall insert this clause in all subawards or contracts when the subaward recipient or contractor is required to have physical access to a Federally controlled facility or access to a Federal information system.

The Department of Commerce Pre-Award Notification Requirements for Grants and Cooperative Agreements

The Department of Commerce Pre-Award Notification Requirements for Grants and Cooperative Agreements contained in the Federal Register notice of February 11, 2008 (73 FR 7696) are applicable to this solicitation.

Paperwork Reduction Act

This document contains collection-of-information requirements subject to the Paperwork Reduction Act (PRA). The use of Standard Forms 424 and 424A, 424B, 424C, 424D, and SF-LLL has been approved by OMB under the respective control numbers 4040-0004, 4040-0006, 4040-0007, 4040-0008, 4040-0009, and 0348-0046. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Mitchell J. Ross,
Director, Acquisition and Grants Office, National Oceanic and Atmospheric Administration (NOAA).

[FR Doc. E9-16810 Filed 7-15-09; 8:45 am]

BILLING CODE 3510-12-P